FEDERAL COMMUNICATIONS COMMISSION

47 CFR Part 2

[DA 99-2743]

Non-Substantive Revisions to the Table of Frequency Allocations

AGENCY: Federal Communications Commission.

ACTION: Final rule.

SUMMARY: This document revises the Table of Frequency Allocations (“Table”). This action is necessary in order to more clearly display the Table and to assist the Federal Register staff by making easier for them to maintain the Table in the Code of Federal Regulations. The intended effect of this action is to present the Table in a clearer manner, thereby assisting the public in making decisions about the radio spectrum.

DATES: Effective January 31, 2000.

FOR FURTHER INFORMATION CONTACT: Tom Mooring, Office of Engineering and Technology, (202) 418-2450.

SUPPLEMENTARY INFORMATION: This is a summary of the Commission's Memorandum Opinion and Order, DA 99-2743, adopted December 16, 1999, and released December 20, 1999. The full text of this Commission decision is available for inspection and copying during normal business hours in the FCC Reference Center (Room TW-A257), 445 12th Street, S.W., Washington, D.C., and is available on the FCC's Internet site at www.fcc.gov/Bureaus/Engineering_Technology_Orders/1999. The document also may be purchased from the Commission's duplication contractor, International Transcription Service, (202) 857-3800, 1231 20th Street, N.W. Washington, D.C. 20036.

Summary of the Order

1. By this action, the Commission's Office of Engineering and Technology and Office of Managing Director amends the Table and supporting sections of the Commission's rules in order to more clearly display the Table and to assist the Federal Register staff by making it easier for them to maintain the Table in the Code of Federal Regulations. We take this action with the concurrence of the National Telecommunications and Information Administration. We also take this opportunity to make the following types of non-substantive amendments:

• The International Table in the Commission's rules is updated to reflect the [International] Table of Frequency Allocations as it is found in the 1998 International Telecommunication Union Radio Regulations;

• International footnotes in the United States Table that have not been substantively revised are re-numbered;

• Expired footnotes or portions of footnotes are removed from the United States Table;

• The special-use frequencies column of the Table is removed; and

• Various typographical errors and omissions are corrected.

As a by-product of this action, we will now be able to place the Table on the Commission's web site and to update the on-line Table shortly after any amendments to the Table have been released.¹ This ministerial action does not make any substantive change to any licensee's legal rights and responsibilities.

¹ The on-line Table may be found at http://www.fcc.gov/oet/spectrum/. We caution users of the on-line Table that the Table as published by Federal Register remains the legal source document.

2. Part 2 of the Commission's rules, IS AMENDED as set forth, effective upon publication in the Federal Register. This action is taken pursuant to authority found in sections 4(i) and 303 of the Communications Act of 1934, as amended, 47 U.S.C. 154(i) and 303, and in §§ 0.31, 0.231(b) and 0.241 of the Commission's rules, 47 CFR 0.31, 0.231(b) and 0.241.

List of Subjects in 47 CFR Part 2

Radio, Reporting and recordkeeping requirements.

Federal Communications Commission.
Magalie Roman Salas,
Secretary.

Rule Changes

Part 2 of title 47 of the Code of Federal Regulations is amended as follows:

PART 2—FREQUENCY ALLOCATIONS AND RADIO TREATY MATTERS; GENERAL RULES AND REGULATIONS

1. The authority citation for part 2 continues to read as follows:

Authority: 47 U.S.C. 154, 302, 303, 307, 336 and 337, unless otherwise noted.

2. Paragraph 2.100 is revised to read as follows:

§ 2.100 International regulations in force.

The provisions of the Radio Regulations (Geneva, 1998) apply provisionally as from January 1, 1999, unless an earlier date is specified in Article S59.

3. Section 2.104 is revised to read as follows:

§ 2.104 International Table of Frequency Allocations.

(a) The International Table of Frequency Allocations is subdivided into the Region 1 Table (column 1 of § 2.106), the Region 2 Table (column 2 of § 2.106), and the Region 3 Table (column 3 of § 2.106). The International Table is included for informational purposes only.

(b) Regions. For the allocation of frequencies the International Telecommunication Union (ITU) has divided the world into three Regions ¹ as shown in Figure 1 of this section and described as follows:

¹ It should be noted that where the words “regions” or “regional” are without a capital “R,” they do not relate to the three Regions here defined for purposes of frequency allocation.

(1) Region 1. Region 1 includes the area limited on the east by line A (lines A, B and C are defined below) and on the west by line B, excluding any of the territory of the Islamic Republic of Iran which lies between these limits. It also includes the whole of the territory of Armenia, Azerbaijan, Russian Federation, Georgia, Kazakstan, Mongolia, Uzbekistan, Kyrgyzstan, Tajikistan, Turkmenistan, Turkey and Ukraine and the area to the north of Russian Federation which lies between lines A and C.

(2) Region 2. Region 2 includes the area limited on the east by line B and on the west by line C.

(3) Region 3. Region 3 includes the area limited on the east by line C and on the west by line A, except any of the territory of Armenia, Azerbaijan, Russian Federation, Georgia, Kazakstan, Mongolia, Uzbekistan, Kyrgyzstan, Tajikistan, Turkmenistan, Turkey and Ukraine and the area to the north of Russian Federation. It also includes that part of the territory of the Islamic Republic of Iran lying outside of those limits.

(4) The lines A, B and C are defined as follows:

(i) Line A. Line A extends from the North Pole along meridian 40° East of Greenwich to parallel 40° North; thence by great circle arc to the intersection of meridian 60° East and the Tropic of Cancer; thence along the meridian 60° East to the South Pole.

(ii) Line B. Line B extends from the North Pole along meridian 10° West of Greenwich to its intersection with parallel 72° North; thence by great circle arc to the intersection of meridian 50° West and parallel 40° North; thence by great circle arc to the intersection of meridian 20° West and parallel 10° South; thence along meridian 20° West to the South Pole.

(iii) Line C. Line C extends from the North Pole by great circle arc to the intersection of parallel 65° 30′ North with the international boundary in Bering Strait; thence by great circle arc to the intersection of meridian 165° East of Greenwich and parallel 50° North; thence by great circle arc to the intersection of meridian 170° West and parallel 10° North; thence along parallel 10° North to its intersection with meridian 120° West; thence along meridian 120° West to the South Pole.

(c) Areas. To further assist in the international allocation of the radio spectrum, the ITU has established five special geographical areas and they are defined as follows:

(1) The term “African Broadcasting Area” means:

(i) African countries, parts of countries, territories and groups of territories situated between the parallels 40° South and 30° North;

(ii) Islands in the Indian Ocean west of meridian 60° East of Greenwich, situated between the parallel 40° South and the great circle arc joining the points 45° East, 11° 30′ North and 60° East, 15° North; and

(iii) Islands in the Atlantic Ocean east of line B, situated between the parallels 40° South and 30° North.

(2) The “European Broadcasting Area” is bounded on the west by the western boundary of Region 1, on the east by the meridian 40° East of Greenwich and on the south by the parallel 30° North so as to include the northern part of Saudi Arabia and that part of those countries bordering the Mediterranean within these limits. In addition, Iraq, Jordan and that part of the territory of Syria, Turkey and Ukraine lying outside the above limits are included in the European Broadcasting Area.

(3) The “European Maritime Area” is bounded to the north by a line extending along parallel 72° North from its intersection with meridian 55° East of Greenwich to its intersection with meridian 5° West, then along meridian 5° West to its intersection with parallel 67° North, thence along parallel 67° North to its intersection with meridian 32° West; to the west by a line extending along meridian 32° West to its intersection with parallel 30° North; to the south by a line extending along parallel 30° North to its intersection with meridian 43° East; to the east by a line extending along meridian 43° East to its intersection with parallel 60° North, thence along parallel 60° North to its intersection with meridian 55° East and thence along meridian 55° East to its intersection with parallel 72° North.

(4) The “Tropical Zone” (see Figure 1 of this section) is defined as:

(i) The whole of that area in Region 2 between the Tropics of Cancer and Capricorn.

(ii) The whole of that area in Regions 1 and 3 contained between the parallels 30° North and 35° South with the addition of:

(A) The area contained between the meridians 40° East and 80° East of Greenwich and the parallels 30° North and 40° North; and

(B) That part of Libya north of parallel 30° North.

(iii) In Region 2, the Tropical Zone may be extended to parallel 33° North, subject to special agreements between the countries concerned in that Region.

(5) A sub-Region is an area consisting of two or more countries in the same Region.

(d) Categories of services and allocations. (1) Primary and secondary services. Where, in a box of the International Table in § 2.106, a band is indicated as allocated to more than one service, either on a worldwide or Regional basis, such services are listed in the following order:

(i) Services the names of which are printed in “capitals” (example: FIXED); these are called “primary” services; and

(ii) Services the names of which are printed in “normal characters” (example: Mobile); these are called “secondary” services (see paragraph (d)(3) of this section).

(2) Additional remarks shall be printed in normal characters (example: MOBILE except aeronautical mobile).

(3) Stations of a secondary service:

(i) Shall not cause harmful interference to stations of primary services to which frequencies are already assigned or to which frequencies may be assigned at a later date;

(ii) Cannot claim protection from harmful interference from stations of a primary service to which frequencies are already assigned or may be assigned at a later date; and

(iii) Can claim protection, however, from harmful interference from stations of the same or other secondary service(s) to which frequencies may be assigned at a later date.

(4) Where a band is indicated in a footnote of the International Table as allocated to a service “on a secondary basis” in an area smaller than a Region, or in a particular country, this is a secondary service (see paragraph (d)(3) of this section).

(5) Where a band is indicated in a footnote of the International Table as allocated to a service “on a primary basis”, in an area smaller than a Region, or in a particular country, this is a primary service only in that area or country.

(e) Additional allocations. (1) Where a band is indicated in a footnote of the International Table as “also allocated” to a service in an area smaller than a Region, or in a particular country, this is an “additional” allocation, i.e. an allocation which is added in this area or in this country to the service or services which are indicated in the International Table.

(2) If the footnote does not include any restriction on the service or services concerned apart from the restriction to operate only in a particular area or country, stations of this service or these services shall have equality of right to operate with stations of the other primary service or services indicated in the International Table.

(3) If restrictions are imposed on an additional allocation in addition to the restriction to operate only in a particular area or country, this is indicated in the footnote of the International Table.

(f) Alternative allocations. (1) Where a band is indicated in a footnote of the International Table as “allocated” to one or more services in an area smaller than a Region, or in a particular country, this is an “alternative” allocation, i.e. an allocation which replaces, in this area or in this country, the allocation indicated in the Table.

(2) If the footnote does not include any restriction on stations of the service or services concerned, apart from the restriction to operate only in a particular area or country, these stations of such a service or services shall have an equality of right to operate with stations of the primary service or services, indicated in the International Table, to which the band is allocated in other areas or countries.

(3) If restrictions are imposed on stations of a service to which an alternative allocation is made, in addition to the restriction to operate only in a particular country or area, this is indicated in the footnote.

(g) Miscellaneous provisions. (1) Where it is indicated that a service may operate in a specific frequency band subject to not causing harmful interference, this means also that this service cannot claim protection from harmful interference caused by other services to which the band is allocated under Chapter SII of the international Radio Regulations.

(2) Except if otherwise specified in a footnote, the term “fixed service”, where appearing in the International Table, does not include systems using ionospheric scatter propagation.

(h) Description of the International Table of Frequency Allocations. (1) The heading of the International Table includes three columns, each of which corresponds to one of the Regions (see paragraph (b) of this section). Where an allocation occupies the whole of the width of the Table or only one or two of the three columns, this is a worldwide allocation or a Regional allocation, respectively.

(2) The frequency band referred to in each allocation is indicated in the left-hand top corner of the part of the Table concerned.

(3) Within each of the categories specified in paragraph (d)(1) of this section, services are listed in alphabetical order according to the French language. The order of listing does not indicate relative priority within each category.

(4) In the case where there is a parenthetical addition to an allocation in the International Table, that service allocation is restricted to the type of operation so indicated.

(5) The footnote references which appear in the International Table below the allocated service or services apply to the whole of the allocation concerned.

(6) The footnote references which appear to the right of the name of a service are applicable only to that particular service.

(7) In certain cases, the names of countries appearing in the footnotes have been simplified in order to shorten the text.

BILLING CODE 6712-01-P

Figure 1 to § 2.104—Map

BILLING CODE 6712-01-C

4. Section 2.105 is revised to read as follows.

§ 2.105 United States Table of Frequency Allocations.

(a) The United States Table of Frequency Allocations (United States Table) is subdivided into the Federal Government Table of Frequency Allocations (Federal Government Table, column 4 of § 2.106) and the Non-Federal Government Table of Frequency Allocations (Non-Federal Government Table, column 5 of § 2.106). The United States Table is based on the Region 2 Table because the relevant area of jurisdiction is located primarily in Region 2 ¹ (i.e., the 50 States, the District of Columbia, the Caribbean insular areas ² and some of the Pacific insular areas).³ ⁴ The Federal Government Table is administered by the National Telecommunications and Information Administration (NTIA) ⁵, whereas the Non-Federal Government Table is administered by the Federal Communications Commission (FCC).⁶

¹ See § 2.104(a)(1) for definition of Region 2.

² The Caribbean insular areas are: The Commonwealth of Puerto Rico; the unincorporated territory of the United States Virgin Islands; and Navassa Island.

³ The Pacific insular areas located in Region 2 are: Johnston Atoll and Midway Atoll.

⁴ The operation of stations in the Pacific insular areas located in Region 3 are generally governed by the International plan for Region 3 (i.e., column 3 of § 2.106). The Pacific insular areas located in Region 3 are: the Commonwealth of the Northern Mariana Islands; the unincorporated territory of American Samoa; the unincorporated territory of Guam; and Baker Island, Howland Island, Jarvis Island, Kingman Reef, Palmyra Island and Wake Island.

⁵ Section 305(a) of the Communications Act of 1934, as amended. See Pub. Law 102-538, 106 Stat. 3533 (1992).

⁶ The Communications Act of 1934, as amended.

(b) In the United States, radio spectrum may be allocated to either Federal government or non-Federal government use exclusively, or for shared use. In the case of shared use, the type of service(s) permitted need not be the same [e.g., Federal government FIXED, non-Federal government MOBILE]. The terms used to designate categories of services and allocations ⁷ in columns 4 and 5 of § 2.106 correspond to the terms employed by the International Telecommunication Union (ITU) in the international Radio Regulations.

⁷ Definitions of the various radio services used are contained in § 2.1.

(c) Category of services. (1) Any segment of the radio spectrum may be allocated to the Federal government and/or non-Federal government sectors either on an exclusive or shared basis for use by one or more radio services. In the case where an allocation has been made to more than one service, such services are listed in the following order:

(i) Services, the names of which are printed in “capitals” [example: FIXED]; these are called “primary” services;

(ii) Services, the names of which are printed in “normal characters” [example: Mobile]; these are called “secondary” services.

(2) Stations of a secondary service:

(i) Shall not cause harmful interference to stations of primary services to which frequencies are already assigned or to which frequencies may be assigned at a later date;

(ii) Cannot claim protection from harmful interference from stations of a primary service to which frequencies are already assigned or may be assigned at a later date; and

(iii) Can claim protection, however, from harmful interference from stations of the same or other secondary service(s) to which frequencies may be assigned at a later date.

(d) Format of the United States Table and the Rule Part Cross Reference Column. (1) The frequency band referred to in each allocation, column 4 for Federal government and column 5 for non-Federal government, is indicated in the left-hand top corner of the column. If there is no service or footnote indicated for a band of frequencies in either column 4 or 5, then the Federal government or the non-Federal government sector, respectively, has no access to that band except as provided for by § 2.102.

(2) When the Federal Government and Non-Federal Government Tables are exactly the same for a shared band, the line between columns 4 and 5 is deleted and the allocations are shown once.

(3) The Federal Government Table, given in column 4, is included for informational purposes only.

(4) In the case where there is a parenthetical addition to an allocation in the United States Table [example: FIXED-SATELLITE (space-to-earth)], that service allocation is restricted to the type of operation so indicated.

(5) The following symbols are used to designate footnotes in the United States Table:

(i) Any footnote consisting of “S5.” followed by one or more digits, e.g., S5.53, or any footnote not prefixed by a letter, e.g., 459, denotes an international footnote. Where an international footnote is applicable, without modification, to the United States Table, the footnote appears in the United States Table (columns 4 and 5) and denotes a stipulation affecting both the Federal Government Table and the Non-Federal Government Table. If, however, an international footnote pertains to a service allocated only for Federal government or non-Federal government use, the international footnote will be placed only in the affected Table. For example, “AMATEUR S5.142” shall be shown only in the Non-Federal Government Table.

(ii) Any footnote consisting of the letters US followed by one or more digits, e.g., US7, denotes a stipulation affecting both the Federal Government Table and the Non-Federal Government Table.

(iii) Any footnote consisting of the letters NG followed by one or more digits, e.g., NG2, denotes a stipulation applicable only to the Non-Federal Government Table (column 5).

(iv) Any footnote consisting of the letter G following by one or more digits, e.g., G2, denotes a stipulation applicable only to the Federal Government Table (column 4).

(6) If a frequency or frequency band has been allocated to a radiocommunication service in the Non-Federal Government Table, then a cross reference may be added for the pertinent FCC Rule part (column 6 of § 2.106). For example, the 849-851 MHz band is allocated to the non-Federal government aeronautical mobile service, rules for the use of the 849-851 MHz band have been added to Part 22—Public Mobile Services (47 CFR part 22), and a cross reference, Public Mobile (22), has been added in Column 6 of the Table. The exact use that can be made of any given frequency or frequency band (e.g., channelling plans, allowable emissions, etc.) is given in the FCC Rule part(s) so indicated. The FCC Rule parts in this column are not allocations and are provided for informational purposes only. This column also may contain explanatory notes for informational purposes only.

5. Section 2.106 is amended as follows:

a. The Table proceeding the international footnotes is revised and shall begin on a left-hand page.

b. The international footnotes section is revised.

c. United States footnotes US7, US78, US221, US256, US257, US296, US303, US311, US319, and US322 are revised.

d. United States footnotes US272, US284, US326, and US341 are removed.

e. The heading to the list of “Non-Government (NG) Footnotes” is revised and in the parenthetical following the heading revise “non-Government” to read “non-Federal Government”.

f. Non-Federal government footnotes NG47, NG102, NG120, NG124, NG128, and NG147 are revised.

g. Non-Federal government footnotes NG133, NG139, NG140, and NG154 are removed.

h. The heading to the list of “Government (G) Footnotes” is revised and in the parenthetical following the heading revise “Government” to read “Federal Government”.

i. Federal government footnotes G101 and G119 are removed.

j. Federal government footnote G106 is revised.

The revisions and additions read as follows:

§ 2.106 Table of Frequency Allocations.

BILLING CODE 6712-01-P

BILLING CODE 6712-01-C

International Footnotes

Note: The International Telecommunication Union has recently re-numbered international footnotes using the “S” numbering scheme and has substantively revised the text of certain of these international footnotes. These international footnotes shall be listed immediately below this note in I. Until such time as the Commission has considered the substantively revised international footnotes that have previously been adopted domestically, the old international footnotes shall apply in the United States. These footnotes appear immediately after footnote S5.565 in II.

I. New “S” Numbering Scheme

S5.53 Administrations authorizing the use of frequencies below 9 kHz shall ensure that no harmful interference is caused thereby to the services to which the bands above 9 kHz are allocated.

S5.54 Administrations conducting scientific research using frequencies below 9 kHz are urged to advise other administrations that may be concerned in order that such research may be afforded all practicable protection from harmful interference.

S5.55 Additional allocation: in Armenia, Azerbaijan, Bulgaria, Russian Federation, Georgia, Kazakstan, Kyrgyzstan, Tajikistan, Turkmenistan and Ukraine, the band 14-17 kHz is also allocated to the radionavigation service on a primary basis.

S5.56 The stations of services to which the bands 14-19.95 kHz and 20.05-70 kHz and in Region 1 also the bands 72-84 kHz and 86-90 kHz are allocated may transmit standard frequency and time signals. Such stations shall be afforded protection from harmful interference. In Armenia, Azerbaijan, Belarus, Bulgaria, Georgia, Kazakstan, Mongolia, Uzbekistan, Kyrgyzstan, Slovakia, the Czech Republic, Russian Federation, Tajikistan, Turkmenistan and Ukraine, the frequencies 25 kHz and 50 kHz will be used for this purpose under the same conditions.

S5.57 The use of the bands 14-19.95 kHz, 20.05-70 kHz and 70-90 kHz (72-84 kHz and 86-90 kHz in Region 1) by the maritime mobile service is limited to coast radiotelegraph stations (A1A and F1B only). Exceptionally, the use of class J2B or J7B emissions is authorized subject to the necessary bandwidth not exceeding that normally used for class A1A or F1B emissions in the band concerned.

S5.58 Additional allocation: in Armenia, Azerbaijan, Bulgaria, Georgia, Kazakstan, Kyrgyzstan, Russian Federation, Tajikistan, Turkmenistan and Ukraine, the band 67-70 kHz is also allocated to the radionavigation service on a primary basis.

S5.59 Different category of service: in Bangladesh, the Islamic Republic of Iran and Pakistan, the allocation of the bands 70-72 kHz and 84-86 kHz to the fixed and maritime mobile service is on a primary basis (see No. S5.33).

S5.60 In the bands 70-90 kHz (70-86 kHz in Region 1) and 110-130 kHz (112-130 kHz in Region 1), pulsed radionavigation systems may be used on condition that they do not cause harmful interference to other services to which these bands are allocated.

S5.61 In Region 2, the establishment and operation of stations in the maritime radionavigation service in the bands 70-90 kHz and 110-130 kHz shall be subject to agreement obtained under No. S9.21 with administrations whose services, operating in accordance with the Table, may be affected. However, stations of the fixed, maritime mobile and radiolocation services shall not cause harmful interference to stations in the maritime radionavigation service established under such agreements.

S5.62 Administrations which operate stations in the radionavigation service in the band 90-110 kHz are urged to coordinate technical and operating characteristics in such a way as to avoid harmful interference to the services provided by these stations.

S5.64 Only classes A1A or F1B, A2C, A3C, F1C or F3C emissions are authorized for stations of the fixed service in the bands allocated to this service between 90 kHz and 160 kHz (148.5 kHz in Region 1) and for stations of the maritime mobile service in the bands allocated to this service between 110 kHz and 160 kHz (148.5 kHz in Region 1). Exceptionally, class J2B or J7B emissions are also authorized in the bands between 110 kHz and 160 kHz (148.5 kHz in Region 1) for stations of the maritime mobile service.

S5.65 Different category of service: in Bangladesh, the Islamic Republic of Iran and Pakistan, the allocation of the bands 112-117.6 kHz and 126-129 kHz to the fixed and maritime mobile services is on a primary basis (see No. S5.33).

S5.66 Different category of service: in Germany, the allocation of the band 115-117.6 kHz to the fixed and maritime mobile services is on a primary basis (see No. S5.33) and to the radionavigation service on a secondary basis (see No. S5.32).

S5.67 Additional allocation: in Azerbaijan, Bulgaria, Mongolia, Kyrgyzstan, Romania, Turkmenistan and Ukraine, the band 130-148.5 kHz is also allocated to the radionavigation service on a secondary basis. Within and between these countries this service shall have an equal right to operate.

S5.68 Alternative allocation: in Angola, Botswana, Burundi, the Congo, Malawi, Dem. Rep. of the Congo, Rwanda and South Africa, the band 160-200 kHz is allocated to the fixed service on a primary basis.

S5.69 Additional allocation: in Somalia, the band 200-255 kHz is also allocated to the aeronautical radionavigation service on a primary basis.

S5.70 Alternative allocation: in Angola, Botswana, Burundi, Cameroon, the Central African Republic, the Congo, Ethiopia, Kenya, Lesotho, Madagascar, Malawi, Mozambique, Namibia, Nigeria, Oman, Dem. Rep. of the Congo, Rwanda, South Africa, Swaziland, Tanzania, Chad, Zambia and Zimbabwe, the band 200-283.5 kHz is allocated to the aeronautical radionavigation service on a primary basis.

S5.71 Alternative allocation: in Tunisia, the band 255-283.5 kHz is allocated to the broadcasting service on a primary basis.

S5.72 Norwegian stations of the fixed service situated in northern areas (north of 60° N) subject to auroral disturbances are allowed to continue operation on four frequencies in the bands 283.5-490 kHz and 510-526.5 kHz.

S5.73 The band 285-325 kHz (283.5-325 kHz in Region 1) in the maritime radionavigation service may be used to transmit supplementary navigational information using narrow-band techniques, on condition that no harmful interference is caused to radiobeacon stations operating in the radionavigation service.

S5.74 Additional allocation: in Region 1, the frequency band 285.3-285.7 kHz is also allocated to the maritime radionavigation service (other than radiobeacons) on a primary basis.

S5.75 Different category of service: in Armenia, Azerbaijan, Belarus, Georgia, Kazakstan, Moldova, Kyrgyzstan, Russian Federation, Tajikistan, Turkmenistan, Ukraine and the Black Sea areas of Bulgaria and Romania, the allocation of the band 315-325 kHz to the maritime radionavigation service is on a primary basis under the condition that in the Baltic Sea area, the assignment of frequencies in this band to new stations in the maritime or aeronautical radionavigation services shall be subject to prior consultation between the administrations concerned.

S5.76 The frequency 410 kHz is designated for radio direction-finding in the maritime radionavigation service. The other radionavigation services to which the band 405-415 kHz is allocated shall not cause harmful interference to radio direction-finding in the band 406.5-413.5 kHz.

S5.77 Different category of service: in Australia, China, the French Overseas Territories of Region 3, India, Indonesia, the Islamic Republic of Iran, Japan, Pakistan, Papua New Guinea and Sri Lanka, the allocation of the band 415-495 kHz to the aeronautical radionavigation service is on a primary basis. Administrations in these countries shall take all practical steps necessary to ensure that aeronautical radionavigation stations in the band 435-495 kHz do not cause interference to reception by coast stations of ship stations transmitting on frequencies designated for ship stations on a worldwide basis (see No. S52.39).

S5.78 Different category of service: in Cuba, the United States of America and Mexico, the allocation of the band 415-435 kHz to the aeronautical radionavigation service is on a primary basis.

S5.79 The use of the bands 415-495 kHz and 505-526.5 kHz (505-510 kHz in Region 2) by the maritime mobile service is limited to radiotelegraphy.

S5.79A When establishing coast stations in the NAVTEX service on the frequencies 490 kHz, 518 kHz and 4209.5 kHz, administrations are strongly recommended to coordinate the operating characteristics in accordance with the procedures of the International Maritime Organization (IMO) (see Resolution 339 (Rev. WRC-97)).

S5.80 In Region 2, the use of the band 435-495 kHz by the aeronautical radionavigation service is limited to non-directional beacons not employing voice transmission.

S5.81 The bands 490-495 kHz and 505-510 kHz shall be subject to the provisions of Appendix S13, § 15 1), Part A2.

S5.82 In the maritime mobile service, the frequency 490 kHz is, from the date of full implementation of the GMDSS (see Resolution 331 (Rev. WRC-97)), to be used exclusively for the transmission by coast stations of navigational and meteorological warnings and urgent information to ships, by means of narrow-band direct-printing telegraphy. The conditions for use of the frequency 490 kHz are prescribed in Articles S31 and S52. In using the band 415-495 kHz for the aeronautical radionavigation service, administrations are requested to ensure that no harmful interference is caused to the frequency 490 kHz.

S5.83 The frequency 500 kHz is an international distress and calling frequency for Morse radiotelegraphy. The conditions for its use are prescribed in Articles S31 and S52, and in Appendix S13.

S5.84 The conditions for the use of the frequency 518 kHz by the maritime mobile service are prescribed in Articles S31 and S52 and in Appendix S13.

S5.86 In Region 2, in the band 525-535 kHz the carrier power of broadcasting stations shall not exceed 1 kW during the day and 250 W at night.

S5.87 Additional allocation: in Angola, Botswana, Lesotho, Malawi, Mozambique, Namibia, South Africa, Swaziland, Zambia and Zimbabwe, the band 526.5-535 kHz is also allocated to the mobile service on a secondary basis.

S5.87A Additional allocation: in Uzbekistan, the band 526.5-1606.5 kHz is also allocated to the radionavigation service on a primary basis. Such use is subject to agreement obtained under No. S9.21 with administrations concerned and limited to ground-based radiobeacons in operation on 27 October 1997 until the end of their lifetime.

S5.88 Additional allocation: in China, the band 526.5-535 kHz is also allocated to the aeronautical radionavigation service on a secondary basis.

S5.89 In Region 2, the use of the band 1605-1705 kHz by stations of the broadcasting service is subject to the Plan established by the Regional Administrative Radio Conference (Rio de Janeiro, 1988).

The examination of frequency assignments to stations of the fixed and mobile services in the band 1625-1705 kHz shall take account of the allotments appearing in the Plan established by the Regional Administrative Radio Conference (Rio de Janeiro, 1988).

S5.90 In the band 1605-1705 kHz, in cases where a broadcasting station of Region 2 is concerned, the service area of the maritime mobile stations in Region 1 shall be limited to that provided by ground-wave propagation.

S5.91 Additional allocation: in the Philippines and Sri Lanka, the band 1606.5-1705 kHz is also allocated to the broadcasting service on a secondary basis.

S5.92 Some countries of Region 1 use radiodetermination systems in the bands 1606.5-1625 kHz, 1635-1800 kHz, 1850-2160 kHz, 2194-2300 kHz, 2502-2850 kHz and 3500-3800 kHz, subject to agreement obtained under No. S9.21. The radiated mean power of these stations shall not exceed 50 W.

S5.93 Additional allocation: in Angola, Armenia, Azerbaijan, Belarus, Bulgaria, Georgia, Hungary, Kazakstan, Latvia, Lithuania, Moldova, Mongolia, Nigeria, Uzbekistan, Poland, Kyrgyzstan, Slovakia, the Czech Republic, Russian Federation, Tajikistan, Chad, Turkmenistan and Ukraine, the bands 1625-1635 kHz, 1800-1810 kHz and 2160-2170 kHz are also allocated to the fixed and land mobile services on a primary basis, subject to agreement obtained under No. S9.21.

S5.96 In Germany, Armenia, Azerbaijan, Belarus, Denmark, Estonia, Finland, Georgia, Hungary, Ireland, Israel, Jordan, Kazakstan, Latvia, Lithuania, Malta, Moldova, Norway, Uzbekistan, Poland, Kyrgyzstan, Slovakia, the Czech Republic, the United Kingdom, Russian Federation, Sweden, Tajikistan, Turkmenistan and Ukraine, administrations may allocate up to 200 kHz to their amateur service in the bands 1715-1800 kHz and 1850-2000 kHz. However, when allocating the bands within this range to their amateur service, administrations shall, after prior consultation with administrations of neighbouring countries, take such steps as may be necessary to prevent harmful interference from their amateur service to the fixed and mobile services of other countries. The mean power of any amateur station shall not exceed 10 W.

S5.97 In Region 3, the Loran system operates either on 1850 kHz or 1950 kHz, the bands occupied being 1825-1875 kHz and 1925-1975 kHz respectively. Other services to which the band 1800-2000 kHz is allocated may use any frequency therein on condition that no harmful interference is caused to the Loran system operating on 1850 kHz or 1950 kHz.

S5.98 Alternative allocation: in Angola, Armenia, Austria, Azerbaijan, Belarus, Belgium, Bulgaria, Cameroon, the Congo, Denmark, Egypt, Eritrea, Spain, Ethiopia, Georgia, Greece, Italy, Kazakstan, Lebanon, Lithuania, Moldova, the Netherlands, Syria, Kyrgyzstan, Russian Federation, Somalia, Tajikistan, Tunisia, Turkmenistan, Turkey and Ukraine, the band 1810-1830 kHz is allocated to the fixed and mobile, except aeronautical mobile, services on a primary basis.

S5.99 Additional allocation: in Saudi Arabia, Bosnia and Herzegovina, Iraq, Libya, Uzbekistan, Slovakia, the Czech Republic, Romania, Slovenia, Chad, Togo and Yugoslavia, the band 1810-1830 kHz is also allocated to the fixed and mobile, except aeronautical mobile, services on a primary basis.

S5.100 In Region 1, the authorization to use the band 1810-1830 kHz by the amateur service in countries situated totally or partially north of 40° N shall be given only after consultation with the countries mentioned in Nos. S5.98 and S5.99 to define the necessary steps to be taken to prevent harmful interference between amateur stations and stations of other services operating in accordance with Nos. S5.98 and S5.99.

S5.101 Alternative allocation: in Burundi and Lesotho, the band 1810-1850 kHz is allocated to the fixed and mobile, except aeronautical mobile, services on a primary basis.

S5.102 Alternative allocation: in Argentina, Bolivia, Chile, Mexico, Paraguay, Peru, Uruguay and Venezuela, the band 1850-2000 kHz is allocated to the fixed, mobile except aeronautical mobile, radiolocation and radionavigation services on a primary basis.

S5.103 In Region 1, in making assignments to stations in the fixed and mobile services in the bands 1850-2045 kHz, 2194-2498 kHz, 2502-2625 kHz and 2650-2850 kHz, administrations should bear in mind the special requirements of the maritime mobile service.

S5.104 In Region 1, the use of the band 2025-2045 kHz by the meteorological aids service is limited to oceanographic buoy stations.

S5.105 In Region 2, except in Greenland, coast stations and ship stations using radiotelephony in the band 2065-2107 kHz shall be limited to class J3E emissions and to a peak envelope power not exceeding 1 kW. Preferably, the following carrier frequencies should be used: 2065.0 kHz, 2079.0 kHz, 2082.5 kHz, 2086.0 kHz, 2093.0 kHz, 2096.5 kHz, 2100.0 kHz and 2103.5 kHz. In Argentina and Uruguay, the carrier frequencies 2068.5 kHz and 2075.5 kHz are also used for this purpose, while the frequencies within the band 2072-2075.5 kHz are used as provided in No. S52.165.

S5.106 In Regions 2 and 3, provided no harmful interference is caused to the maritime mobile service, the frequencies between 2065 kHz and 2107 kHz may be used by stations of the fixed service communicating only within national borders and whose mean power does not exceed 50 W. In notifying the frequencies, the attention of the Bureau should be drawn to these provisions.

S5.107 Additional allocation: in Saudi Arabia, Botswana, Eritrea, Ethiopia, Iraq, Lesotho, Libya, Somalia, Swaziland and Zambia, the band 2160-2170 kHz is also allocated to the fixed and mobile, except aeronautical mobile (R), services on a primary basis. The mean power of stations in these services shall not exceed 50 W.

S5.108 The carrier frequency 2182 kHz is an international distress and calling frequency for radiotelephony. The conditions for the use of the band 2173.5-2190.5 kHz are prescribed in Articles S31 and S52 and in Appendix S13.

S5.109 The frequencies 2187.5 kHz, 4207.5 kHz, 6312 kHz, 8414.5 kHz, 12,577 kHz and 16,804.5 kHz are international distress frequencies for digital selective calling. The conditions for the use of these frequencies are prescribed in Article S31.

S5.110 The frequencies 2174.5 kHz, 4177.5 kHz, 6268 kHz, 8376.5 kHz, 12,520 kHz and 16,695 kHz are international distress frequencies for narrow-band direct-printing telegraphy. The conditions for the use of these frequencies are prescribed in Article S31.

S5.111 The carrier frequencies 2182 kHz, 3023 kHz, 5680 kHz, 8364 kHz and the frequencies 121.5 MHz, 156.8 MHz and 243 MHz may also be used, in accordance with the procedures in force for terrestrial radiocommunication services, for search and rescue operations concerning manned space vehicles. The conditions for the use of the frequencies are prescribed in Article S31 and in Appendix S13.

The same applies to the frequencies 10,003 kHz, 14,993 kHz and 19,993 kHz, but in each of these cases emissions must be confined in a band of ± 3 kHz about the frequency.

S5.112 Alternative allocation: in Bosnia and Herzegovina, Cyprus, Denmark, France, Greece, Iceland, Italy, Malta, Norway, Sri Lanka, Turkey and Yugoslavia, the band 2,194-2,300 kHz is allocated to the fixed and mobile, except aeronautical mobile, services on a primary basis.

S5.113 For the conditions for the use of the bands 2300-2495 kHz (2498 kHz in Region 1), 3200-3400 kHz, 4750-4995 kHz and 5005-5060 kHz by the broadcasting service, see Nos. S5.16 to S5.20, S5.21 and S23.3 to S23.10.

S5.114 Alternative allocation: in Bosnia and Herzegovina, Cyprus, Denmark, France, Greece, Iraq, Italy, Malta, Norway, Turkey and Yugoslavia, the band 2502-2625 kHz is allocated to the fixed and mobile, except aeronautical mobile, services on a primary basis.

S5.115 The carrier (reference) frequencies 3023 kHz and 5680 kHz may also be used, in accordance with Article S31 and Appendix S13 by stations of the maritime mobile service engaged in coordinated search and rescue operations.

S5.116 Administrations are urged to authorize the use of the band 3155-3195 kHz to provide a common worldwide channel for low power wireless hearing aids. Additional channels for these devices may be assigned by administrations in the bands between 3155 kHz and 3400 kHz to suit local needs.

It should be noted that frequencies in the range 3000 kHz to 4000 kHz are suitable for hearing aid devices which are designed to operate over short distances within the induction field.

S5.117 Alternative allocation: in Bosnia and Herzegovina, Cyprus, Côte d'Ivoire, Denmark, Egypt, France, Greece, Iceland, Italy, Liberia, Malta, Norway, Sri Lanka, Togo, Turkey and Yugoslavia, the band 3155-3200 kHz is allocated to the fixed and mobile, except aeronautical mobile, services on a primary basis.

S5.118 Additional allocation: in the United States, Japan, Mexico, Peru and Uruguay, the band 3230-3400 kHz is also allocated to the radiolocation service on a secondary basis.

S5.119 Additional allocation: in Honduras, Mexico, Peru and Venezuela, the band 3500-3750 kHz is also allocated to the fixed and mobile services on a primary basis.

S5.120 For the use of the bands allocated to the amateur service at 3.5 MHz, 7.0 MHz, 10.1 MHz, 14.0 MHz, 18.068 MHz, 21.0 MHz, 24.89 MHz and 144 MHz in the event of natural disasters, see Resolution 640. *

* This Resolution was abrogated by WRC-97.

S5.122 Alternative allocation: in Argentina, Bolivia, Chile, Ecuador, Paraguay, Peru and Uruguay, the band 3750-4000 kHz is allocated to the fixed and mobile, except aeronautical mobile, services on a primary basis.

S5.123 Additional allocation: in Botswana, Lesotho, Malawi, Mozambique, Namibia, South Africa, Swaziland, Zambia and Zimbabwe, the band 3900-3950 kHz is also allocated to the broadcasting service on a primary basis, subject to agreement obtained under No. S9.21.

S5.124 Additional allocation: in Canada, the band 3950-4000 kHz is also allocated to the broadcasting service on a primary basis. The power of broadcasting stations operating in this band shall not exceed that necessary for a national service within the frontier of this country and shall not cause harmful interference to other services operating in accordance with the Table.

S5.125 Additional allocation: in Greenland, the band 3950-4000 kHz is also allocated to the broadcasting service on a primary basis. The power of the broadcasting stations operating in this band shall not exceed that necessary for a national service and shall in no case exceed 5 kW.

S5.126 In Region 3, the stations of those services to which the band 3995-4005 kHz is allocated may transmit standard frequency and time signals.

S5.127 The use of the band 4000-4063 kHz by the maritime mobile service is limited to ship stations using radiotelephony (see No. S52.220 and Appendix S17).

S5.128 In Afghanistan, Argentina, Armenia, Azerbaijan, Belarus, Botswana, Burkina Faso, Central African Republic, China, Georgia, India, Kazakstan, Mali, Niger, Kyrgyzstan, Russian Federation, Tajikistan, Chad, Turkmenistan and Ukraine, in the bands 4063-4123 kHz, 4130-4133 kHz and 4408-4438 kHz, stations of limited power in the fixed service which are situated at least 600 km from the coast may operate on condition that harmful interference is not caused to the maritime mobile service.

S5.129 On condition that harmful interference is not caused to the maritime mobile service, the frequencies in the bands 4063-4123 kHz and 4130-4438 kHz may be used exceptionally by stations in the fixed service communicating only within the boundary of the country in which they are located with a mean power not exceeding 50 W.

S5.130 The conditions for the use of the carrier frequencies 4125 kHz and 6215 kHz are prescribed in Articles S31 and S52 and in Appendix S13.

S5.131 The frequency 4209.5 kHz is used exclusively for the transmission by coast stations of meteorological and navigational warnings and urgent information to ships by means of narrow-band direct-printing techniques.

S5.132 The frequencies 4210 kHz, 6314 kHz, 8416.5 kHz, 12,579 kHz, 16,806.5 kHz, 19,680.5 kHz, 22,376 kHz and 26,100.5 kHz are the international frequencies for the transmission of maritime safety information (MSI) (see Appendix S17).

S5.133 Different category of service: in Armenia, Azerbaijan, Belarus, Georgia, Kazakstan, Latvia, Lithuania, Moldova, Uzbekistan, Kyrgyzstan, Russian Federation, Tajikistan, Turkmenistan and Ukraine, the allocation of the band 5130-5250 kHz to the mobile, except aeronautical mobile, service is on a primary basis (see No. S5.33).

S5.134 The use of the bands 5900-5950 kHz, 7300-7350 kHz, 9400-9500 kHz, 11,600-11,650 kHz, 12,050-12,100 kHz, 13,570-13,600 kHz, 13,800-13,870 kHz, 15,600-15,800 kHz, 17,480-17,550 kHz and 18,900-19,020 kHz by the broadcasting service is limited to single-sideband emissions with the characteristics specified in Appendix S11 or to any other spectrum-efficient modulation techniques recommended by ITU-R. Access to these bands shall be subject to the decisions of a competent conference.

S5.136 The band 5900-5950 kHz is allocated, until 1 April 2007, to the fixed service on a primary basis, as well as to the following services: in Region 1 to the land mobile service on a primary basis, in Region 2 to the mobile except aeronautical mobile (R) service on a primary basis, and in Region 3 to the mobile except aeronautical mobile (R) service on a secondary basis, subject to application of the procedure referred to in Resolution 21 (Rev. WRC-95). After 1 April 2007, frequencies in this band may be used by stations in the above-mentioned services, communicating only within the boundary of the country in which they are located, on the condition that harmful interference is not caused to the broadcasting service. When using frequencies for these services, administrations are urged to use the minimum power required and to take account of the seasonal use of frequencies by the broadcasting service published in accordance with the Radio Regulations.

S5.137 On condition that harmful interference is not caused to the maritime mobile service, the bands 6200-6213.5 kHz and 6220.5-6525 kHz may be used exceptionally by stations in the fixed service, communicating only within the boundary of the country in which they are located, with a mean power not exceeding 50 W. At the time of notification of these frequencies, the attention of the Bureau will be drawn to the above conditions.

S5.138 The following bands:

6765-6795 kHz (centre frequency 6780 kHz), 433.05-434.79 MHz (centre frequency 433.92 MHz) in Region 1 except in the countries mentioned in No. S5.280, 61-61.5 GHz (centre frequency 61.25 GHz), 122-123 GHz (centre frequency 122.5 GHz), and 244-246 GHz (centre frequency 245 GHz)

are designated for industrial, scientific and medical (ISM) applications. The use of these frequency bands for ISM applications shall be subject to special authorization by the administration concerned, in agreement with other administrations whose radiocommunication services might be affected. In applying this provision, administrations shall have due regard to the latest relevant ITU-R Recommendations.

S5.139 Different category of service: in Armenia, Azerbaijan, Belarus, Georgia, Kazakstan, Latvia, Lithuania, Moldova, Mongolia, Uzbekistan, Kyrgyzstan, Russian Federation, Tajikistan, Turkmenistan and Ukraine, the allocation of the band 6765-7000 kHz to the land mobile service is on a primary basis (see No. S5.33).

S5.140 Additional allocation: in Angola, Iraq, Rwanda, Somalia and Togo, the band 7000-7050 kHz is also allocated to the fixed service on a primary basis.

S5.141 Alternative allocation: in Egypt, Eritrea, Ethiopia, Guinea, Libya and Madagascar, the band 7000-7050 kHz is allocated to the fixed service on a primary basis.

S5.142 The use of the band 7100-7300 kHz in Region 2 by the amateur service shall not impose constraints on the broadcasting service intended for use within Region 1 and Region 3.

S5.143 The band 7300-7350 kHz is allocated, until 1 April 2007, to the fixed service on a primary basis and to the land mobile service on a secondary basis, subject to application of the procedure referred to in Resolution 21 (Rev. WRC-95). After 1 April 2007, frequencies in this band may be used by stations in the above-mentioned services, communicating only within the boundary of the country in which they are located, on condition that harmful interference is not caused to the broadcasting service. When using frequencies for these services, administrations are urged to use the minimum power required and to take account of the seasonal use of frequencies by the broadcasting service published in accordance with the Radio Regulations.

S5.144 In Region 3, the stations of those services to which the band 7995-8005 kHz is allocated may transmit standard frequency and time signals.

S5.145 The conditions for the use of the carrier frequencies 8291 kHz, 12,290 kHz and 16,420 kHz are prescribed in Articles S31 and S52 and in Appendix S13.

S5.146 The bands 9400-9500 kHz, 11,600-11,650 kHz, 12,050-12,100 kHz, 15,600-15,800 kHz, 17,480-17,550 kHz and 18,900-19,020 kHz are allocated to the fixed service on a primary basis until 1 April 2007, subject to application of the procedure referred to in Resolution 21 (Rev.WRC-95). After 1 April 2007, frequencies in these bands may be used by stations in the fixed service, communicating only within the boundary of the country in which they are located, on condition that harmful interference is not caused to the broadcasting service. When using frequencies in the fixed service, administrations are urged to use the minimum power required and to take account of the seasonal use of frequencies by the broadcasting service published in accordance with the Radio Regulations.

S5.147 On condition that harmful interference is not caused to the broadcasting service, frequencies in the bands 9775-9900 kHz, 11,650-11,700 kHz and 11,975-12,050 kHz may be used by stations in the fixed service communicating only within the boundary of the country in which they are located, each station using a total radiated power not exceeding 24 dBW.

S5.149 In making assignments to stations of other services to which the bands:

13,360-13,410 kHz, 25,550-25,670 kHz, 37.5-38.25 MHz, 73-74.6 MHz in Regions 1 and 3, 150.05-153 MHz in Region 1, 322-328.6 MHz*, 406.1-410 MHz, 608-614 MHz in Regions 1 and 3, 1330-1400 MHz*, 1610.6-1613.8 MHz*, 1660-1670 MHz, 1718.8-1722.2 MHz*, 2655-2690 MHz, 3260-3267 MHz*, 3332-3339 MHz*, 3345.8-3352.5 MHz*, 4825-4835 MHz*, 4950-4990 MHz, 4990-5000 MHz,6650-6675.2 MHz*, 10.6-10.68 GHz, 14.47-14.5 GHz*, 22.01-22.21 GHz*, 22.21-22.5 GHz, 22.81-22.86 GHz*, 23.07-23.12 GHz*, 31.2-31.3 GHz, 31.5-31.8 GHz in Regions 1 and 3, 36.43-36.5 GHz*, 42.5-43.5 GHz, 42.77-42.87 GHz*, 43.07-43.17 GHz*, 43.37-43.47 GHz*, 48.94-49.04 GHz*, 72.77-72.91 GHz*, 93.07-93.27 GHz*, 97.88-98.08 GHz*, 140.69-140.98 GHz*,144.68-144.98 GHz*, 145.45-145.75 GHz*, 146.82-147.12 GHz*, 150-151 GHz*, 174.42-175.02 GHz*, 177-177.4 GHz*, 178.2-178.6 GHz*, 181-181.46 GHz*, 186.2-186.6 GHz*, 250-251 GHz*, 257.5-258 GHz*, 261-265 GHz, 262.24-262.76 GHz*, 265-275 GHz, 265.64-266.16 GHz*, 267.34-267.86 GHz*, 271.74-272.26 GHz*

are allocated (* indicates radio astronomy use for spectral line observations), administrations are urged to take all practicable steps to protect the radio astronomy service from harmful interference. Emissions from spaceborne or airborne stations can be particularly serious sources of interference to the radio astronomy service (see Nos. S4.5 and S4.6 and Article S29).

S5.150 The following bands:

13,553-13,567 kHz (centre frequency 13,560 kHz), 26,957-27,283 kHz (centre frequency 27,120 kHz), 40.66-40.70 MHz (centre frequency 40.68 MHz), 902-928 MHz in Region 2 (centre frequency 915 MHz), 2400-2500 MHz (centre frequency 2450 MHz), 5725-5875 MHz (centre frequency 5800 MHz), and 24-24.25 GHz (centre frequency 24.125 GHz)

are also designated for industrial, scientific and medical (ISM) applications. Radiocommunication services operating within these bands must accept harmful interference which may be caused by these applications. ISM equipment operating in these bands is subject to the provisions of No. S15.13.

S5.151 The bands 13,570-13,600 kHz and 13,800-13,870 kHz are allocated, until 1 April 2007, to the fixed service on a primary basis and to the mobile except aeronautical mobile (R) service on a secondary basis, subject to application of the procedure referred to in Resolution 21 (Rev. WRC-95). After 1 April 2007, frequencies in these bands may be used by stations in the above-mentioned services, communicating only within the boundary of the country in which they are located, on the condition that harmful interference is not caused to the broadcasting service. When using frequencies in these services, administrations are urged to use the minimum power required and to take account of the seasonal use of frequencies by the broadcasting service published in accordance with the Radio Regulations.

S5.152 Additional allocation: in Armenia, Azerbaijan, China, Côte d'Ivoire, Georgia, the Islamic Republic of Iran, Kazakstan, Moldova, Uzbekistan, Kyrgyzstan, Russian Federation, Tajikistan, Turkmenistan and Ukraine, the band 14,250-14,350 kHz is also allocated to the fixed service on a primary basis. Stations of the fixed service shall not use a radiated power exceeding 24 dBW.

S5.153 In Region 3, the stations of those services to which the band 15,995-16,005 kHz is allocated may transmit standard frequency and time signals.

S5.154 Additional allocation: in Armenia, Azerbaijan, Georgia, Kazakstan, Moldova, Uzbekistan, Kyrgyzstan, Russian Federation, Tajikistan, Turkmenistan and Ukraine, the band 18,068-18,168 kHz is also allocated to the fixed service on a primary basis for use within their boundaries, with a peak envelope power not exceeding 1 kW.

S5.155 Additional allocation: in Armenia, Azerbaijan, Belarus, Bulgaria, Georgia, Hungary, Kazakstan, Moldova, Mongolia, Uzbekistan, Kyrgyzstan, Slovakia, the Czech Republic, Russian Federation, Tajikistan, Turkmenistan and Ukraine, the band 21,850-21,870 kHz is also allocated to the aeronautical mobile (R) services on a primary basis.

S5.155A In Armenia, Azerbaijan, Belarus, Bulgaria, Georgia, Hungary, Kazakstan, Moldova, Mongolia, Uzbekistan, Kyrgyzstan, Slovakia, the Czech Republic, Russian Federation, Tajikistan, Turkmenistan and Ukraine, the use of the band 21,850-21,870 kHz by the fixed service is limited to provision of services related to aircraft flight safety.

S5.155B The band 21,870-21,924 kHz is used by the fixed service for provision of services related to aircraft flight safety.

S5.156 Additional allocation: in Nigeria, the band 22,720-23,200 kHz is also allocated to the meteorological aids service (radiosondes) on a primary basis.

S5.156A The use of the band 23,200-23,350 kHz by the fixed service is limited to provision of services related to aircraft flight safety.

S5.157 The use of the band 23,350-24,000 kHz by the maritime mobile service is limited to inter-ship radiotelegraphy.

S5.160 Additional allocation: in Botswana, Burundi, Lesotho, Malawi, Namibia, Dem. Rep. of the Congo, Rwanda and Swaziland, the band 41-44 MHz is also allocated to the aeronautical radionavigation service on a primary basis.

S5.161 Additional allocation: in the Islamic Republic of Iran and Japan, the band 41-44 MHz is also allocated to the radiolocation service on a secondary basis.

S5.162 Additional allocation: in Australia and New Zealand, the band 44-47 MHz is also allocated to the broadcasting service on a primary basis.

S5.162A Additional allocation: in Germany, Austria, Belgium, Bosnia and Herzegovina, China, Vatican, Denmark, Spain, Estonia, Finland, France, Ireland, Iceland, Italy, Latvia, The Former Yugoslav Republic of Macedonia, Liechtenstein, Lithuania, Luxembourg, Moldova, Monaco, Norway, the Netherlands, Poland, Portugal, Slovakia, the Czech Republic, the United Kingdom, Russian Federation, Sweden, Switzerland and Turkey, the band 46-68 MHz is also allocated to the radiolocation service on a secondary basis. This use is limited to the operation of wind profiler radars in accordance with Resolution 217 (WRC-97).

S5.163 Additional allocation: in Armenia, Azerbaijan, Belarus, Estonia, Georgia, Hungary, Kazakstan, Latvia, Lithuania, Moldova, Mongolia, Uzbekistan, Kyrgyzstan, Slovakia, the Czech Republic, Russian Federation, Tajikistan, Turkmenistan and Ukraine, the bands 47-48.5 MHz and 56.5-58 MHz are also allocated to the fixed and land mobile services on a secondary basis.

S5.164 Additional allocation: in Albania, Germany, Austria, Belgium, Bosnia and Herzegovina, Bulgaria, Côte d'Ivoire, Denmark, Spain, Finland, France, Gabon, Greece, Ireland, Israel, Italy, Jordan, Lebanon, Libya, Liechtenstein, Luxembourg, Madagascar, Mali, Malta, Morocco, Mauritania, Monaco, Nigeria, Norway, the Netherlands, Poland, Syria, the United Kingdom, Senegal, Slovenia, Sweden, Switzerland, Swaziland, Togo, Tunisia, Turkey and Yugoslavia the band 47-68 MHz, in Romania the band 47-58 MHz and in the Czech Republic the band 66-68 MHz, are also allocated to the land mobile service on a primary basis. However, stations of the land mobile service in the countries mentioned in connection with each band referred to in this footnote shall not cause harmful interference to, or claim protection from, existing or planned broadcasting stations of countries other than those mentioned in connection with the band.

S5.165 Additional allocation: in Angola, Cameroon, the Congo, Madagascar, Mozambique, Somalia, Sudan, Tanzania and Chad, the band 47-68 MHz is also allocated to the fixed and mobile, except aeronautical mobile, services on a primary basis.

S5.166 Alternative allocation: in New Zealand, the band 50-51 MHz is allocated to the fixed, mobile and broadcasting services on a primary basis; the band 53-54 MHz is allocated to the fixed and mobile services on a primary basis.

S5.167 Alternative allocation: in Bangladesh, Brunei Darussalam, India, Indonesia, the Islamic Republic of Iran, Malaysia, Pakistan, Singapore and Thailand, the band 50-54 MHz is allocated to the fixed, mobile and broadcasting services on a primary basis.

S5.168 Additional allocation: in Australia, China and the Democratic People's Republic of Korea, the band 50-54 MHz is also allocated to the broadcasting service on a primary basis.

S5.169 Alternative allocation: in Botswana, Burundi, Lesotho, Malawi, Namibia, Dem. Rep. of the Congo, Rwanda, South Africa, Swaziland, Zambia and Zimbabwe, the band 50-54 MHz is allocated to the amateur service on a primary basis.

S5.170 Additional allocation: in New Zealand, the band 51-53 MHz is also allocated to the fixed and mobile services on a primary basis.

S5.171 Additional allocation: in Botswana, Burundi, Lesotho, Malawi, Mali, Namibia, Dem. Rep. of the Congo, Rwanda, South Africa, Swaziland and Zimbabwe, the band 54-68 MHz is also allocated to the fixed and mobile, except aeronautical mobile, services on a primary basis.

S5.172 Different category of service: in the French Overseas Departments in Region 2, Guyana, Jamaica and Mexico, the allocation of the band 54-68 MHz to the fixed and mobile services is on a primary basis (see No. S5.33).

S5.173 Different category of service: in the French Overseas Departments in Region 2, Guyana, Jamaica and Mexico, the allocation of the band 68-72 MHz to the fixed and mobile services is on a primary basis (see No. S5.33).

S5.174 Alternative allocation: in Bulgaria, Hungary, Poland and Romania, the band 68-73 MHz is allocated to the broadcasting service on a primary basis and used in accordance with the decisions in the Final Acts of the Special Regional Conference (Geneva, 1960).

S5.175 Alternative allocation: in Armenia, Azerbaijan, Belarus, Estonia, Georgia, Kazakstan, Latvia, Lithuania, Moldova, Mongolia, Uzbekistan, Kyrgyzstan, Russian Federation, Tajikistan, Turkmenistan and Ukraine, the bands 68-73 MHz and 76-87.5 MHz are allocated to the broadcasting service on a primary basis. The services to which these bands are allocated in other countries and the broadcasting service in the countries listed above are subject to agreements with the neighbouring countries concerned.

S5.176 Additional allocation: in Australia, China, the Republic of Korea, the Philippines, the Democratic People's Republic of Korea and Western Samoa, the band 68-74 MHz is also allocated to the broadcasting service on a primary basis.

S5.177 Additional allocation: in Armenia, Azerbaijan, Belarus, Bulgaria, Estonia, Georgia, Kazakstan, Latvia, Lithuania, Moldova, Mongolia, Uzbekistan, Poland, Kyrgyzstan, Russian Federation, Tajikistan, Turkmenistan and Ukraine, the band 73-74 MHz is also allocated to the broadcasting service on a primary basis, subject to agreement obtained under No. S9.21.

S5.178 Additional allocation: in Colombia, Costa Rica, Cuba, El Salvador, Guatemala, Guyana, Honduras and Nicaragua, the band 73-74.6 MHz is also allocated to the fixed and mobile services on a secondary basis.

S5.179 Additional allocation: in Armenia, Azerbaijan, Belarus, Bulgaria, China, Georgia, Kazakstan, Latvia, Lithuania, Moldova, Mongolia, Kyrgyzstan, Slovakia, the Czech Republic, Russian Federation, Tajikistan, Turkmenistan and Ukraine, the bands 74.6-74.8 MHz and 75.2-75.4 MHz are also allocated to the aeronautical radionavigation service, on a primary basis, for ground-based transmitters only.

S5.180 The frequency 75 MHz is assigned to marker beacons. Administrations shall refrain from assigning frequencies close to the limits of the guardband to stations of other services which, because of their power or geographical position, might cause harmful interference or otherwise place a constraint on marker beacons.

Every effort should be made to improve further the characteristics of airborne receivers and to limit the power of transmitting stations close to the limits 74.8 MHz and 75.2 MHz.

S5.181 Additional allocation: in Germany, Austria, Cyprus, Denmark, Egypt, France, Greece, Israel, Italy, Japan, Jordan, Lebanon, Malta, Morocco, Monaco, Norway, Syria, Sweden and Switzerland, the band 74.8-75.2 MHz is also allocated to the mobile service on a secondary basis, subject to agreement obtained under No. S9.21. In order to ensure that harmful interference is not caused to stations of the aeronautical radionavigation service, stations of the mobile service shall not be introduced in the band until it is no longer required for the aeronautical radionavigation service by any administration which may be identified in the application of the procedure invoked under No. S9.21.

S5.182 Additional allocation: in Western Samoa, the band 75.4-87 MHz is also allocated to the broadcasting service on a primary basis.

S5.183 Additional allocation: in China, the Republic of Korea, Japan, the Philippines and the Democratic People's Republic of Korea, the band 76-87 MHz is also allocated to the broadcasting service on a primary basis.

S5.184 Additional allocation: in Bulgaria and Romania, the band 76-87.5 MHz is also allocated to the broadcasting service on a primary basis and used in accordance with the decisions contained in the Final Acts of the Special Regional Conference (Geneva, 1960).

S5.185 Different category of service: in the United States, the French Overseas Departments in Region 2, Guyana, Jamaica, Mexico and Paraguay, the allocation of the band 76-88 MHz to the fixed and mobile services is on a primary basis (see No. S5.33).

S5.187 Alternative allocation: in Albania, the band 81-87.5 MHz is allocated to the broadcasting service on a primary basis and used in accordance with the decisions contained in the Final Acts of the Special Regional Conference (Geneva, 1960).

S5.188 Additional allocation: in Australia, the band 85-87 MHz is also allocated to the broadcasting service on a primary basis. The introduction of the broadcasting service in Australia is subject to special agreements between the administrations concerned.

S5.190 Additional allocation: in Monaco, the band 87.5-88 MHz is also allocated to the land mobile service on a primary basis, subject to agreement obtained under No. S9.21.

S5.192 Additional allocation: in China and the Republic of Korea, the band 100-108 MHz is also allocated to the fixed and mobile services on a primary basis.

S5.194 Additional allocation: in Azerbaijan, Lebanon, Syria, Kyrgyzstan, Somalia and Turkmenistan, the band 104-108 MHz is also allocated to the mobile, except aeronautical mobile (R), service on a secondary basis.

S5.197 Additional allocation: in Germany, Austria, Cyprus, Denmark, Egypt, France, Italy, Japan, Jordan, Lebanon, Malta, Morocco, Monaco, Norway, Pakistan, Syria, and Sweden, the band 108-111.975 MHz is also allocated to the mobile service on a secondary basis, subject to agreement obtained under No. S9.21. In order to ensure that harmful interference is not caused to stations of the aeronautical radionavigation service, stations of the mobile service shall not be introduced in the band until it is no longer required for the aeronautical radionavigation service by any administration which may be identified in the application of the procedures invoked under No. S9.21.

S5.198 Additional allocation: the band 117.975-136 MHz is also allocated to the aeronautical mobile-satellite (R) service on a secondary basis, subject to agreement obtained under No. S9.21.

S5.199 The bands 121.45-121.55 MHz and 242.95-243.05 MHz are also allocated to the mobile-satellite service for the reception on board satellites of emissions from emergency position-indicating radiobeacons transmitting at 121.5 MHz and 243 MHz (see Appendix S13).

S5.200 In the band 117.975-136 MHz, the frequency 121.5 MHz is the aeronautical emergency frequency and, where required, the frequency 123.1 MHz is the aeronautical frequency auxiliary to 121.5 MHz. Mobile stations of the maritime mobile service may communicate on these frequencies under the conditions laid down in Article S31 and Appendix S13 for distress and safety purposes with stations of the aeronautical mobile service.

S5.201 Additional allocation: in Angola, Armenia, Azerbaijan, Belarus, Bulgaria, Estonia, Georgia, Hungary, the Islamic Republic of Iran, Iraq, Japan, Kazakstan, Latvia, Moldova, Mongolia, Mozambique, Uzbekistan, Papua New Guinea, Poland, Kyrgyzstan, Slovakia, the Czech Republic, Romania, Russian Federation, Tajikistan, Turkmenistan and Ukraine, the band 132-136 MHz is also allocated to the aeronautical mobile (OR) service on a primary basis. In assigning frequencies to stations of the aeronautical mobile (OR) service, the administration shall take account of the frequencies assigned to stations in the aeronautical mobile (R) service.

S5.202 Additional allocation: in Saudi Arabia, Armenia, Azerbaijan, Belarus, Bulgaria, United Arab Emirates, Georgia, the Islamic Republic of Iran, Jordan, Kazakstan, Latvia, Moldova, Oman, Uzbekistan, Poland, Syria, Kyrgyzstan, Slovakia, the Czech Republic, Romania, Russian Federation, Tajikistan, Turkmenistan, Turkey and Ukraine, the band 136-137 MHz is also allocated to the aeronautical mobile (OR) service on a primary basis. In assigning frequencies to stations of the aeronautical mobile (OR) service, the administration shall take account of the frequencies assigned to stations in the aeronautical mobile (R) service.

S5.203 In the band 136-137 MHz, existing operational meteorological satellites may continue to operate, under the conditions defined in No. S4.4 with respect to the aeronautical mobile service, until 1 January 2002. Administrations shall not authorize new frequency assignments in this band to stations in the meteorological-satellite service.

S5.203A Additional allocation: in Israel, Mauritania, Qatar and Zimbabwe, the band 136-137 MHz is also allocated to the fixed and mobile, except aeronautical mobile (R), services on a secondary basis until 1 January 2005.

S5.203B Additional allocation: in Saudi Arabia, United Arab Emirates, Jordan, Oman and Syria, the band 136-137 MHz is also allocated to the fixed and mobile, except aeronautical mobile, services on a secondary basis until 1 January 2005.

S5.204 Different category of service: in Afghanistan, Saudi Arabia, Bahrain, Bangladesh, Bosnia and Herzegovina, Brunei Darussalam, China, Cuba, the United Arab Emirates, India, Indonesia, the Islamic Republic of Iran, Iraq, Malaysia, Oman, Pakistan, Philippines, Qatar, Singapore, Sri Lanka, Thailand, Yemen and Yugoslavia, the band 137-138 MHz is allocated to the fixed and mobile, except aeronautical mobile (R), services on a primary basis (see No. S5.33).

S5.205 Different category of service: in Israel and Jordan, the allocation of the band 137-138 MHz to the fixed and mobile, except aeronautical mobile, services is on a primary basis (see No. S5.33).

S5.206 Different category of service: in Armenia, Austria, Azerbaijan, Belarus, Bulgaria, Egypt, Finland, France, Georgia, Greece, Hungary, Kazakstan, Lebanon, Moldova, Mongolia, Uzbekistan, Poland, Kyrgyzstan, Syria, Slovakia, the Czech Republic, Romania, Russian Federation, Tajikistan, Turkmenistan and Ukraine, the allocation of the band 137-138 MHz to the aeronautical mobile (OR) service is on a primary basis (see No. S5.33).

S5.207 Additional allocation: in Australia, the band 137-144 MHz is also allocated to the broadcasting service on a primary basis until that service can be accommodated within regional broadcasting allocations.

S5.208 The use of the band 137-138 MHz by the mobile-satellite service is subject to coordination under No. S9.11A.

S5.208A In making assignments to space stations in the mobile-satellite service in the bands 137-138 MHz, 387-390 MHz and 400.15-401 MHz, administrations shall take all practicable steps to protect the radio astronomy service in the bands 150.05-153 MHz, 322-328.6 MHz, 406.1-410 MHz and 608-614 MHz from harmful interference from unwanted emissions. The threshold levels of interference detrimental to the radio astronomy service are shown in Table 1 of Recommendation ITU-R RA.769-1.

S5.209 The use of the bands 137-138 MHz, 148-150.05 MHz, 399.9-400.05 MHz, 400.15-401 MHz, 454-456 MHz and 459-460 MHz by the mobile-satellite service is limited to non-geostationary-satellite systems.

S5.210 Additional allocation: in Austria, France, Italy, Liechtenstein, Slovakia, the Czech Republic, the United Kingdom and Switzerland, the bands 138-143.6 MHz and 143.65-144 MHz are also allocated to the space research service (space-to-Earth) on a secondary basis.

S5.211 Additional allocation: in Germany, Saudi Arabia, Austria, Bahrain, Belgium, Bosnia and Herzegovina, Denmark, the United Arab Emirates, Spain, Finland, Greece, Ireland, Israel, Kenya, Kuwait, The Former Yugoslav Republic of Macedonia, Liechtenstein, Luxembourg, Mali, Malta, Norway, the Netherlands, Qatar, the United Kingdom, Slovenia, Somalia, Sweden, Switzerland, Tanzania, Tunisia, Turkey and Yugoslavia, the band 138-144 MHz is also allocated to the maritime mobile and land mobile services on a primary basis.

S5.212 Alternative allocation: in Angola, Botswana, Burundi, Cameroon, the Central African Republic, the Congo, Gabon, Gambia, Ghana, Guinea, Iraq, Jordan, Lesotho, Liberia, Libya, Malawi, Mozambique, Namibia, Nigeria, Oman, Dem. Rep. of the Congo, Rwanda, Sierra Leone, South Africa, Swaziland, Chad, Togo, Zaire, Zambia and Zimbabwe, the band 138-144 MHz is allocated to the fixed and mobile services on a primary basis.

S5.213 Additional allocation: in China, the band 138-144 MHz is also allocated to the radiolocation service on a primary basis.

S5.214 Additional allocation: in Bosnia and Herzegovina, Croatia, Eritrea, Ethiopia, Kenya, The Former Yugoslav Republic of Macedonia, Malta, Slovenia, Somalia, Sudan, Tanzania and Yugoslavia, the band 138-144 MHz is also allocated to the fixed service on a primary basis

S5.216 Additional allocation: in China, the band 144-146 MHz is also allocated to the aeronautical mobile (OR) service on a secondary basis.

S5.217 Alternative allocation: in Afghanistan, Bangladesh, Cuba, Guyana and India, the band 146-148 MHz is allocated to the fixed and mobile services on a primary basis.

S5.218 Additional allocation: the band 148-149.9 MHz is also allocated to the space operation service (Earth-to-space) on a primary basis, subject to agreement obtained under No. S9.21. The bandwidth of any individual transmission shall not exceed ±25 kHz.

S5.219 The use of the band 148-149.9 MHz by the mobile-satellite service is subject to coordination under No. S9.11A. The mobile-satellite service shall not constrain the development and use of the fixed, mobile and space operation services in the band 148-149.9 MHz.

S5.220 The use of the bands 149.9-150.05 MHz and 399.9-400.05 MHz by the mobile-satellite service is subject to coordination under No. S9.11A. The mobile-satellite service shall not constrain the development and use of the radionavigation-satellite service in the bands 149.9-150.05 MHz and 399.9-400.05 MHz.

S5.221 Stations of the mobile-satellite service in the band 148-149.9 MHz shall not cause harmful interference to, or claim protection from, stations of the fixed or mobile services operating in accordance with the Table of Frequency Allocations in the following countries: Albania, Algeria, Germany, Saudi Arabia, Australia, Austria, Bahrain, Bangladesh, Barbados, Belarus, Belgium, Benin, Bosnia and Herzegovina, Brunei Darussalam, Bulgaria, Cameroon, China, Cyprus, Congo, the Republic of Korea, Croatia, Cuba, Denmark, Egypt, the United Arab Emirates, Eritrea, Spain, Estonia, Ethiopia, Finland, France, Gabon, Ghana, Greece, Guinea, Guinea Bissau, Hungary, India, the Islamic Republic of Iran, Ireland, Iceland, Israel, Italy, Jamaica, Japan, Jordan, Kazakstan, Kenya, Kuwait, Latvia, The Former Yugoslav Republic of Macedonia, Lebanon, Libya, Liechtenstein, Luxembourg, Malaysia, Mali, Malta, Mauritania, Moldova, Mongolia, Mozambique, Namibia, Norway, New Zealand, Oman, Uganda, Uzbekistan, Pakistan, Panama, Papua New Guinea, Paraguay, the Netherlands, Philippines, Poland, Portugal, Qatar, Syria, Kyrgyzstan, Slovakia, Romania, the United Kingdom, Russian Federation, Senegal, Sierra Leone, Singapore, Slovenia, Sri Lanka, South Africa, Sweden, Switzerland, Swaziland, Tanzania, Chad, Thailand, Togo, Tonga, Trinidad and Tobago, Tunisia, Turkey, Ukraine, Viet Nam, Yemen, Yugoslavia, Zambia, and Zimbabwe.

S5.222 Emissions of the radionavigation-satellite service in the bands 149.9-150.05 MHz and 399.9-400.05 MHz may also be used by receiving earth stations of the space research service.

S5.223 Recognizing that the use of the band 149.9-150.05 MHz by the fixed and mobile services may cause harmful interference to the radionavigation-satellite service, administrations are urged not to authorize such use in application of No. S4.4.

S5.224A The use of the bands 149.9-150.05 MHz and 399.9-400.05 MHz by the mobile-satellite service (Earth-to-space) is limited to the land mobile-satellite service (Earth-to-space) until 1 January 2015.

S5.224B The allocation of the bands 149.9-150.05 MHz and 399.9-400.05 MHz to the radionavigation-satellite service shall be effective until 1 January 2015.

S5.225 Additional allocation: in Australia and India, the band 150.05-153 MHz is also allocated to the radio astronomy service on a primary basis.

S5.226 The frequency 156.8 MHz is the international distress, safety and calling frequency for the maritime mobile VHF radiotelephone service. The conditions for the use of this frequency are contained in Article S31 and Appendix S13.

In the bands 156-156.7625 MHz, 156.8375-157.45 MHz, 160.6-160.975 MHz and 161.475-162.05 MHz, each administration shall give priority to the maritime mobile service on only such frequencies as are assigned to stations of the maritime mobile service by the administration (see Articles S31 and S52, and Appendix S13).

Any use of frequencies in these bands by stations of other services to which they are allocated should be avoided in areas where such use might cause harmful interference to the maritime mobile VHF radiocommunication service.

However, the frequency 156.8 MHz and the frequency bands in which priority is given to the maritime mobile service may be used for radiocommunications on inland waterways subject to agreement between interested and affected administrations and taking into account current frequency usage and existing agreements.

S5.227 In the maritime mobile VHF service the frequency 156.525 MHz is to be used exclusively for digital selective calling for distress, safety and calling. The conditions for the use of this frequency are prescribed in Articles S31 and S52, and Appendices S13 and S18.

S5.229 Alternative allocation: in Morocco, the band 162-174 MHz is allocated to the broadcasting service on a primary basis. The use of this band shall be subject to agreement with administrations having services, operating or planned, in accordance with the Table which are likely to be affected. Stations in existence on 1 January 1981, with their technical characteristics as of that date, are not affected by such agreement.

S5.230 Additional allocation: in China, the band 163-167 MHz is also allocated to the space operation service (space-to-Earth) on a primary basis, subject to agreement obtained under No. S9.21.

S5.231 Additional allocation: in Afghanistan, China and Pakistan, the band 167-174 MHz is also allocated to the broadcasting service on a primary basis. The introduction of the broadcasting service into this band shall be subject to agreement with the neighbouring countries in Region 3 whose services are likely to be affected.

S5.232 Additional allocation: in Japan, the band 170-174 MHz is also allocated to the broadcasting service on a primary basis.

S5.233 Additional allocation: in China, the band 174-184 MHz is also allocated to the space research (space-to-Earth) and the space operation (space-to-Earth) services on a primary basis, subject to agreement obtained under No. S9.21. These services shall not cause harmful interference to, or claim protection from, existing or planned broadcasting stations.

S5.234 Different category of service: in Mexico, the allocation of the band 174-216 MHz to the fixed and mobile services is on a primary basis (see No. S5.33).

S5.235 Additional allocation: in Germany, Austria, Belgium, Denmark, Spain, Finland, France, Israel, Italy, Liechtenstein, Malta, Monaco, Norway, the Netherlands, the United Kingdom, Sweden and Switzerland, the band 174-223 MHz is also allocated to the land mobile service on a primary basis. However, the stations of the land mobile service shall not cause harmful interference to, or claim protection from, broadcasting stations, existing or planned, in countries other than those listed in this footnote.

S5.237 Additional allocation: in the Congo, Eritrea, Ethiopia, Gambia, Guinea, Libya, Malawi, Mali, Senegal, Sierra Leone, Somalia, Tanzania and Zimbabwe, the band 174-223 MHz is also allocated to the fixed and mobile services on a secondary basis.

S5.238 Additional allocation: in Bangladesh, India, Pakistan and the Philippines, the band 200-216 MHz is also allocated to the aeronautical radionavigation service on a primary basis.

S5.240 Additional allocation: in China and India, the band 216-223 MHz is also allocated to the aeronautical radionavigation service on a primary basis and to the radiolocation service on a secondary basis.

S5.241 In Region 2, no new stations in the radiolocation service may be authorized in the band 216-225 MHz. Stations authorized prior to 1 January 1990 may continue to operate on a secondary basis.

S5.242 Additional allocation: in Canada, the band 216-220 MHz is also allocated to the land mobile service on a primary basis.

S5.243 Additional allocation: in Somalia, the band 216-225 MHz is also allocated to the aeronautical radionavigation service on a primary basis, subject to not causing harmful interference to existing or planned broadcasting services in other countries.

S5.245 Additional allocation: in Japan, the band 222-223 MHz is also allocated to the aeronautical radionavigation service on a primary basis and to the radiolocation service on a secondary basis.

S5.246 Alternative allocation: in Spain, France, Israel and Monaco, the band 223-230 MHz is allocated to the broadcasting and land mobile services on a primary basis (see No. S5.33) on the basis that, in the preparation of frequency plans, the broadcasting service shall have prior choice of frequencies; and allocated to the fixed and mobile, except land mobile, services on a secondary basis. However, the stations of the land mobile service shall not cause harmful interference to, or claim protection from, existing or planned broadcasting stations in Morocco and Algeria.

S5.247 Additional allocation: in Saudi Arabia, Bahrain, the United Arab Emirates, Jordan, Oman, Qatar and Syria, the band 223-235 MHz is also allocated to the aeronautical radionavigation service on a primary basis.

S5.250 Additional allocation: in China, the band 225-235 MHz is also allocated to the radio astronomy service on a secondary basis.

S5.251 Additional allocation: in Nigeria, the band 230-235 MHz is also allocated to the aeronautical radionavigation service on a primary basis, subject to agreement obtained under No. S9.21.

S5.252 Alternative allocation: in Botswana, Lesotho, Malawi, Mozambique, Namibia, South Africa, Swaziland, Zambia and Zimbabwe, the bands 230-238 MHz and 246-254 MHz are allocated to the broadcasting service on a primary basis, subject to agreement obtained under No. S9.21.

S5.254 The bands 235-322 MHz and 335.4-399.9 MHz may be used by the mobile-satellite service, subject to agreement obtained under No. S9.21, on condition that stations in this service do not cause harmful interference to those of other services operating or planned to be operated in accordance with the Table of Frequency Allocations.

S5.255 The bands 312-315 MHz (Earth-to-space) and 387-390 MHz (space-to-Earth) in the mobile-satellite service may also be used by non-geostationary-satellite systems. Such use is subject to coordination under No. S9.11A.

S5.256 The frequency 243 MHz is the frequency in this band for use by survival craft stations and equipment used for survival purposes (see Appendix S13).

S5.257 The band 267-272 MHz may be used by administrations for space telemetry in their countries on a primary basis, subject to agreement obtained under No. S9.21.

S5.258 The use of the band 328.6-335.4 MHz by the aeronautical radionavigation service is limited to Instrument Landing Systems (glide path).

S5.259 Additional allocation: in Germany, Austria, Cyprus, the Republic of Korea, Denmark, Egypt, Spain, France, Greece, Israel, Italy, Japan, Jordan, Malta, Morocco, Monaco, Norway, the Netherlands, Syria and Sweden, the band 328.6-335.4 MHz is also allocated to the mobile service on a secondary basis, subject to agreement obtained under No. S9.21. In order to ensure that harmful interference is not caused to stations of the aeronautical radionavigation service, stations of the mobile service shall not be introduced in the band until it is no longer required for the aeronautical radionavigation service by any administration which may be identified in the application of the procedure invoked under No. S9.21.

S5.260 Recognizing that the use of the band 399.9-400.05 MHz by the fixed and mobile services may cause harmful interference to the radionavigation satellite service, administrations are urged not to authorize such use in application of No. S4.4.

S5.261 Emissions shall be confined in a band of ± 25 kHz about the standard frequency 400.1 MHz.

S5.262 Additional allocation: in Saudi Arabia, Armenia, Azerbaijan, Bahrain, Belarus, Bosnia and Herzegovina, Bulgaria, Colombia, Costa Rica, Cuba, Egypt, the United Arab Emirates, Ecuador, Estonia, Georgia, Hungary, Indonesia, the Islamic Republic of Iran, Iraq, Israel, Jordan, Kazakstan, Kuwait, Liberia, Malaysia, Moldova, Nigeria, Uzbekistan, Pakistan, the Philippines, Qatar, Syria, Kyrgyzstan, Slovakia, Romania, Russian Federation, Singapore, Somalia, Sri Lanka, Tajikistan, Turkmenistan, Ukraine and Yugoslavia, the band 400.05-401 MHz is also allocated to the fixed and mobile services on a primary basis.

S5.263 The band 400.15-401 MHz is also allocated to the space research service in the space-to-space direction for communications with manned space vehicles. In this application, the space research service will not be regarded as a safety service.

S5.264 The use of the band 400.15-401 MHz by the mobile-satellite service is subject to coordination under No. S9.11A. The power flux-density limit indicated in Annex 1 of Appendix S5 shall apply until such time as a competent world radiocommunication conference revises it.

S5.266 The use of the band 406-406.1 MHz by the mobile-satellite service is limited to low power satellite emergency position-indicating radiobeacons (see also Article S31 and Appendix S13).

S5.267 Any emission capable of causing harmful interference to the authorized uses of the band 406-406.1 MHz is prohibited.

S5.268 Use of the band 410-420 MHz by the space research service is limited to communications within 5 km of an orbiting, manned space vehicle. The power flux-density at the surface of the Earth produced by emissions from extra-vehicular activities shall not exceed −153 dB(W/m²) for 0° ≤ δ ≤ 5°, −153 + 0.077 (δ−5) dB(W/m²) for 5° ≤ δ ≤ 70° and −148 dB(W/m²) for 70° ≤ δ ≤ 90°, where δ is the angle of arrival of the radio-frequency wave and the reference bandwidth is 4 kHz. No. S4.10 does not apply to extra-vehicular activities. In this frequency band the space research (space-to-space) service shall not claim protection from, nor constrain the use and development of, stations of the fixed and mobile services.

S5.269 Different category of service: in Australia, the United States, India, Japan and the United Kingdom, the allocation of the bands 420-430 MHz and 440-450 MHz to the radiolocation service is on a primary basis (see No. S5.33).

S5.270 Additional allocation: in Australia, the United States, Jamaica and the Philippines, the bands 420-430 MHz and 440-450 MHz are also allocated to the amateur service on a secondary basis.

S5.271 Additional allocation: in Azerbaijan, Belarus, China, Estonia, India, Latvia, Lithuania, Kyrgyzstan, Turkmenistan and Ukraine, the band 420-460 MHz is also allocated to the aeronautical radionavigation service (radio altimeters) on a secondary basis.

S5.272 Different category of service: in France, the allocation of the band 430-434 MHz to the amateur service is on a secondary basis (see No. S5.32).

S5.273 Different category of service: in Denmark, Libya and Norway, the allocation of the bands 430-432 MHz and 438-440 MHz to the radiolocation service is on a secondary basis (see No. S5.32).

S5.274 Alternative allocation: in Denmark, Norway and Sweden, the bands 430-432 MHz and 438-440 MHz are allocated to the fixed and mobile, except aeronautical mobile, services on a primary basis.

S5.275 Additional allocation: in Bosnia and Herzegovina, Croatia, Estonia, Finland, Latvia, The Former Yugoslav Republic of Macedonia, Libya, Slovenia and Yugoslavia, the bands 430-432 MHz and 438-440 MHz are also allocated to the fixed and mobile, except aeronautical mobile, services on a primary basis.

S5.276 Additional allocation: in Afghanistan, Algeria, Saudi Arabia, Bahrain, Bangladesh, Brunei Darussalam, Burkina Faso, Burundi, Egypt, the United Arab Emirates, Ecuador, Eritrea, Ethiopia, Greece, Guinea, India, Indonesia, the Islamic Republic of Iran, Iraq, Israel, Italy, Jordan, Kenya, Kuwait, Lebanon, Libya, Liechtenstein, Malaysia, Malta, Nigeria, Oman, Pakistan, the Philippines, Qatar, Syria, Democratic People's Republic of Korea, Singapore, Somalia, Switzerland, Tanzania, Thailand, Togo, Turkey and Yemen, the band 430-440 MHz is also allocated to the fixed service on a primary basis and the bands 430-435 MHz and 438-440 MHz are also allocated to the mobile, except aeronautical mobile, service on a primary basis.

S5.277 Additional allocation: in Angola, Armenia, Azerbaijan, Belarus, Cameroon, the Congo, Djibouti, Gabon, Georgia, Hungary, Kazakstan, Latvia, Mali, Moldova, Mongolia, Uzbekistan, Pakistan, Poland, Kyrgyzstan, Slovakia, the Czech Republic, Romania, Russian Federation, Rwanda, Tajikistan, Chad, Turkmenistan and Ukraine, the band 430-440 MHz is also allocated to the fixed service on a primary basis.

S5.278 Different category of service: in Argentina, Colombia, Costa Rica, Cuba, Guyana, Honduras, Panama and Venezuela, the allocation of the band 430-440 MHz to the amateur service is on a primary basis (see No. S5.33).

S5.279 Additional allocation: in Mexico, the bands 430-435 MHz and 438-440 MHz are also allocated on a primary basis to the land mobile service, subject to agreement obtained under No. S9.21.

S5.280 In Germany, Austria, Bosnia and Herzegovina, Croatia, The Former Yugoslav Republic of Macedonia, Liechtenstein, Portugal, Slovenia, Switzerland and Yugoslavia, the band 433.05-434.79 MHz (centre frequency 433.92 MHz) is designated for industrial, scientific and medical (ISM) applications. Radiocommunication services of these countries operating within this band must accept harmful interference which may be caused by these applications. ISM equipment operating in this band is subject to the provisions of No. S15.13.

S5.281 Additional allocation: in the French Overseas Departments in Region 2 and India, the band 433.75-434.25 MHz is also allocated to the space operation service (Earth-to-space) on a primary basis. In France and in Brazil, the band is allocated to the same service on a secondary basis.

S5.282 In the bands 435-438 MHz, 1260-1270 MHz, 2400-2450 MHz, 3400-3410 MHz (in Regions 2 and 3 only) and 5650-5670 MHz, the amateur-satellite service may operate subject to not causing harmful interference to other services operating in accordance with the Table (see No. S5.43). Administrations authorizing such use shall ensure that any harmful interference caused by emissions from a station in the amateur-satellite service is immediately eliminated in accordance with the provisions of No. S25.11. The use of the bands 1260-1270 MHz and 5650-5670 MHz by the amateur-satellite service is limited to the Earth-to-space direction.

S5.283 Additional allocation: in Austria, the band 438-440 MHz is also allocated to the fixed and mobile, except aeronautical mobile, services on a primary basis.

S5.284 Additional allocation: in Canada, the band 440-450 MHz is also allocated to the amateur service on a secondary basis.

S5.285 Different category of service: in Canada, the allocation of the band 440-450 MHz to the radiolocation service is on a primary basis (see No. S5.33).

S5.286 The band 449.75-450.25 MHz may be used for the space operation service (Earth-to-space) and the space research service (Earth-to-space), subject to agreement obtained under No. S9.21.

S5.286A The use of the bands 454-456 MHz and 459-460 MHz by the mobile-satellite service is subject to coordination under No. S9.11A.

S5.286B The use of the band 454-455 MHz in the countries listed in No. S5.286D, 455-456 MHz and 459-460 MHz in Region 2, and 454-456 MHz and 459-460 MHz in the countries listed in No. S5.286E, by stations in the mobile-satellite service, shall not cause harmful interference to, or claim protection from, stations of the fixed or mobile services operating in accordance with the Table of Frequency Allocations.

S5.286C The use of the band 454-455 MHz in the countries listed in No. S5.286D, 455-456 MHz and 459-460 MHz in Region 2, and 454-456 MHz and 459-460 MHz in the countries listed in No. S5.286E, by stations in the mobile-satellite service, shall not constrain the development and use of the fixed and mobile services operating in accordance with the Table of Frequency Allocations.

S5.286D Additional allocation: in Canada, the United States, Mexico and Panama, the band 454-455 MHz is also allocated to the mobile-satellite service (Earth-to-space) on a primary basis.

S5.286E Additional allocation: in Cape Verde, Indonesia, Nepal, Nigeria and Papua New Guinea, the bands 454-456 MHz and 459-460 MHz are also allocated to the mobile-satellite (Earth-to-space) service on a primary basis.

S5.287 In the maritime mobile service, the frequencies 457.525 MHz, 457.550 MHz, 457.575 MHz, 467.525 MHz, 467.550 MHz and 467.575 MHz may be used by on-board communication stations. Where needed, equipment designed for 12.5 kHz channel spacing using also the additional frequencies 457.5375 MHz, 457.5625 MHz, 467.5375 MHz and 467.5625 MHz may be introduced for on-board communications. The use of these frequencies in territorial waters may be subject to the national regulations of the administration concerned. The characteristics of the equipment used shall conform to those specified in Recommendation ITU-R M.1174 (see Resolution 341 (WRC-97)).

S5.288 In the territorial waters of the United States and the Philippines, the preferred frequencies for use by on-board communication stations shall be 457.525 MHz, 457.550 MHz, 457.575 MHz and 457.600 MHz paired, respectively, with 467.750 MHz, 467.775 MHz, 467.800 MHz and 467.825 MHz. The characteristics of the equipment used shall conform to those specified in Recommendation ITU-R M.1174.

S5.289 Earth exploration-satellite service applications, other than the meteorological-satellite service, may also be used in the bands 460-470 MHz and 1690-1710 MHz for space-to-Earth transmissions subject to not causing harmful interference to stations operating in accordance with the Table.

S5.290 Different category of service: in Afghanistan, Armenia, Azerbaijan, Belarus, China, Japan, Kazakstan, Mongolia, Uzbekistan, Kyrgyzstan, Slovakia, the Czech Republic, Russian Federation, Tajikistan, Turkmenistan and Ukraine, the allocation of the band 460-470 MHz to the meteorological-satellite service (space-to-Earth) is on a primary basis (see No. S5.33), subject to agreement obtained under No. S9.21.

S5.291 Additional allocation: in China, the band 470-485 MHz is also allocated to the space research (space-to-Earth) and the space operation (space-to-Earth) services on a primary basis subject to agreement obtained under No. S9.21 and subject to not causing harmful interference to existing and planned broadcasting stations.

S5.291A Additional allocation: in Germany, Austria, Denmark, Estonia, Finland, Liechtenstein, Norway, Netherlands, the Czech Republic and Switzerland, the band 470-494 MHz is also allocated to the radiolocation service on a secondary basis. This use is limited to the operation of wind profiler radars in accordance with Resolution 217 (WRC-97).

S5.292 Different category of service: in Mexico and Venezuela, the allocation of the band 470-512 MHz to the fixed and mobile services, and in Argentina and Uruguay to the mobile service, is on a primary basis (see No. S5.33), subject to agreement obtained under No. S9.21.

S5.293 Different category of service: in Chile, Colombia, Cuba, the United States, Guyana, Honduras, Jamaica, Mexico and Panama, the allocation of the bands 470-512 MHz and 614-806 MHz to the fixed and mobile services is on a primary basis (see No. S5.33), subject to agreement obtained under No. S9.21.

S5.294 Additional allocation: in Burundi, Cameroon, the Congo, Ethiopia, Israel, Kenya, Lebanon, Libya, Malawi, Senegal, Sudan, Syria, and Yemen, the band 470-582 MHz is also allocated to the fixed service on a secondary basis.

S5.296 Additional allocation: in Germany, Austria, Belgium, Cyprus, Denmark, Spain, Finland, France, Ireland, Israel, Italy, Libya, Malta, Morocco, Monaco, Norway, the Netherlands, Portugal, Syria, the United Kingdom, Sweden, Switzerland, Swaziland and Tunisia, the band 470-790 MHz is also allocated on a secondary basis to the land mobile service, intended for applications ancillary to broadcasting. Stations of the land mobile service in the countries listed in this footnote shall not cause harmful interference to existing or planned stations operating in accordance with the Table of Frequency Allocations in countries other than those listed in this footnote.

S5.297 Additional allocation: in Costa Rica, Cuba, El Salvador, the United States, Guatemala, Guyana, Honduras, Jamaica, Mexico and Venezuela, the band 512-608 MHz is also allocated to the fixed and mobile services on a primary basis, subject to agreement obtained under No. S9.21.

S5.298 Additional allocation: in India, the band 549.75-550.25 MHz is also allocated to the space operation service (space-to-Earth) on a secondary basis.

S5.300 Additional allocation: in Israel, Libya, Syria and Sudan, the band 582-790 MHz is also allocated to the fixed and mobile, except aeronautical mobile, services on a secondary basis.

S5.302 Additional allocation: in the United Kingdom, the band 590-598 MHz is also allocated to the aeronautical radionavigation service on a primary basis. All new assignments to stations in the aeronautical radionavigation service, including those transferred from the adjacent bands, shall be subject to coordination with the Administrations of the following countries: Germany, Belgium, Denmark, Spain, France, Ireland, Luxembourg, Morocco, Norway and the Netherlands.

S5.304 Additional allocation: in the African Broadcasting Area (see Nos. S5.10 to S5.13), the band 606-614 MHz is also allocated to the radio astronomy service on a primary basis.

S5.305 Additional allocation: in China, the band 606-614 MHz is also allocated to the radio astronomy service on a primary basis.

S5.306 Additional allocation: in Region 1, except in the African Broadcasting Area (see Nos. S5.10 to S5.13), and in Region 3, the band 608-614 MHz is also allocated to the radio astronomy service on a secondary basis.

S5.307 Additional allocation: in India, the band 608-614 MHz is also allocated to the radio astronomy service on a primary basis.

S5.309 Different category of service: in Costa Rica, El Salvador and Honduras, the allocation of the band 614-806 MHz to the fixed service is on a primary basis (see No. S5.33), subject to agreement obtained under No. S9.21.

S5.311 Within the frequency band 620-790 MHz, assignments may be made to television stations using frequency modulation in the broadcasting-satellite service subject to agreement between the administrations concerned and those having services, operating in accordance with the Table, which may be affected (see Resolutions 33 (Rev. WRC-97) and 507). Such stations shall not produce a power flux-density in excess of the value—129 dB(W/m2) for angles of arrival less than 20° (see Recommendation 705) within the territories of other countries without the consent of the administrations of those countries.

S5.312 Additional allocation: in Armenia, Azerbaijan, Belarus, Bulgaria, Georgia, Hungary, Kazakstan, Latvia, Moldova, Mongolia, Uzbekistan, Poland, Kyrgyzstan, Slovakia, the Czech Republic, Romania, Russian Federation, Tajikistan, Turkmenistan and Ukraine, the band 645-862 MHz is also allocated to the aeronautical radionavigation service on a primary basis.

S5.314 Additional allocation: in Austria, Italy, Uzbekistan, the United Kingdom and Swaziland, the band 790-862 MHz is also allocated to the land mobile service on a secondary basis.

S5.315 Alternative allocation: in Greece, Italy, Morocco and Tunisia, the band 790-838 MHz is allocated to the broadcasting service on a primary basis

S5.316 Additional allocation: in Germany, Bosnia and Herzegovina, Burkina Faso, Cameroon, Côte d'Ivoire, Croatia, Denmark, Egypt, Finland, Israel, Kenya, the Former Yugoslav Republic of Macedonia, Libya, Liechtenstein, Monaco, Norway, the Netherlands, Portugal, Syria, Sweden, Switzerland and Yugoslavia, the band 790-830 MHz, and in these same countries and in Spain, France, Gabon and Malta, the band 830-862 MHz, are also allocated to the mobile, except aeronautical mobile, service on a primary basis. However, stations of the mobile service in the countries mentioned in connection with each band referred to in this footnote shall not cause harmful interference to, or claim protection from, stations of services operating in accordance with the Table in countries other than those mentioned in connection with the band.

S5.317 Additional allocation: in Region 2 (except Brazil and the United States), the band 806-890 MHz is also allocated to the mobile-satellite service on a primary basis, subject to agreement obtained under No. S9.21. The use of this service is intended for operation within national boundaries.

S5.318 Additional allocation: in Canada, the United States and Mexico, the bands 849-851 MHz and 894-896 MHz are also allocated to the aeronautical mobile service on a primary basis, for public correspondence with aircraft. The use of the band 849-851 MHz is limited to transmissions from aeronautical stations and the use of the band 894-896 MHz is limited to transmissions from aircraft stations.

S5.319 Additional allocation: in Belarus, Russian Federation and Ukraine, the bands 806-840 MHz (Earth-to-space) and 856-890 MHz (space-to-Earth) are also allocated to the mobile-satellite, except aeronautical mobile-satellite (R), service. The use of these bands by this service shall not cause harmful interference to, or claim protection from, services in other countries operating in accordance with the Table of Frequency Allocations and is subject to special agreements between the administrations concerned.

S5.320 Additional allocation: in Region 3, the bands 806-890 MHz and 942-960 MHz are also allocated to the mobile-satellite, except aeronautical mobile-satellite (R), service on a primary basis, subject to agreement obtained under No. S9.21. The use of this service is limited to operation within national boundaries. In seeking such agreement, appropriate protection shall be afforded to services operating in accordance with the Table, to ensure that no harmful interference is caused to such services.

S5.321 Alternative allocation: in Italy, the band 838-854 MHz is allocated to the broadcasting service on a primary basis as from 1 January 1995.

S5.322 In Region 1, in the band 862-960 MHz, stations of the broadcasting service shall be operated only in the African Broadcasting Area (see Nos. S5.10 to S5.13) excluding Algeria, Egypt, Spain, Libya, Morocco, Nigeria, South Africa, Tanzania and Zimbabwe, subject to agreement obtained under No. S9.21.

S5.323 Additional allocation: in Armenia, Azerbaijan, Belarus, Bulgaria, Hungary, Kazakstan, Latvia, Moldova, Mongolia, Uzbekistan, Poland, Kyrgyzstan, Slovakia, the Czech Republic, Romania, Russian Federation, Tajikistan, Turkmenistan and Ukraine, the band 862-960 MHz is also allocated to the aeronautical radionavigation service on a primary basis. Such use is subject to agreement obtained under No. S9.21 with administrations concerned and limited to ground-based radiobeacons in operation on 27 October 1997 until the end of their lifetime.

S5.325 Different category of service: in the United States, the allocation of the band 890-942 MHz to the radiolocation service is on a primary basis (see No. S5.33), subject to agreement obtained under No. S9.21.

S5.326 Different category of service: in Chile, the band 903-905 MHz is allocated to the mobile, except aeronautical mobile, service on a primary basis, subject to agreement obtained under No. S9.21.

S5.327 Different category of service: in Australia, the allocation of the band 915-928 MHz to the radiolocation service is on a primary basis (see No. S5.33).

S5.328 The band 960-1215 MHz is reserved on a worldwide basis for the use and development of airborne electronic aids to air navigation and any directly associated ground-based facilities.

S5.329 Use of the radionavigation-satellite service in the band 1215-1260 MHz shall be subject to the condition that no harmful interference is caused to the radionavigation service authorized under No. S5.331.

S5.330 Additional allocation: in Angola, Saudi Arabia, Bahrain, Bangladesh, Cameroon, China, the United Arab Emirates, Eritrea, Ethiopia, Guyana, India, Indonesia, the Islamic Republic of Iran, Iraq, Israel, Japan, Jordan, Kuwait, Lebanon, Libya, Morocco, Mozambique, Nepal, Nigeria, Pakistan, the Philippines, Qatar, Syria, Somalia, Sudan, Sri Lanka, Chad, Togo and Yemen, the band 1215-1300 MHz is also allocated to the fixed and mobile services on a primary basis.

S5.331 Additional allocation: in Algeria, Germany, Austria, Bahrain, Belgium, Benin, Bosnia and Herzegovina, Burundi, Cameroon, China, Croatia, Denmark, the United Arab Emirates, France, Greece, India, the Islamic Republic of Iran, Iraq, Kenya, The Former Yugoslav Republic of Macedonia, Liechtenstein, Luxembourg, Mali, Mauritania, Norway, Oman, Pakistan, the Netherlands, Portugal, Qatar, Senegal, Slovenia, Somalia, Sudan, Sri Lanka, Sweden, Switzerland, Turkey and Yugoslavia, the band 1215-1300 MHz is also allocated to the radionavigation service on a primary basis.

S5.332 In the band 1215-1300 MHz, active spaceborne sensors in the earth exploration-satellite and space research services shall not cause harmful interference to, claim protection from, or otherwise impose constraints on operation or development of the radiolocation service, the radionavigation-satellite service and other services allocated on a primary basis.

S5.333 In the bands 1215-1300 MHz, 3100-3300 MHz, 5250-5350 MHz, 8550-8650 MHz, 9500-9800 MHz and 13.4-14.0 GHz, radiolocation stations installed on spacecraft may also be employed for the earth exploration-satellite and space research services on a secondary basis. (SUP—WRC-97)

S5.334 Additional allocation: in Canada and the United States, the bands 1240-1300 MHz and 1350-1370 MHz are also allocated to the aeronautical radionavigation service on a primary basis.

S5.335 In Canada and the United States in the band 1240-1300 MHz, active spaceborne sensors in the earth exploration-satellite and space research services shall not cause interference to, claim protection from, or otherwise impose constraints on operation or development of the aeronautical radionavigation service.

S5.337 The use of the bands 1300-1350 MHz, 2700-2900 MHz and 9000-9200 MHz by the aeronautical radionavigation service is restricted to ground-based radars and to associated airborne transponders which transmit only on frequencies in these bands and only when actuated by radars operating in the same band.

S5.338 In Azerbaijan, Bulgaria, Mongolia, Poland, Kyrgyzstan, Slovakia, the Czech Republic, Romania, Turkmenistan and Ukraine, existing installations of the radionavigation service may continue to operate in the band 1350-1400 MHz.

S5.339 The bands 1370-1400 MHz, 2640-2655 MHz, 4950-4990 MHz and 15.20-15.35 GHz are also allocated to the space research (passive) and earth exploration-satellite (passive) services on a secondary basis.

S5.340 All emissions are prohibited in the following bands:

1400-1427 MHz, 2690-2700 MHz, except those provided for by Nos. S5.421 and S5.422, 10.68-10.7 GHz, except those provided for by No. S5.483, 15.35-15.4 GHz, except those provided for by No. S5.511, 23.6-24 GHz, 31.3-31.5 GHz, 31.5-31.8 GHz, in Region 2, 48.94-49.04 GHz, from airborne stations, 50.2-50.4 GHz ², except those provided for by No. S5.555A, 52.6-54.25 GHz, 86-92 GHz, 105-116 GHz, 140.69-140.98 GHz, from airborne stations and from space stations in the space-to-Earth direction, 182-185 GHz, except those provided for by No. S5.563, 217-231 GHz.

² The allocation to the earth exploration-satellite service (passive) and the space research service (passive) in the band 50.2-50.4 GHz should not impose undue constraints on the use of the adjacent bands by the primary allocated services in those bands.

S5.341 In the bands 1400-1727 MHz, 101-120 GHz and 197-220 GHz, passive research is being conducted by some countries in a programme for the search for intentional emissions of extraterrestrial origin.

S5.342 Additional allocation: in Belarus, Russian Federation and Ukraine, the band 1429-1535 MHz is also allocated to the aeronautical mobile service on a primary basis exclusively for the purposes of aeronautical telemetry within the national territory. As of 1 April 2007, the use of the band 1452-1492 MHz is subject to agreement between the administrations concerned.

S5.343 In Region 2, the use of the band 1435-1535 MHz by the aeronautical mobile service for telemetry has priority over other uses by the mobile service.

S5.344 Alternative allocation: in the United States, the band 1452-1525 MHz is allocated to the fixed and mobile services on a primary basis (see also No. S5.343).

S5.345 Use of the band 1452-1492 MHz by the broadcasting-satellite service, and by the broadcasting service, is limited to digital audio broadcasting and is subject to the provisions of Resolution 528 (WARC-92).

S5.347 Different category of service: in Bangladesh, Bosnia and Herzegovina, Botswana, Bulgaria, Burkina Faso, Cuba, Denmark, Egypt, Greece, Ireland, Italy, Jordan, Kenya, Mozambique, Portugal, Sri Lanka, Swaziland, Yemen, Yugoslavia and Zimbabwe, the allocation of the band 1452-1492 MHz to the broadcasting-satellite service and the broadcasting service is on a secondary basis until 1 April 2007.

S5.348 The use of the band 1 492-1 525 MHz by the mobile-satellite service is subject to coordination under No. S9.11A. However, no coordination threshold in Article S21 for space stations of the mobile-satellite service with respect to terrestrial services shall apply to the situation referred to in No. S5.343. With respect to the situation referred to in No. S5.343, the requirement for coordination in the band 1492-1525 MHz will be determined by band overlap.

S5.348A In the band 1 492-1 525 MHz, the coordination threshold in terms of the power flux-density levels at the surface of the Earth in application of No. S.9.11A for space stations in the mobile-satellite (space-to-Earth) service, with respect to the land mobile service use for specialized mobile radios or used in conjunction with public switched telecommunication networks (PSTN) operating within the territory of Japan, shall be—150 dB(W/m²) in any 4 kHz band for all angles of arrival, instead of those given in Table S5-2 of Appendix S5. The above threshold level of the power flux-density shall apply until it is changed by a competent world radiocommunication conference.

S5.349 Different category of service: in Saudi Arabia, Azerbaijan, Bahrain, Bosnia and Herzegovina, Cameroon, Egypt, the United Arab Emirates, France, the Islamic Republic of Iran, Iraq, Israel, Kazakstan, Kuwait, The Former Yugoslav Republic of Macedonia, Lebanon, Morocco, Mongolia, Oman, Qatar, Syria, Kyrgyzstan, Romania, Turkmenistan, Ukraine, Yemen and Yugoslavia, the allocation of the band 1525-1530 MHz to the mobile, except aeronautical mobile, service is on a primary basis (see No. S5.33).

S5.350 Additional allocation: in Azerbaijan, Kyrgyzstan, Turkmenistan and Ukraine, the band 1525-1530 MHz is also allocated to the aeronautical mobile service on a primary basis.

S5.351 The bands 1525-1544 MHz, 1545-1559 MHz, 1626.5-1645.5 MHz and 1646.5-1660.5 MHz shall not be used for feeder links of any service. In exceptional circumstances, however, an earth station at a specified fixed point in any of the mobile-satellite services may be authorized by an administration to communicate via space stations using these bands.

S5.352A In the band 1525-1530 MHz, stations in the mobile-satellite service, except stations in the maritime mobile-satellite service, shall not cause harmful interference to, or claim protection from, stations of the fixed service in France and French overseas territories in Region 3, Algeria, Saudi Arabia, Egypt, Guinea, India, Israel, Italy, Jordan, Kuwait, Mali, Malta, Morocco, Mauritania, Nigeria, Oman, Pakistan, Philippines, Qatar, Syria, Tanzania, Viet Nam and Yemen notified prior to 1 April 1998.

S5.353A In applying the procedures of No. S9.11A to the mobile-satellite service in the bands 1530-1544 MHz and 1626.5-1645.5 MHz, priority shall be given to accommodating the spectrum requirements for distress, urgency and safety communications of the Global Maritime Distress and Safety System (GMDSS). Maritime mobile-satellite distress, urgency and safety communications shall have priority access and immediate availability over all other mobile satellite communications operating within a network. Mobile-satellite systems shall not cause unacceptable interference to, or claim protection from, distress, urgency and safety communications of the GMDSS. Account shall be taken of the priority of safety-related communications in the other mobile-satellite services. (See Resolution 218 (WRC-97).)

S5.354 The use of the bands 1525-1559 MHz and 1626.5-1660.5 MHz by the mobile-satellite services is subject to coordination under No. S9.11A.

S5.355 Additional allocation: in Bahrain, Bangladesh, the Congo, Egypt, the United Arab Emirates, Eritrea, Ethiopia, the Islamic Republic of Iran, Iraq, Israel, Jordan, Kuwait, Lebanon, Malta, Morocco, Oman, Qatar, Syria, Somalia, Sudan, Sri Lanka, Chad, Togo, Yemen and Zambia, the bands 1540-1645.5 MHz and 1646.5-1660 MHz are also allocated to the fixed service on a secondary basis.

S5.356 The use of the band 1544-1545 MHz by the mobile-satellite service (space-to-Earth) is limited to distress and safety communications (see Article S31).

S5.357 Transmissions in the band 1545-1555 MHz from terrestrial aeronautical stations directly to aircraft stations, or between aircraft stations, in the aeronautical mobile (R) service are also authorized when such transmissions are used to extend or supplement the satellite-to-aircraft links.

S5.357A In applying the procedures of No. S9.11A to the mobile-satellite service in the bands 1545-1555 MHz and 1646.5-1656.5 MHz, priority shall be given to accommodating the spectrum requirements of the aeronautical mobile-satellite (R) service providing transmission of messages with priority 1 to 6 in Article S44. Aeronautical mobile-satellite (R) service communications with priority 1 to 6 in Article S44 shall have priority access and immediate availability, by pre-emption if necessary, over all other mobile-satellite communications operating within a network. Mobile-satellite systems shall not cause unacceptable interference to, or claim protection from, aeronautical mobile-satellite (R) service communications with priority 1 to 6 in Article S44. Account shall be taken of the priority of safety-related communications in the other mobile-satellite services. (See Resolution 218 (WRC-97).)

S5.359 Additional allocation: in Germany, Saudi Arabia, Armenia, Austria, Azerbaijan, Belarus, Benin, Bulgaria, Cameroon, Spain, France, Gabon, Georgia, Greece, Guinea, Guinea-Bissau, Hungary, Jordan, Kazakstan, Kuwait, Latvia, Libya, Mali, Mauritania, Moldova, Mongolia, Nigeria, Uganda, Uzbekistan, Pakistan, Poland, Syria, Kyrgyzstan, the Democratic People's Republic of Korea, Romania, Russian Federation, Senegal, Swaziland, Tajikistan, Tanzania, Turkmenistan, Ukraine, Zambia and Zimbabwe the bands 1550-1645.5 MHz and 1646.5-1660 MHz are also allocated to the fixed service on a primary basis. Administrations are urged to make all practicable efforts to avoid the implementation of new fixed-service stations in the bands 1550-1555 MHz, 1610-1645.5 MHz and 1646.5-1660 MHz.

S5.362A In the United States, in the bands 1555-1559 MHz and 1656.5-1660.5 MHz, the aeronautical mobile-satellite (R) service shall have priority access and immediate availability, by pre-emption if necessary, over all other mobile-satellite communications operating within a network. Mobile-satellite systems shall not cause unacceptable interference to, or claim protection from, aeronautical mobile-satellite (R) service communications with priority 1 to 6 in Article S44. Account shall be taken of the priority of safety-related communications in the other mobile-satellite services.

S5.363 Alternative allocation: in Sweden, the band 1590-1626.5 MHz is allocated to the aeronautical radionavigation service on a primary basis.

S5.364 The use of the band 1610-1626.5 MHz by the mobile-satellite service (Earth-to-space) and by the radiodetermination-satellite service (Earth-to-space) is subject to coordination under No. S9.11A. A mobile earth station operating in either of the services in this band shall not produce a peak e.i.r.p. density in excess of −15 dB(W/4 kHz) in the part of the band used by systems operating in accordance with the provisions of No. S5.366 (to which No. S4.10 applies), unless otherwise agreed by the affected administrations. In the part of the band where such systems are not operating, the mean e.i.r.p. density of a mobile earth station shall not exceed —3 dB(W/4 kHz). Stations of the mobile-satellite service shall not claim protection from stations in the aeronautical radionavigation service, stations operating in accordance with the provisions of No. S5.366 and stations in the fixed service operating in accordance with the provisions of No. S5.359. Administrations responsible for the coordination of mobile-satellite networks shall make all practicable efforts to ensure protection of stations operating in accordance with the provisions of No. S5.366.

S5.365 The use of the band 1613.8-1626.5 MHz by the mobile-satellite service (space-to-Earth) is subject to coordination under No. S9.11A.

S5.366 The band 1610-1626.5 MHz is reserved on a worldwide basis for the use and development of airborne electronic aids to air navigation and any directly associated ground-based or satellite-borne facilities. Such satellite use is subject to agreement obtained under No. S9.21.

S5.367 Additional allocation: The bands 1610-1626.5 MHz and 5000-5150 MHz are also allocated to the aeronautical mobile-satellite (R) service on a primary basis, subject to agreement obtained under No. S9.21.

S5.368 With respect to the radiodetermination-satellite and mobile-satellite services the provisions of No. S4.10 do not apply in the band 1610-1626.5 MHz, with the exception of the aeronautical radionavigation-satellite service.

S5.369 Different category of service: in Angola, Australia, Burundi, China, Côte d'Ivoire, Eritrea, Ethiopia, India, the Islamic Republic of Iran, Israel, Jordan, Lebanon, Liberia, Libya, Madagascar, Mali, Pakistan, Papua New Guinea, Dem. Rep. of the Congo, Syria, Senegal, Sudan, Swaziland, Togo and Zambia, the allocation of the band 1610-1626.5 MHz to the radiodetermination-satellite service (Earth-to-space) is on a primary basis (see No. S5.33), subject to agreement obtained under No. S9.21 from countries not listed in this provision.

S5.370 Different category of service: in Venezuela, the allocation to the radiodetermination-satellite service in the band 1610-1626.5 MHz (Earth-to-space) is on a secondary basis.

S5.371 Additional allocation: in Region 1, the bands 1610-1626.5 MHz (Earth-to-space) and 2483.5-2500 MHz (space-to-Earth) are also allocated to the radiodetermination-satellite service on a secondary basis, subject to agreement obtained under No. S9.21.

S5.372 Harmful interference shall not be caused to stations of the radio astronomy service using the band 1610.6-1613.8 MHz by stations of the radiodetermination-satellite and mobile-satellite services (No. S29.13 applies).

S5.374 Mobile earth stations in the mobile-satellite service operating in the bands 1631.5-1634.5 MHz and 1656.5-1660 MHz shall not cause harmful interference to stations in the fixed service operating in the countries listed in No. S5.359.

S5.375 The use of the band 1645.5-1646.5 MHz by the mobile-satellite service (Earth-to-space) and for inter-satellite links is limited to distress and safety communications (see Article S31).

S5.376 Transmissions in the band 1646.5-1656.5 MHz from aircraft stations in the aeronautical mobile (R) service directly to terrestrial aeronautical stations, or between aircraft stations, are also authorized when such transmissions are used to extend or supplement the aircraft-to-satellite links.

S5.376A Mobile earth stations operating in the band 1660-1660.5 MHz shall not cause harmful interference to stations in the radio astronomy service.

S5.377 In the band 1675-1710 MHz, stations in the mobile-satellite service shall not cause harmful interference to, nor constrain the development of, the meteorological-satellite and meteorological aids services (see Resolution 213 (Rev. WRC-95)) and the use of this band shall be subject to coordination under No. S9.11A.

S5.379 Additional allocation: in Bangladesh, India, Indonesia, Nigeria and Pakistan, the band 1660.5-1668.4 MHz is also allocated to the meteorological aids service on a secondary basis.

S5.379A Administrations are urged to give all practicable protection in the band 1660.5-1668.4 MHz for future research in radio astronomy, particularly by eliminating air-to-ground transmissions in the meteorological aids service in the band 1664.4-1668.4 MHz as soon as practicable.

S5.380 The bands 1670-1675 MHz and 1800-1805 MHz are intended for use, on a worldwide basis, by administrations wishing to implement aeronautical public correspondence. The use of the band 1670-1675 MHz by stations in the systems for public correspondence with aircraft is limited to transmissions from aeronautical stations and the use of the band 1800-1805 MHz is limited to transmissions from aircraft stations.

S5.381 Additional allocation: in Afghanistan, Costa Rica, Cuba, India, the Islamic Republic of Iran, Malaysia, Pakistan and Sri Lanka, the band 1690-1700 MHz is also allocated to the fixed and mobile, except aeronautical mobile, services on a primary basis.

S5.382 Different category of service: in Saudi Arabia, Armenia, Austria, Azerbaijan, Bahrain, Belarus, Bosnia and Herzegovina, Bulgaria, the Congo, Egypt, the United Arab Emirates, Eritrea, Ethiopia, Guinea, Hungary, Iraq, Israel, Jordan, Kazakstan, Kuwait, the Former Yugoslav Republic of Macedonia, Lebanon, Mauritania, Moldova, Mongolia, Oman, Uzbekistan, Poland, Qatar, Syria, Kyrgyzstan, Romania, Russian Federation, Somalia, Tajikistan, Tanzania, Turkmenistan, Ukraine, Yemen and Yugoslavia, the allocation of the band 1690-1700 MHz to the fixed and mobile, except aeronautical mobile, services is on a primary basis (see No. S5.33), and in the Democratic People's Republic of Korea, the allocation of the band 1690-1700 MHz to the fixed service is on a primary basis (see No. S5.33) and to the mobile, except aeronautical mobile, service on a secondary basis.

S5.384 Additional allocation: in India, Indonesia and Japan, the band 1700-1710 MHz is also allocated to the space research service (space-to-Earth) on a primary basis.

S5.385 Additional allocation: the bands 1718.8-1722.2 MHz, 150-151 GHz, 174.42-175.02 GHz, 177-177.4 GHz, 178.2-178.6 GHz, 181-181.46 GHz, 186.2-186.6 GHz and 257.5-258 GHz are also allocated to the radio astronomy service on a secondary basis for spectral line observations.

S5.386 Additional allocation: the band 1750-1850 MHz is also allocated to the space operation (Earth-to-space) and space research (Earth-to-space) services in Region 2, in Australia, India, Indonesia and Japan on a primary basis, subject to agreement obtained under No. S9.21, having particular regard to troposcatter systems.

S5.387 Additional allocation: in Armenia, Azerbaijan, Belarus, Georgia, Kazakstan, Mali, Mongolia, Uzbekistan, Kyrgyzstan, Slovakia, the Czech Republic, Romania, Russian Federation, Tajikistan, Turkmenistan and Ukraine, the band 1770-1790 MHz is also allocated to the meteorological-satellite service on a primary basis, subject to agreement obtained under No. S9.21.

S5.388 The bands 1885-2025 MHz and 2110-2200 MHz are intended for use, on a worldwide basis, by administrations wishing to implement International Mobile Telecommunications-2000 (IMT-2000). Such use does not preclude the use of these bands by other services to which they are allocated. The bands should be made available for IMT-2000 in accordance with Resolution 212 (Rev. WRC-97).

S5.389A The use of the bands 1980-2010 MHz and 2170-2200 MHz by the mobile-satellite service is subject to coordination under No. S9.11A and to the provisions of Resolution 716 (WRC-95). The use of these bands shall not commence before 1 January 2000; however the use of the band 1980-1990 MHz in Region 2 shall not commence before 1 January 2005.

S5.389B The use of the band 1980-1990 MHz by the mobile-satellite service shall not cause harmful interference to or constrain the development of the fixed and mobile services in Argentina, Brazil, Canada, Chile, Ecuador, the United States, Honduras, Jamaica, Mexico, Peru, Suriname, Trinidad and Tobago, Uruguay and Venezuela.

S5.389C The use of the bands 2010-2025 MHz and 2160-2170 MHz in Region 2 by the mobile-satellite service shall not commence before 1 January 2002 and is subject to coordination under No. S9.11A and to the provisions of Resolution 716 (WRC-95).

S5.389D In Canada and the United States the use of the bands 2010-2025 MHz and 2160-2170 MHz by the mobile-satellite service shall not commence before 1 January 2000.

S5.389E The use of the bands 2010-2025 MHz and 2160-2170 MHz by the mobile-satellite service in Region 2 shall not cause harmful interference to or constrain the development of the fixed and mobile services in Regions 1 and 3.

S5.389F In Algeria, Benin, Cape Verde, Egypt, Mali, Syria and Tunisia, the use of the bands 1980-2010 MHz and 2170-2200 MHz by the mobile-satellite service shall neither cause harmful interference to the fixed and mobile services, nor hamper the development of those services prior to 1 January 2005, nor shall the former service request protection from the latter services.

S5.390 In Argentina, Brazil, Chile, Colombia, Cuba, Ecuador and Suriname, the use of the bands 2010-2025 MHz and 2160-2170 MHz by the mobile-satellite services shall not cause harmful interference to stations in the fixed and mobile services before 1 January 2005. After this date, the use of these bands is subject to coordination under No. S9.11A and to the provisions of Resolution 716 (WRC-95).

S5.391 In making assignments to the mobile service in the bands 2025-2110 MHz and 2200-2290 MHz, administrations shall not introduce high-density mobile systems, as described in Recommendation ITU-R SA.1154, and shall take that Recommendation into account for the introduction of any other type of mobile system.

S5.392 Administrations are urged to take all practicable measures to ensure that space-to-space transmissions between two or more non-geostationary satellites, in the space research, space operations and Earth exploration-satellite services in the bands 2025-2110 MHz and 2200-2290 MHz, shall not impose any constraints on Earth-to-space, space-to-Earth and other space-to-space transmissions of those services and in those bands between geostationary and non-geostationary satellites.

S5.392A Additional allocation: in Russian Federation, the band 2160-2200 MHz is also allocated to the space research service (space-to-Earth) on a primary basis until 1 January 2005. Stations in the space research service shall not cause harmful interference to, or claim protection from, stations in the fixed and mobile services operating in this frequency band.

S5.393 Additional allocation: in the United States, India and Mexico, the band 2310-2360 MHz is also allocated to the broadcasting-satellite service (sound) and complementary terrestrial sound broadcasting service on a primary basis. Such use is limited to digital audio broadcasting and is subject to the provisions of Resolution 528 (WARC-92).

S5.394 In the United States, the use of the band 2300-2390 MHz by the aeronautical mobile service for telemetry has priority over other uses by the mobile services. In Canada, the use of the band 2300-2483.5 MHz by the aeronautical mobile service for telemetry has priority over other uses by the mobile services.

S5.395 In France, the use of the band 2310-2360 MHz by the aeronautical mobile service for telemetry has priority over other uses by the mobile service.

S5.396 Space stations of the broadcasting-satellite service in the band 2310-2360 MHz operating in accordance with No. S5.393 that may affect the services to which this band is allocated in other countries shall be coordinated and notified in accordance with Resolution 33 (Rev. WRC-97). Complementary terrestrial broadcasting stations shall be subject to bilateral coordination with neighbouring countries prior to their bringing into use.

S5.397 Different category of service: in France, the band 2450-2500 MHz is allocated on a primary basis to the radiolocation service (see No. S5.33). Such use is subject to agreement with administrations having services operating or planned to operate in accordance with the Table of Frequency Allocations which may be affected.

S5.398 In respect of the radiodetermination-satellite service in the band 2483.5-2500 MHz, the provisions of No. S4.10 do not apply.

S5.399 In Region 1, in countries other than those listed in No. S5.400, harmful interference shall not be caused to, or protection shall not be claimed from, stations of the radiolocation service by stations of the radiodetermination satellite service.

S5.400 Different category of service: in Angola, Australia, Bangladesh, Burundi, China, Eritrea, Ethiopia, India, the Islamic Republic of Iran, Jordan, Lebanon, Liberia, Libya, Madagascar, Mali, Pakistan, Papua New Guinea, Dem. Rep. of the Congo, Syria, Sudan, Swaziland, Togo and Zambia, the allocation of the band 2483.5-2500 MHz to the radiodetermination-satellite service (space-to-Earth) is on a primary basis (see No. S5.33), subject to agreement obtained under No. S9.21 from countries not listed in this provision.

S5.402 The use of the band 2483.5-2500 MHz by the mobile-satellite and the radiodetermination-satellite services is subject to the coordination under No. S9.11A. Administrations are urged to take all practicable steps to prevent harmful interference to the radio astronomy service from emissions in the 2483.5-2500 MHz band, especially those caused by second-harmonic radiation that would fall into the 4990-5000 MHz band allocated to the radio astronomy service worldwide.

S5.403 Subject to agreement obtained under No. S9.21, the band 2520-2535 MHz (until 1 January 2005 the band 2500-2535 MHz) may also be used for the mobile-satellite (space-to-Earth), except aeronautical mobile-satellite, service for operation limited to within national boundaries. The provisions of No. S9.11A apply.

S5.404 Additional allocation: in India and the Islamic Republic of Iran, the band 2500-2516.5 MHz may also be used for the radiodetermination-satellite service (space-to-Earth) for operation limited to within national boundaries, subject to agreement obtained under No. S9.21.

S5.405 Additional allocation: in France, the band 2500-2550 MHz is also allocated to the radiolocation service on a primary basis. Such use is subject to agreement with the administrations having services operating or planned to operate in accordance with the Table which may be affected.

S5.407 In the band 2500-2520 MHz, the power flux-density at the surface of the Earth from space stations operating in the mobile-satellite (space-to-Earth) service shall not exceed −152 dB(W/m²/4 kHz) in Argentina, unless otherwise agreed by the administrations concerned.

S5.408 Additional allocation: in the United Kingdom, the band 2500-2600 MHz is also allocated to the radiolocation service on a secondary basis.

S5.409 Administrations shall make all practicable efforts to avoid developing new tropospheric scatter systems in the band 2500-2690 MHz.

S5.410 The band 2500-2690 MHz may be used for tropospheric scatter systems in Region 1, subject to agreement obtained under No. S9.21.

S5.411 When planning new tropospheric scatter radio-relay links in the band 2500-2690 MHz, all possible measures shall be taken to avoid directing the antennae of these links towards the geostationary-satellite orbit.

S5.412 Alternative allocation: in Azerbaijan, Bulgaria, Kyrgyzstan, Turkmenistan and Ukraine, the band 2500-2690 MHz is allocated to the fixed and mobile, except aeronautical mobile, services on a primary basis.

S5.413 In the design of systems in the broadcasting-satellite service in the bands between 2500 MHz and 2690 MHz, administrations are urged to take all necessary steps to protect the radio astronomy service in the band 2690-2700 MHz.

S5.414 The allocation of the frequency band 2500-2520 MHz to the mobile-satellite service (space-to-Earth) shall be effective on 1 January 2005 and is subject to coordination under No. S9.11A.

S5.415 The use of the bands 2500-2690 MHz in Region 2 and 2500-2535 MHz and 2655-2690 MHz in Region 3 by the fixed-satellite service is limited to national and regional systems, subject to agreement obtained under No. S9.21, giving particular attention to the broadcasting-satellite service in Region 1. In the direction space-to-Earth, the power flux-density at the Earth's surface shall not exceed the values given in Article S21, Table S21-4.

S5.415A Additional allocation: in Japan, subject to agreement obtained under No. S9.21, the band 2515-2535 MHz may also be used for the aeronautical mobile-satellite service (space-to-Earth) for operation limited to within its national boundary from 1 January 2000.

S5.416 The use of the band 2520-2670 MHz by the broadcasting-satellite service is limited to national and regional systems for community reception, subject to agreement obtained under No. S9.21. The power flux-density at the Earth's surface shall not exceed the values given in Article S21, Table S21-4.

S5.417 Alternative allocation: in Germany and Greece, the band 2520-2670 MHz is allocated to the fixed service on a primary basis.

S5.418 Additional allocation: in Bangladesh, Belarus, China, Rep. of Korea, India, Japan, Pakistan, Russian Federation, Singapore, Sri Lanka, Thailand and Ukraine the band 2535-2655 MHz is also allocated to the broadcasting-satellite service (sound) and complementary terrestrial broadcasting service on a primary basis. Such use is limited to digital audio broadcasting and is subject to provisions of Resolution 528 (WARC-92). The provisions of No. S5.416 and Article S21, Table S21-4, do not apply to this additional allocation.

S5.419 The allocation of the frequency band 2670-2690 MHz to the mobile-satellite service shall be effective from 1 January 2005. When introducing systems of the mobile-satellite service in this band, administrations shall take all necessary steps to protect the satellite systems operating in this band prior to 3 March 1992. The coordination of mobile-satellite systems in the band shall be in accordance with No. S9.11A.

S5.420 The band 2655-2670 MHz (until 1 January 2005 the band 2655-2690 MHz) may also be used for the mobile-satellite (Earth-to-space), except aeronautical mobile-satellite, service for operation limited to within national boundaries, subject to agreement obtained under No. S9.21. The coordination under No. S9.11A applies.

S5.420A Additional allocation: in Japan, subject to agreement obtained under No. S9.21, the band 2670-2690 MHz may also be used for the aeronautical mobile-satellite service (Earth-to-space) for operation limited to within its national boundary from 1 January 2000.

S5.421 Additional allocation: in Germany and Austria, the band 2690-2695 MHz is also allocated to the fixed service on a primary basis. Such use is limited to equipment in operation by 1 January 1985.

S5.422 Additional allocation: in Saudi Arabia, Armenia, Azerbaijan, Bahrain, Belarus, Bosnia and Herzegovina, Brunei Darussalam, the Central African Republic, the Congo, Côte d'Ivoire, Cuba, Egypt, the United Arab Emirates, Eritrea, Ethiopia, Gabon, Georgia, Guinea, Guinea-Bissau, the Islamic Republic of Iran, Iraq, Israel, Jordan, Kazakstan, Lebanon, Malaysia, Mali, Morocco, Mauritania, Moldova, Mongolia, Nigeria, Oman, Uzbekistan, Pakistan, the Philippines, Qatar, Syria, Kyrgyzstan, Dem Rep. of the Congo, Romania, Russian Federation, Somalia, Tajikistan, Tunisia, Turkmenistan, Ukraine, Yemen, Yugoslavia and Zambia, the band 2690-2700 MHz is also allocated to the fixed and mobile, except aeronautical mobile, services on a primary basis. Such use is limited to equipment in operation by 1 January 1985.

S5.423 In the band 2700-2900 MHz, ground-based radars used for meteorological purposes are authorized to operate on a basis of equality with stations of the aeronautical radionavigation service.

S5.424 Additional allocation: in Canada, the band 2850-2900 MHz is also allocated to the maritime radionavigation service, on a primary basis, for use by shore-based radars.

S5.425 In the band 2900-3100 MHz, the use of the shipborne interrogator-transponder system (SIT) shall be confined to the sub-band 2930-2950 MHz.

S5.426 The use of the band 2900-3100 MHz by the aeronautical radionavigation service is limited to ground-based radars.

S5.427 In the bands 2900-3100 MHz and 9300-9500 MHz, the response from radar transponders shall not be capable of being confused with the response from radar beacons (racons) and shall not cause interference to ship or aeronautical radars in the radionavigation service, having regard, however, to No. S4.9.

S5.428 Additional allocation: in Azerbaijan, Bulgaria, Cuba, Kazakstan, Mongolia, Poland, Kyrgyzstan, Romania, Turkmenistan and Ukraine, the band 3100-3300 MHz is also allocated to the radionavigation service on a primary basis.

S5.429 Additional allocation: in Saudi Arabia, Bahrain, Bangladesh, Brunei Darussalam, China, the Congo, the Republic of Korea, the United Arab Emirates, India, Indonesia, the Islamic Republic of Iran, Iraq, Israel, Japan, Jordan, Kuwait, Lebanon, Libya, Malaysia, Oman, Pakistan, Qatar, Syria, Democratic People's Republic of Korea and Yemen, the band 3300-3400 MHz is also allocated to the fixed and mobile services on a primary basis. The countries bordering the Mediterranean shall not claim protection for their fixed and mobile services from the radiolocation service.

S5.430 Additional allocation: in Azerbaijan, Bulgaria, Cuba, Mongolia, Poland, Kyrgyzstan, Romania, Turkmenistan and Ukraine, the band 3300-3400 MHz is also allocated to the radionavigation service on a primary basis.

S5.431 Additional allocation: in Germany, Israel, Nigeria and the United Kingdom, the band 3400-3475 MHz is also allocated to the amateur service on a secondary basis.

S5.432 Different category of service: in the Republic of Korea, Indonesia, Japan and Pakistan, the allocation of the band 3400-3500 MHz to the mobile, except aeronautical mobile, service is on a primary basis (see No. S5.33).

S5.433 In Regions 2 and 3, in the band 3400-3600 MHz the radiolocation service is allocated on a primary basis. However, all administrations operating radiolocation systems in this band are urged to cease operations by 1985. Thereafter, administrations shall take all practicable steps to protect the fixed-satellite service and coordination requirements shall not be imposed on the fixed-satellite service.

S5.435 In Japan, in the band 3620-3700 MHz, the radiolocation service is excluded.

S5.437 Additional allocation: in Germany and Norway, the band 4200-4210 MHz is also allocated to the fixed service on a secondary basis.

S5.438 Use of the band 4200-4400 MHz by the aeronautical radionavigation service is reserved exclusively for radio altimeters installed on board aircraft and for the associated transponders on the ground. However, passive sensing in the earth exploration-satellite and space research services may be authorized in this band on a secondary basis (no protection is provided by the radio altimeters).

S5.439 Additional allocation: in China, the Islamic Republic of Iran and Libya, the band 4200-4400 MHz is also allocated to the fixed service on a secondary basis.

S5.440 The standard frequency and time signal-satellite service may be authorized to use the frequency 4202 MHz for space-to-Earth transmissions and the frequency 6427 MHz for Earth-to-space transmissions. Such transmissions shall be confined within the limits of ± 2 MHz of these frequencies, subject to agreement obtained under No. S9.21.

S5.441 The use of the bands 4500-4800 MHz (space-to-Earth), 6725-7025 MHz (Earth-to-space) by the fixed-satellite service shall be in accordance with the provisions of Appendix S30B. The use of the bands 10.7-10.95 GHz (space-to-Earth), 11.2-11.45 GHz (space-to-Earth) and 12.75-13.25 GHz (Earth-to-space) by geostationary-satellite systems in the fixed-satellite service shall be in accordance with the provisions of Appendix S30B. The use of the bands 10.7-10.95 GHz (space-to-Earth), 11.2-11.45 GHz (space-to-Earth) and 12.75-13.25 GHz (Earth-to-space) by non-geostationary-satellite systems in the fixed-satellite service shall be in accordance with the provisions of Resolution 130 (WRC-97).

S5.442 In the bands 4825-4835 MHz and 4950-4990 MHz, the allocation to the mobile service is restricted to the mobile, except aeronautical mobile, service.

S5.443 Different category of service: in Argentina, Australia and Canada, the allocation of the bands 4825-4835 MHz and 4950-4990 MHz to the radio astronomy service is on a primary basis (see No. S5.33).

S5.444 The band 5000-5150 MHz is to be used for the operation of the international standard system (microwave landing system) for precision approach and landing. The requirements of this system shall take precedence over other uses of this band. For the use of this band, No. S5.444A and Resolution 114 (WRC-95) apply.

S5.444A Additional allocation: the band 5091-5150 MHz is also allocated to the fixed-satellite service (Earth-to-space) on a primary basis. This allocation is limited to feeder links of non-geostationary mobile-satellite systems and is subject to coordination under No. S9.11A.

In the band 5091-5150 MHz, the following conditions also apply:

—prior to 1 January 2010, the use of the band 5091-5150 MHz by feeder links of non-geostationary-satellite systems in the mobile-satellite service shall be made in accordance with Resolution 114 (WRC-95);

—prior to 1 January 2010, the requirements of existing and planned international standard systems for the aeronautical radionavigation service which cannot be met in the 5000-5091 MHz band, shall take precedence over other uses of this band;

—after 1 January 2008, no new assignments shall be made to stations providing feeder links of non-geostationary mobile-satellite systems;

—after 1 January 2010, the fixed-satellite service will become secondary to the aeronautical radionavigation service.

S5.446 Additional allocation: in the countries listed in Nos. S5.369 and S5.400, the band 5150-5216 MHz is also allocated to the radiodetermination-satellite service (space-to-Earth) on a primary basis, subject to agreement obtained under No. S9.21. In Region 2, the band is also allocated to the radiodetermination-satellite service (space-to-Earth) on a primary basis. In Regions 1 and 3, except those countries listed in Nos. S5.369 and S5.400, the band is also allocated to the radiodetermination-satellite service (space-to-Earth) on a secondary basis. The use by the radiodetermination-satellite service is limited to feeder links in conjunction with the radiodetermination-satellite service operating in the bands 1610-1626.5 MHz and/or 2483.5-2500 MHz. The total power flux-density at the Earth's surface shall in no case exceed −159 dBW/m² in any 4 kHz band for all angles of arrival.

S5.447 Additional allocation: in Germany, Austria, Belgium, Denmark, Spain, Finland, France, Greece, Israel, Italy, Japan, Jordan, Lebanon, Liechtenstein, Luxembourg, Malta, Morocco, Norway, Pakistan, the Netherlands, Portugal, Syria, the United Kingdom, Sweden, Switzerland and Tunisia, the band 5150-5250 MHz is also allocated to the mobile service, on a primary basis, subject to agreement obtained under No. S9.21.

S5.447A The allocation to the fixed-satellite service (Earth-to-space) is limited to feeder links of non-geostationary-satellite systems in the mobile-satellite service and is subject to coordination under No. S9.11A.

S5.447B Additional allocation: the band 5150-5216 MHz is also allocated to the fixed-satellite service (space-to-Earth) on a primary basis. This allocation is limited to feeder links of non-geostationary-satellite systems in the mobile-satellite service and is subject to provisions of No. S9.11A. The power flux-density at the Earth's surface produced by space stations of the fixed-satellite service operating in the space-to-Earth direction in the band 5150-5216 MHz shall in no case exceed −164 dB(W/m²) in any 4 kHz band for all angles of arrival.

S5.447C Administrations responsible for fixed-satellite service networks in the band 5150-5250 MHz operated under Nos. S5.447A and S5.447B shall coordinate on an equal basis in accordance with No. S9.11A with administrations responsible for non-geostationary-satellite networks operated under No. S5.446 and brought into use prior to 17 November 1995. Satellite networks operated under No. S5.446 brought into use after 17 November 1995 shall not claim protection from, and shall not cause harmful interference to, stations of the fixed-satellite service operated under Nos. S5.447A and S5.447B.

S5.447D The allocation of the band 5250-5255 MHz to the space research service on a primary basis is limited to active spaceborne sensors. Other uses of the band by the space research service are on a secondary basis.

S5.448 Additional allocation: in Austria, Azerbaijan, Bulgaria, Libya, Mongolia, Kyrgyzstan, Slovakia, the Czech Republic, Romania, Turkmenistan and Ukraine, the band 5250-5350 MHz is also allocated to the radionavigation service on a primary basis.

S5.448A The use of the frequency band 5250-5350 MHz by the earth exploration-satellite (active) and space research (active) services shall not constrain the future development and deployment of the radiolocation service.

S5.448B The earth exploration-satellite (active) service operating in the band 5350-5460 MHz shall not cause harmful interference to, or constrain the use and development of, the aeronautical radionavigation service.

S5.449 The use of the band 5350-5470 MHz by the aeronautical radionavigation service is limited to airborne radars and associated airborne beacons.

S5.450 Additional allocation: in Austria, Azerbaijan, Bulgaria, the Islamic Republic of Iran, Mongolia, Kyrgyzstan, Slovakia, the Czech Republic, Romania, Turkmenistan and Ukraine, the band 5470-5650 MHz is also allocated to the aeronautical radionavigation service on a primary basis.

S5.451 Additional allocation: in the United Kingdom, the band 5470-5850 MHz is also allocated to the land mobile service on a secondary basis. The power limits specified in Nos. S21.2, S21.3, S21.4 and S21.5 shall apply in the band 5725-5850 MHz.

S5.452 Between 5600 MHz and 5650 MHz, ground-based radars used for meteorological purposes are authorized to operate on a basis of equality with stations of the maritime radionavigation service.

S5.453 Additional allocation: in Saudi Arabia, Bahrain, Bangladesh, Brunei Darussalam, Cameroon, the Central African Republic, China, the Congo, the Republic of Korea, Egypt, the United Arab Emirates, Gabon, Guinea, India, Indonesia, the Islamic Republic of Iran, Iraq, Israel, Japan, Jordan, Kuwait, Lebanon, Libya, Madagascar, Malaysia, Nigeria, Oman, Pakistan, the Philippines, Qatar, Syria, Democratic People's Republic of Korea, Singapore, Swaziland, Tanzania, Chad, and Yemen, the band 5650-5850 MHz is also allocated to the fixed and mobile services on a primary basis.

S5.454 Different category of service: in Armenia, Azerbaijan, Belarus, Bulgaria, Georgia, Kazakstan, Mongolia, Uzbekistan, Kyrgyzstan, Russian Federation, Tajikistan, Turkmenistan and Ukraine, the allocation of the band 5670-5725 MHz to the space research service is on a primary basis (see No. S5.33).

S5.455 Additional allocation: in Armenia, Azerbaijan, Belarus, Bulgaria, Cuba, Georgia, Hungary, Kazakstan, Latvia, Moldova, Mongolia, Uzbekistan, Poland, Kyrgyzstan, Slovakia, Russian Federation, Tajikistan, Turkmenistan and Ukraine, the band 5670-5850 MHz is also allocated to the fixed service on a primary basis.

S5.456 Additional allocation: in Germany and in Cameroon, the band 5755-5850 MHz is also allocated to the fixed service on a primary basis.

S5.458 In the band 6425-7075 MHz, passive microwave sensor measurements are carried out over the oceans. In the band 7075-7250 MHz, passive microwave sensor measurements are carried out. Administrations should bear in mind the needs of the Earth exploration-satellite (passive) and space research (passive) services in their future planning of the bands 6425-7025 MHz and 7075-7250 MHz.

S5.458A In making assignments in the band 6700-7075 MHz to space stations of the fixed-satellite service, administrations are urged to take all practicable steps to protect spectral line observations of the radio astronomy service in the band 6650-6675.2 MHz from harmful interference from unwanted emissions.

S5.458B The space-to-Earth allocation to the fixed-satellite service in the band 6700-7075 MHz is limited to feeder links for non-geostationary satellite systems of the mobile-satellite service and is subject to coordination under No. S9.11A. The use of the band 6700-7075 MHz (space-to-Earth) by feeder links for non-geostationary satellite systems in the mobile-satellite service is not subject to No. S22.2.

S5.458C Administrations making submissions in the band 7025-7075 MHz (Earth-to-space) for geostationary-satellite systems in the fixed-satellite service after 17 November 1995 shall consult on the basis of relevant ITU-R Recommendations with the administrations that have notified and brought into use non-geostationary-satellite systems in this frequency band before 18 November 1995 upon request of the latter administrations. This consultation shall be with a view to facilitating shared operation of both geostationary-satellite systems in the fixed-satellite service and non-geostationary-satellite systems in this band.

S5.459 Additional allocation: in Russian Federation, the frequency bands 7100-7155 MHz and 7190-7235 MHz are also allocated to the space operation service (Earth-to-space) on a primary basis, subject to agreement obtained under No. S9.21.

S5.460 Additional allocation: the band 7145-7235 MHz is also allocated to the space research (Earth-to-space) service on a primary basis, subject to agreement obtained under No. S9.21. The use of the band 7145-7190 MHz is restricted to deep space; no emissions to deep space shall be effected in the band 7190-7235 MHz.

S5.461 Additional allocation: the bands 7250-7375 MHz (space-to-Earth) and 7900-8025 MHz (Earth-to-space) are also allocated to the mobile-satellite service on a primary basis, subject to agreement obtained under No. S9.21.

S5.461A The use of the band 7450-7550 MHz by the meteorological-satellite service (space-to-Earth) is limited to geostationary-satellite systems. Non-geostationary meteorological-satellite systems in this band notified before 30 November 1997 may continue to operate on a primary basis until the end of their lifetime.

S5.461B The use of the band 7750-7850 MHz by the meteorological-satellite service (space-to-Earth) is limited to non-geostationary satellite systems.

S5.462A In Regions 1 and 3 (except for Japan), in the band 8025-8400 MHz, the earth exploration-satellite service using geostationary satellites shall not produce a power flux-density in excess of the following provisional values for angles of arrival (θ), without the consent of the affected administration:

—174 dB(W/m²) in a 4 kHz band for 0° ≤ θ < 5°

—174 + 0.5 (θ − 5) dB(W/m²) in a 4 kHz band for 5° ≤ θ < 25°

—164 dB(W/m²) in a 4 kHz band for 25° ≤ θ ≤ 90°

These values are subject to study under Resolution 124 (WRC-97).

S5.463 Aircraft stations are not permitted to transmit in the band 8025-8400 MHz.

S5.465 In the space research service, the use of the band 8400-8450 MHz is limited to deep space.

S5.466 Different category of service: in Israel, Malaysia, Singapore and Sri Lanka, the allocation of the band 8400-8500 MHz to the space research service is on a secondary basis (see No. S5.32).

S5.467 Alternative allocation: in the United Kingdom, the band 8400-8500 MHz is allocated to the radiolocation and space research services on a primary basis.

S5.468 Additional allocation: in Saudi Arabia, Bahrain, Bangladesh, Brunei Darussalam, Burundi, Cameroon, China, the Congo, Costa Rica, Egypt, the United Arab Emirates, Gabon, Guyana, Indonesia, the Islamic Republic of Iran, Iraq, Jamaica, Jordan, Kuwait, Lebanon, Libya, Malaysia, Mali, Morocco, Mauritania, Nepal, Nigeria, Oman, Pakistan, Qatar, Syria, Democratic People's Republic of Korea, Senegal, Singapore, Somalia, Swaziland, Tanzania, Chad, Togo, Tunisia and Yemen, the band 8500-8750 MHz is also allocated to the fixed and mobile services on a primary basis.

S5.469 Additional allocation: in Armenia, Azerbaijan, Belarus, Bulgaria, Georgia, Hungary, Kazakstan, Lithuania, Moldova, Mongolia, Uzbekistan, Poland, Kyrgyzstan, Slovakia, the Czech Republic, Romania, Russian Federation, Tajikistan, Turkmenistan and Ukraine, the band 8500-8750 MHz is also allocated to the land mobile and radionavigation services on a primary basis.

S5.469A In the band 8550-8650 MHz, stations in the earth exploration-satellite service (active) and space research service (active) shall not cause harmful interference to, or constrain the use and development of, stations of the radiolocation service.

S5.470 The use of the band 8750-8850 MHz by the aeronautical radionavigation service is limited to airborne Doppler navigation aids on a centre frequency of 8800 MHz.

S5.471 Additional allocation: in Algeria, Germany, Bahrain, Belgium, China, the United Arab Emirates, France, Greece, Indonesia, the Islamic Republic of Iran, Libya, the Netherlands, Qatar and Sudan, the bands 8825-8850 MHz and 9000-9200 MHz are also allocated to the maritime radionavigation service, on a primary basis, for use by shore-based radars only.

S5.472 In the bands 8850-9000 MHz and 9200-9225 MHz, the maritime radionavigation service is limited to shore-based radars.

S5.473 Additional allocation: in Armenia, Austria, Azerbaijan, Belarus, Bulgaria, Cuba, Georgia, Hungary, Kazakstan, Moldova, Mongolia, Uzbekistan, Poland, Kyrgyzstan. Slovakia, the Czech Republic, Romania, Russian Federation, Tajikistan, Turkmenistan and Ukraine, the bands 8850-9000 MHz and 9200-9300 MHz are also allocated to the radionavigation service on a primary basis.

S5.474 In the band 9200-9500 MHz, search and rescue transponders (SART) may be used, having due regard to the appropriate ITU-R Recommendation (see also Article S31).

S5.475 The use of the band 9300-9500 MHz by the aeronautical radionavigation service is limited to airborne weather radars and ground-based radars. In addition, ground-based radar beacons in the aeronautical radionavigation service are permitted in the band 9300-9320 MHz on condition that harmful interference is not caused to the maritime radionavigation service. In the band 9300-9500 MHz, ground-based radars used for meteorological purposes have priority over other radiolocation devices.

S5.476 In the band 9300-9320 MHz in the radionavigation service, the use of shipborne radars, other than those existing on 1 January 1976, is not permitted until 1 January 2001.

S5.476A In the band 9500-9800 MHz, stations in the earth exploration-satellite service (active) and space research service (active) shall not cause harmful interference to, or constrain the use and development of, stations of the radionavigation and radiolocation services.

S5.477 Different category of service: in Algeria, Saudi Arabia, Austria, Bahrain, Bangladesh, Brunei Darussalam, Cameroon, the Republic of Korea, Egypt, the United Arab Emirates, Eritrea, Ethiopia, Guyana, India, Indonesia, the Islamic Republic of Iran, Iraq, Jamaica, Japan, Jordan, Kuwait, Lebanon, Liberia, Malaysia, Nigeria, Oman, Pakistan, Qatar, Democratic People's Republic of Korea, Singapore, Somalia, Sudan, Sweden, Trinidad and Tobago, and Yemen, the allocation of the band 9800-10,000 MHz to the fixed service is on a primary basis (see No. S5.33).

S5.478 Additional allocation: in Azerbaijan, Bulgaria, Kazakstan, Mongolia, Kyrgyzstan, Slovakia, the Czech Republic, Romania, Turkmenistan and Ukraine, the band 9800-10,000 MHz is also allocated to the radionavigation service on a primary basis.

S5.479 The band 9975-10,025 MHz is also allocated to the meteorological-satellite service on a secondary basis for use by weather radars.

S5.480 Additional allocation: in Brazil, Costa Rica, Ecuador, Guatemala, Honduras and Mexico, the band 10-10.45 GHz is also allocated to the fixed and mobile services on a primary basis.

S5.481 Additional allocation: in Germany, Angola, China, Ecuador, Spain, Japan, Morocco, Nigeria, Oman, Democratic People's Republic of Korea, Sweden, Tanzania and Thailand, the band 10.45-10.5 GHz is also allocated to the fixed and mobile services on a primary basis.

S5.482 In the band 10.6-10.68 GHz, stations of the fixed and mobile, except aeronautical mobile, services shall be limited to a maximum equivalent isotropically radiated power of 40 dBW and the power delivered to the antenna shall not exceed −3 dBW. These limits may be exceeded subject to agreement obtained under No. S9.21. However, in Saudi Arabia, Armenia, Azerbaijan, Bahrain, Bangladesh, Belarus, China, the United Arab Emirates, Georgia, India, Indonesia, the Islamic Republic of Iran, Iraq, Japan, Kazakstan, Kuwait, Latvia, Lebanon, Moldova, Nigeria, Uzbekistan, Pakistan, the Philippines, Qatar, Syria, Kyrgyzstan, Russian Federation, Tajikistan, Turkmenistan and Ukraine, the restrictions on the fixed and mobile, except aeronautical mobile, services are not applicable.

S5.483 Additional allocation: in Saudi Arabia, Armenia, Azerbaijan, Bahrain, Belarus, Bosnia and Herzegovina, China, Colombia, the Republic of Korea, Costa Rica, Egypt, the United Arab Emirates, Georgia, the Islamic Republic of Iran, Iraq, Israel, Japan, Jordan, Kazakstan, Kuwait, Latvia, Lebanon, Moldova, Mongolia, Uzbekistan, Pakistan, Qatar, Kyrgyzstan, Democratic People's Republic of Korea, Romania, Russian Federation, Tajikistan, Turkmenistan, Ukraine, Yemen and Yugoslavia, the band 10.68-10.7 GHz is also allocated to the fixed and mobile, except aeronautical mobile, services on a primary basis. Such use is limited to equipment in operation by 1 January 1985.

S5.484 In Region 1, the use of the band 10.7-11.7 GHz by the fixed-satellite service (Earth-to-space) is limited to feeder links for the broadcasting-satellite service.

S5.484A The use of the bands 10.95-11.2 GHz (space-to-Earth), 11.45-11.7 GHz (space-to-Earth), 11.7-12.2 GHz (space-to-Earth) in Region 2, 12.2-12.75 GHz (space-to-Earth) in Region 3, 12.5-12.75 GHz (space-to-Earth) in Region 1, 13.75-14.5 GHz (Earth-to-space), 17.8-18.6 GHz (space-to-Earth), 19.7-20.2 GHz (space-to-Earth), 27.5-28.6 GHz (Earth-to-space), 29.5-30 GHz (Earth-to-space) by non-geostationary- and geostationary-satellite systems in the fixed-satellite service is subject to the provisions of Resolution 130 (WRC-97). The use of the band 17.8-18.1 GHz (space-to-Earth) by non-geostationary fixed-satellite service systems is also subject to the provisions of Resolution 538 (WRC-97).

S5.485 In Region 2, in the band 11.7-12.2 GHz, transponders on space stations in the fixed-satellite service may be used additionally for transmissions in the broadcasting-satellite service, provided that such transmissions do not have a maximum e.i.r.p. greater than 53 dBW per television channel and do not cause greater interference or require more protection from interference than the coordinated fixed-satellite service frequency assignments. With respect to the space services, this band shall be used principally for the fixed-satellite service.

S5.486 Different category of service: in Mexico and the United States, the allocation of the band 11.7-12.1 GHz to the fixed service is on a secondary basis (see No. S5.32).

S5.487 In the band 11.7-12.5 GHz in Regions 1 and 3, the fixed, fixed-satellite, mobile, except aeronautical mobile, and broadcasting services, in accordance with their respective allocations, shall not cause harmful interference to broadcasting-satellite stations operating in accordance with the provisions of Appendix S30.

S5.487A Additional allocation: in Region 1, the band 11.7-12.5 GHz, in Region 2, the band 12.2-12.7 GHz and, in Region 3, the band 11.7-12.2 GHz, are also allocated to the fixed-satellite service (space-to-Earth) on a primary basis, limited to non-geostationary systems and subject to the provisions of Resolution 538 (WRC-97).

S5.488 The use of the bands 11.7-12.2 GHz by the fixed-satellite service in Region 2 and 12.2-12.7 GHz by the broadcasting-satellite service in Region 2 is limited to national and subregional systems. The use of the band 11.7-12.2 GHz by the fixed-satellite service in Region 2 is subject to previous agreement between the administrations concerned and those having services, operating or planned to operate in accordance with the Table, which may be affected (see Articles S9 and S11). For the use of the band 12.2-12.7 GHz by the broadcasting-satellite service in Region 2, see Appendix S30.

S5.489 Additional allocation: in Peru, the band 12.1-12.2 GHz is also allocated to the fixed service on a primary basis.

S5.490 In Region 2, in the band 12.2-12.7 GHz, existing and future terrestrial radiocommunication services shall not cause harmful interference to the space services operating in conformity with the broadcasting-satellite Plan for Region 2 contained in Appendix S30.

S5.491 Additional allocation: in Region 3, the band 12.2-12.5 GHz is also allocated to the fixed-satellite (space-to-Earth) service on a primary basis, limited to national and sub-regional systems. The power flux-density limits in Article S21, Table S21-4 shall apply to this frequency band. The introduction of the service in relation to the broadcasting-satellite service in Region 1 shall follow the procedures specified in Article 7 of Appendix S30, with the applicable frequency band extended to cover 12.2-12.5 GHz.

S5.492 Assignments to stations of the broadcasting-satellite service in conformity with the appropriate regional Plan in Appendix S30 may also be used for transmissions in the fixed-satellite service (space-to-Earth), provided that such transmissions do not cause more interference or require more protection from interference than the broadcasting-satellite service transmissions operating in conformity with this Plan. With respect to the space services, this band shall be used principally for the broadcasting-satellite service.

S5.493 The broadcasting-satellite service in the band 12.5-12.75 GHz in Region 3 is limited to a power flux-density not exceeding −111 dB(W/m²)/27 MHz for all conditions and for all methods of modulation at the edge of the service area.

S5.494 Additional allocation: in Algeria, Angola, Saudi Arabia, Bahrain, Cameroon, the Central African Republic, the Congo, Côte d'Ivoire, Egypt, the United Arab Emirates, Eritrea, Ethiopia, Gabon, Ghana, Guinea, Iraq, Israel, Jordan, Kuwait, Lebanon, Libya, Madagascar, Mali, Morocco, Mongolia, Nigeria, Qatar, Dem. Rep. of the Congo, Syria, Senegal, Somalia, Sudan, Chad, Togo and Yemen, the band 12.5-12.75 GHz is also allocated to the fixed and mobile, except aeronautical mobile, services on a primary basis.

S5.495 Additional allocation: in Bosnia and Herzegovina, Croatia, Denmark, France, Greece, Liechtenstein, Monaco, Norway, Uganda, Portugal, Romania, Slovenia, Switzerland, Tanzania, Tunisia and Yugoslavia, the band 12.5-12.75 GHz is also allocated to the fixed and mobile, except aeronautical mobile, services on a secondary basis.

S5.496 Additional allocation: in Austria, Azerbaijan, Kyrgyzstan, Turkmenistan and Ukraine, the band 12.5-12.75 GHz is also allocated to the fixed service and the mobile, except aeronautical mobile, service on a primary basis. However, stations in these services shall not cause harmful interference to fixed-satellite service earth stations of countries in Region 1 other than those listed in this footnote. Coordination of these earth stations is not required with stations of the fixed and mobile services of the countries listed in this footnote. The power flux-density limit at the Earth's surface given in Article S21, Table S21-4, for the fixed-satellite service shall apply on the territory of the countries listed in this footnote.

S5.497 The use of the band 13.25-13.4 GHz by the aeronautical radionavigation service is limited to Doppler navigation aids.

S5.498A The Earth exploration-satellite (active) and space research (active) services operating in the band 13.25-13.4 GHz shall not cause harmful interference to, or constrain the use and development of, the aeronautical radionavigation service.

S5.499 Additional allocation: in Bangladesh, India and Pakistan, the band 13.25-14 GHz is also allocated to the fixed service on a primary basis.

S5.500 Additional allocation: in Algeria, Angola, Saudi Arabia, Bahrain, Brunei Darussalam, Cameroon, the Republic of Korea, Egypt, the United Arab Emirates, Gabon, Indonesia, the Islamic Republic of Iran, Iraq, Israel, Jordan, Kuwait, Lebanon, Madagascar, Malaysia, Mali, Malta, Morocco, Mauritania, Nigeria, Pakistan, Qatar, Syria, Senegal, Singapore, Sudan, Chad and Tunisia, the band 13.4-14 GHz is also allocated to the fixed and mobile services on a primary basis.

S5.501 Additional allocation: in Austria, Azerbaijan, Bulgaria, Hungary, Japan, Mongolia, Kyrgyzstan, Romania, the United Kingdom, Turkmenistan and Ukraine, the band 13.4-14 GHz is also allocated to the radionavigation service on a primary basis.

S5.501A The allocation of the band 13.4-13.75 GHz to the space research service on a primary basis is limited to active spaceborne sensors. Other uses of the band by the space research service are on a secondary basis.

S5.501B In the band 13.4-13.75 GHz, the Earth exploration-satellite (active) and space research (active) services shall not cause harmful interference to, or constrain the use and development of, the radiolocation service.

S5.502 In the band 13.75-14 GHz, the e.i.r.p. of any emission from an earth station in the fixed-satellite service shall be at least 68 dBW, and should not exceed 85 dBW, with a minimum antenna diameter of 4.5 m. In addition the e.i.r.p., averaged over one second, radiated by a station in the radiolocation or radionavigation services towards the geostationary-satellite orbit shall not exceed 59 dBW.

S5.503 In the band 13.75-14 GHz, geostationary space stations in the space research service for which information for advance publication has been received by the Bureau prior to 31 January 1992 shall operate on an equal basis with stations in the fixed-satellite service; after that date, new geostationary space stations in the space research service will operate on a secondary basis. The e.i.r.p. density of emissions from any earth station in the fixed-satellite service shall not exceed 71 dBW in any 6 MHz band in the frequency range 13.772-13.778 GHz until those geostationary space stations in the space research service for which information for advance publication has been received by the Bureau prior to 31 January 1992 cease to operate in this band. Automatic power control may be used to increase the e.i.r.p. density above 71 dBW in any 6 MHz band in this frequency range to compensate for rain attenuation, to the extent that the power-flux density at the fixed-satellite service space station does not exceed the value resulting from use of an e.i.r.p. of 71 dBW in any 6 MHz band in clear sky conditions.

S5.503A Until 1 January 2000, stations in the fixed-satellite service shall not cause harmful interference to non-geostationary space stations in the space research and Earth exploration-satellite services. After that date, these non-geostationary space stations will operate on a secondary basis in relation to the fixed-satellite service. Additionally, when planning earth stations in the fixed-satellite service to be brought into service between 1 January 2000 and 1 January 2001, in order to accommodate the needs of spaceborne precipitation radars operating in the band 13.793-13.805 GHz, advantage should be taken of the consultation process and the information given in Recommendation ITU-R SA.1071.

S5.504 The use of the band 14-14.3 GHz by the radionavigation service shall be such as to provide sufficient protection to space stations of the fixed-satellite service.

S5.505 Additional allocation: in Algeria, Angola, Saudi Arabia, Australia, Bahrain, Bangladesh, Botswana, Brunei Darussalam, Cameroon, China, the Congo, the Republic of Korea, Egypt, the United Arab Emirates, Gabon, Guatemala, Guinea, India, Indonesia, the Islamic Republic of Iran, Iraq, Israel, Japan, Jordan, Kuwait, Lesotho, Lebanon, Malaysia, Mali, Morocco, Mauritania, Oman, Pakistan, the Philippines, Qatar, Syria, the Democratic People's Republic of Korea, Senegal, Singapore, Somalia, Sudan, Swaziland, Tanzania, Chad and Yemen, the band 14-14.3 GHz is also allocated to the fixed service on a primary basis.

S5.506 The band 14-14.5 GHz may be used, within the fixed-satellite service (Earth-to-space), for feeder links for the broadcasting-satellite service, subject to coordination with other networks in the fixed-satellite service. Such use of feeder links is reserved for countries outside Europe.

S5.508 Additional allocation: in Germany, Austria, Bosnia and Herzegovina, France, Greece, Ireland, Iceland, Italy, The Former Yugoslav Republic of Macedonia, Libya, Liechtenstein, Portugal, the United Kingdom, Slovenia, Switzerland, Turkey and Yugoslavia, the band 14.25-14.3 GHz is also allocated to the fixed service on a primary basis.

S5.509 Additional allocation: in Japan and Pakistan the band 14.25-14.3 GHz is also allocated to the mobile, except aeronautical mobile, service on a primary basis.

S5.510 The use of the band 14.5-14.8 GHz by the fixed-satellite service (Earth-to-space) is limited to feeder links for the broadcasting-satellite service. This use is reserved for countries outside Europe.

S5.511 Additional allocation: in Saudi Arabia, Bahrain, Bosnia and Herzegovina, Cameroon, Egypt, the United Arab Emirates, Guinea, the Islamic Republic of Iran, Iraq, Israel, Kuwait, Lebanon, Libya, Pakistan, Qatar, Syria, Slovenia, Somalia and Yugoslavia, the band 15.35-15.4 GHz is also allocated to the fixed and mobile services on a secondary basis.

S5.511A Use of the band 15.43-15.63 GHz by the fixed-satellite service (space-to-Earth (see Resolution 123 (WRC-97)) and Earth-to-space) is limited to feeder links of non-geostationary systems in the mobile-satellite service, subject to coordination under No. S9.11A. In the space-to-Earth direction, the minimum earth station elevation angle above and gain towards the local horizontal plane and the minimum coordination distances to protect an earth station from harmful interference shall be in accordance with Recommendation ITU-R S.1341. Also in the space-to-Earth direction, harmful interference shall not be caused to stations of the radio astronomy service using the band 15.35-15.4 GHz. The threshold levels of interference and associated power flux-density limits which are detrimental to the radio astronomy service are given in Recommendation ITU-R RA.769-1. Special measures will need to be employed to protect the radio astronomy service in the band 15.35-15.4 GHz.

S5.511C Stations operating in the aeronautical radionavigation service shall limit the effective e.i.r.p. in accordance with Recommendation ITU-R S.1340. The minimum coordination distance required to protect the aeronautical radionavigation stations (No. S4.10 applies) from harmful interference from feeder-link earth stations and the maximum e.i.r.p. transmitted towards the local horizontal plane by a feeder-link earth station shall be in accordance with Recommendation ITU-R S.1340.

S5.511D Fixed-satellite service systems for which complete information for advance publication has been received by the Bureau by 21 November 1997 may operate in the bands 15.4-15.43 GHz and 15.63-15.7 GHz in the space-to-Earth direction and 15.63-15.65 GHz in the Earth-to-space direction. In the bands 15.4-15.43 GHz and 15.65-15.7 GHz, emissions from a non-geostationary space station shall not exceed the power flux-density limits at the Earth's surface of −146 dB(W/m²/MHz) for any angle of arrival. In the band 15.63-15.65 GHz, where an administration plans emissions from a non-geostationary space station that exceed −146 dB(W/m²/MHz) for any angle of arrival, it shall coordinate under No. S9.11A with the affected administrations. Stations in the fixed-satellite service operating in the band 15.63-15.65 GHz in the Earth-to-space direction shall not cause harmful interference to stations in the aeronautical radionavigation service (No. S4.10 applies).

S5.512 Additional allocation: in Algeria, Angola, Saudi Arabia, Austria, Bahrain, Bangladesh, Bosnia and Herzegovina, Brunei Darussalam, Cameroon, the Congo, Costa Rica, Egypt, El Salvador, the United Arab Emirates, Finland, Guatemala, India, Indonesia, the Islamic Republic of Iran, Jordan, Kuwait, Libya, Malaysia, Morocco, Mozambique, Nepal, Nicaragua, Oman, Pakistan, Qatar, Singapore, Slovenia, Somalia, Sudan, Swaziland, Tanzania, Chad, Yemen and Yugoslavia, the band 15.7-17.3 GHz is also allocated to the fixed and mobile services on a primary basis.

S5.513 Additional allocation: in Israel, the band 15.7-17.3 GHz is also allocated to the fixed and mobile services on a primary basis. These services shall not claim protection from or cause harmful interference to services operating in accordance with the Table in countries other than those included in No. S5.512.

S5.513A Spaceborne active sensors operating in the band 17.2-17.3 GHz shall not cause harmful interference to, or constrain the development of, the radiolocation and other services allocated on a primary basis.

S5.514 Additional allocation: in Algeria, Germany, Angola, Saudi Arabia, Austria, Bahrain, Bangladesh, Bosnia and Herzegovina, Cameroon, Costa Rica, El Salvador, the United Arab Emirates, Finland, Guatemala, Honduras, India, the Islamic Republic of Iran, Iraq, Israel, Japan, Jordan, Kuwait, Libya, Nepal, Nicaragua, Oman, Pakistan, Qatar, Slovenia, Sudan, Sweden and Yugoslavia, the band 17.3-17.7 GHz is also allocated to the fixed and mobile services on a secondary basis. The power limits given in Nos. S21.3 and S21.5 shall apply.

S5.515 In the band 17.3-17.8 GHz, sharing between the fixed-satellite service (Earth-to-space) and the broadcasting-satellite service shall also be in accordance with the provisions of § 1 of Annex 4 of Appendix S30A/30A.

S5.516 The use of the band 17.3-18.1 GHz by geostationary-satellite systems in the fixed-satellite service (Earth-to-space) is limited to feeder links for the broadcasting-satellite service. For the use of the band 17.3-17.8 GHz in Region 2 by feeder links for the broadcasting-satellite service in the band 12.2-12.7 GHz, see Article S11. The use of the bands 17.3-18.1 GHz (Earth-to-space) in Regions 1 and 3 and 17.8-18.1 GHz (Earth-to-space) in Region 2 by non-geostationary-satellite systems in the fixed-satellite service is subject to the provisions of Resolution 538 (WRC-97).

S5.517 In Region 2, the allocation to the broadcasting-satellite service in the band 17.3-17.8 GHz shall come into effect on 1 April 2007. After that date, use of the fixed-satellite (space-to-Earth) service in the band 17.7-17.8 GHz shall not claim protection from and shall not cause harmful interference to operating systems in the broadcasting-satellite service.

S5.518 Different category of service: in Region 2, the allocation of the band 17.7-17.8 GHz to the mobile service is on a primary basis until 31 March 2007.

S5.519 Additional allocation: the band 18.1-18.3 GHz is also allocated to the meteorological-satellite service (space-to-Earth) on a primary basis. Its use is limited to geostationary satellites and shall be in accordance with the provisions of Article S21, Table S21-4.

S5.520 The use of the band 18.1-18.4 GHz by the fixed-satellite service (Earth-to-space) is limited to feeder links for the broadcasting-satellite service.

S5.521 Alternative allocation: in Germany, Denmark, the United Arab Emirates, Greece, Slovakia and the Czech Republic, the band 18.1-18.4 GHz is allocated to the fixed, fixed-satellite (space-to-Earth) and mobile services on a primary basis (see No. S5.33). The provisions of No. S5.519 also apply.

S5.522 In making assignments to stations in the fixed and mobile services, administrations are invited to take account of passive sensors in the Earth-exploration satellite and space research services operating in the band 18.6-18.8 GHz. In this band, administrations should endeavour to limit as far as possible both the power delivered by the transmitter to the antenna and the e.i.r.p. in order to reduce the risk of interference to passive sensors to the minimum.

S5.523 In assigning frequencies to stations in the fixed-satellite service in the direction space-to-Earth, administrations are requested to limit as far as practicable the power flux-density at the Earth's surface in the band 18.6-18.8 GHz, in order to reduce the risk of interference to passive sensors in the earth exploration-satellite and space research services.

S5.523A The use of the bands 18.8-19.3 GHz (space-to-Earth) and 28.6-29.1 GHz (Earth-to-space) by geostationary and non-geostationary fixed-satellite service networks is subject to the application of the provisions of No. S9.11A and No. S22.2 does not apply. Administrations having geostationary-satellite networks under coordination prior to 18 November 1995 shall cooperate to the maximum extent possible to coordinate pursuant to No. S9.11A with non-geostationary-satellite networks for which notification information has been received by the Bureau prior to that date, with a view to reaching results acceptable to all the parties concerned. Non-geostationary-satellite networks shall not cause unacceptable interference to geostationary fixed-satellite service networks for which complete Appendix S4 notification information is considered as having been received by the Bureau prior to 18 November 1995.

S5.523B The use of the band 19.3-19.6 GHz (Earth-to-space) by the fixed-satellite service is limited to feeder links for non-geostationary-satellite systems in the mobile-satellite service. Such use is subject to the application of the provisions of No. S9.11A, and No. S22.2 does not apply.

S5.523C No. S22.2 of the Radio Regulations shall continue to apply in the bands 19.3-19.6 GHz and 29.1-29.4 GHz, between feeder links of non-geostationary mobile-satellite service networks and those fixed-satellite service networks for which complete Appendix S4 coordination information, or notification information, is considered as having been received by the Bureau prior to 18 November 1995.

S5.523D The use of the band 19.3-19.7 GHz (space-to-Earth) by geostationary fixed-satellite service systems and by feeder links for non-geostationary-satellite systems in the mobile-satellite service is subject to the application of the provisions of No. S9.11A, but not subject to the provisions of No. S22.2. The use of this band for other non-geostationary fixed-satellite service systems, or for the cases indicated in Nos. S5.523C and S5.523E, is not subject to the provisions of No. S9.11A and shall continue to be subject to Articles S9 (except No. S9.11A) and S11 procedures, and to the provisions of No. S22.2.

S5.523E No. S22.2 of the Radio Regulations shall continue to apply in the bands 19.6-19.7 GHz and 29.4-29.5 GHz, between feeder links of non-geostationary mobile-satellite service networks and those fixed-satellite service networks for which complete Appendix S4 coordination information, or notification information, is considered as having been received by the Bureau by 21 November 1997.

S5.524 Additional allocation: in Afghanistan, Algeria, Angola, Saudi Arabia, Bahrain, Bangladesh, Brunei Darussalam, Cameroon, China, the Congo, the Republic of Korea, Costa Rica, Egypt, the United Arab Emirates, Gabon, Guatemala, Guinea, India, Islamic Republic of Iran, Iraq, Israel, Japan, Jordan, Kuwait, Lebanon, Malaysia, Mali, Morocco, Mauritania, Nepal, Nigeria, Oman, Pakistan, the Philippines, Qatar, Dem. Rep. of the Congo, Syria, Democratic People's Republic of Korea, Singapore, Somalia, Sudan, Tanzania, Chad, Togo and Tunisia, the band 19.7-21.2 GHz is also allocated to the fixed and mobile services on a primary basis. This additional use shall not impose any limitation on the power flux-density of space stations in the fixed-satellite service in the band 19.7-21.2 GHz and of space stations in the mobile-satellite service in the band 19.7-20.2 GHz where the allocation to the mobile-satellite service is on a primary basis in the latter band.

S5.525 In order to facilitate interregional coordination between networks in the mobile-satellite and fixed-satellite services, carriers in the mobile-satellite service that are most susceptible to interference shall, to the extent practicable, be located in the higher parts of the bands 19.7-20.2 GHz and 29.5-30 GHz.

S5.526 In the bands 19.7-20.2 GHz and 29.5-30 GHz in Region 2, and in the bands 20.1-20.2 GHz and 29.9-30 GHz in Regions 1 and 3, networks which are both in the fixed-satellite service and in the mobile-satellite service may include links between earth stations at specified or unspecified points or while in motion, through one or more satellites for point-to-point and point-to-multipoint communications.

S5.527 In the bands 19.7-20.2 GHz and 29.5-30 GHz, the provisions of No. S4.10 do not apply with respect to the mobile-satellite service.

S5.528 The allocation to the mobile-satellite service is intended for use by networks which use narrow spot-beam antennas and other advanced technology at the space stations. Administrations operating systems in the mobile-satellite service in the band 19.7-20.1 GHz in Region 2 and in the band 20.1-20.2 GHz shall take all practicable steps to ensure the continued availability of these bands for administrations operating fixed and mobile systems in accordance with the provisions of No. S5.524.

S5.529 The use of the bands 19.7-20.1 GHz and 29.5-29.9 GHz by the mobile-satellite service in Region 2 is limited to satellite networks which are both in the fixed-satellite service and in the mobile-satellite service as described in No. S5.526.

S5.530 In Regions 1 and 3, the allocation to the broadcasting-satellite service in the band 21.4-22 GHz shall come into effect on 1 April 2007. The use of this band by the broadcasting-satellite service after that date and on an interim basis prior to that date is subject to the provisions of Resolution 525 (WARC-92).

S5.531 Additional allocation: in Japan, the band 21.4-22 GHz is also allocated to the broadcasting service on a primary basis.

S5.532 The use of the band 22.21-22.5 GHz by the Earth exploration-satellite (passive) and space research (passive) services shall not impose constraints upon the fixed and mobile, except aeronautical mobile, services.

S5.533 The inter-satellite service shall not claim protection from harmful interference from airport surface detection equipment stations of the radionavigation service.

S5.534 Additional allocation: in Japan, the band 24.65-25.25 GHz is also allocated to the radionavigation service on a primary basis until 2008.

S5.535 In the band 24.75-25.25 GHz, feeder links to stations of the broadcasting-satellite service shall have priority over other uses in the fixed-satellite service (Earth-to-space). Such other uses shall protect and shall not claim protection from existing and future operating feeder-link networks to such broadcasting satellite stations.

S5.535A The use of the band 29.1-29.5 GHz (Earth-to-space) by the fixed-satellite service is limited to geostationary-satellite systems and feeder links to non-geostationary-satellite systems in the mobile-satellite service. Such use is subject to the application of the provisions of No. S9.11A, but not subject to the provisions of No. S22.2, except as indicated in Nos. S5.523C and S5.523E where such use is not subject to the provisions of No. S9.11A and shall continue to be subject to Articles S9 (except No. S9.11A) and S11 procedures, and to the provisions of No. S22.2.

S5.536 Use of the 25.25-27.5 GHz band by the inter-satellite service is limited to space research and Earth exploration-satellite applications, and also transmissions of data originating from industrial and medical activities in space.

S5.536A Administrations installing earth exploration-satellite earth stations cannot claim protection from fixed and mobile stations operated by neighbouring administrations. In addition, earth stations operating in the earth exploration-satellite service should take into account Recommendation ITU-R SA.1278.

S5.536B In Germany, Saudi Arabia, Austria, Belgium, Brazil, Bulgaria, China, the Republic of Korea, Denmark, Egypt, United Arab Emirates, Spain, Estonia, Finland, France, Hungary, India, Islamic Republic of Iran, Ireland, Israel, Italy, Jordan, Kenya, Kuwait, Lebanon, Libya, Liechtenstein, Lithuania, Moldova, Norway, Oman, Uganda, Pakistan, the Philippines, Poland, Portugal, Syria, Slovakia, Czech Republic, Romania, the United Kingdom, Singapore, Sweden, Switzerland, Tanzania, Turkey, Viet Nam and Zimbabwe, earth stations operating in the Earth exploration-satellite service in the band 25.5-GHz shall not claim protection from, or constrain the use and deployment of, stations of the fixed and mobile services.

S5.537 Space services using non-geostationary satellites operating in the inter-satellite service in the band 27-27.5 GHz are exempt from the provisions of No. S22.2.

S5.538 Additional allocation: the bands 27.500-27.501 GHz and 29.999-30.000 GHz are also allocated to the fixed-satellite service (space-to-Earth) on a primary basis for the beacon transmissions intended for up-link power control. Such space-to-Earth transmissions shall not exceed an equivalent isotropically radiated power (e.i.r.p.) of +10 dBW in the direction of adjacent satellites on the geostationary-satellite orbit. In the band 27.500-27.501 GHz, such space to-Earth transmissions shall not produce a power flux-density in excess of the values specified in Article S21, Table S21-4 on the Earth's surface.

S5.539 The band 27.5-30 GHz may be used by the fixed-satellite service (Earth-to-space) for the provision of feeder links for the broadcasting-satellite service.

S5.540 Additional allocation: the band 27.501-29.999 GHz is also allocated to the fixed-satellite service (space-to-Earth) on a secondary basis for beacon transmissions intended for up-link power control.

S5.541 In the band 28.5-30 GHz, the earth exploration-satellite service is limited to the transfer of data between stations and not to the primary collection of information by means of active or passive sensors.

S5.541A Feeder links of non-geostationary networks in the mobile-satellite service and geostationary networks in the fixed-satellite service operating in the band 29.1-29.5 GHz (Earth-to-space) shall employ uplink adaptive power control or other methods of fade compensation, such that the earth station transmissions shall be conducted at the power level required to meet the desired link performance while reducing the level of mutual interference between both networks. These methods shall apply to networks for which Appendix S4 coordination information is considered as having been received by the Bureau after 17 May 1996 and until they are changed by a future competent world radiocommunication conference. Administrations submitting Appendix S4 information for coordination before this date are encouraged to utilize these techniques to the extent practicable. These methods are also subject to review by ITU-R (see Resolution 121 (Rev.WRC-97)).

S5.542 Additional allocation: in Algeria, Saudi Arabia, Bahrain, Bangladesh, Brunei Darussalam, Cameroon, China, the Congo, the Republic of Korea, Egypt, the United Arab Emirates, Eritrea, Ethiopia, Guinea, India, the Islamic Republic of Iran, Iraq, Japan, Jordan, Kuwait, Lebanon, Malaysia, Mali, Morocco, Mauritania, Nepal, Pakistan, the Philippines, Qatar, Syria, Democratic People's Republic of Korea, Somalia, Sudan, Sri Lanka and Chad, the band 29.5-31 GHz is also allocated to the fixed and mobile services on a secondary basis. The power limits specified in Nos. S21.3 and S21.5 shall apply.

S5.543 The band 29.95-30 GHz may be used for space-to-space links in the Earth exploration-satellite service for telemetry, tracking, and control purposes, on a secondary basis.

S5.544 In the band 31-31.3 GHz the power flux-density limits specified in Article S21, Table S21-4 shall apply to the space research service.

S5.545 Different category of service: in Armenia, Azerbaijan, Belarus, Bulgaria, Georgia, Kazakstan, Mongolia, Kyrgyzstan, Russian Federation, Tajikistan, Turkmenistan and Ukraine, the allocation of the band 31-31.3 GHz to the space research service is on a primary basis (see No. S5.33).

S5.546 Different category of service: in Saudi Arabia, Armenia, Azerbaijan, Belarus, Bulgaria, Egypt, United Arab Emirates, Spain, Estonia, Finland, Georgia, Hungary, the Islamic Republic of Iran, Israel, Jordan, Kazakstan, Latvia, Lebanon, Moldova, Mongolia, Uzbekistan, Poland, Syria, Kyrgyzstan, Romania, the United Kingdom, Russian Federation, Tajikistan, Turkmenistan, Turkey and Ukraine, the allocation of the band 31.5-31.8 GHz to the fixed and mobile, except aeronautical mobile, services is on a primary basis (see No. S5.33).

S5.547 The bands 31.8-33.4 GHz, 51.4-52.6 GHz, 55.78-59 GHz and 64-66 GHz are available for high-density applications in the fixed service (see Resolution 726 (WRC-97)).

S5.547A Use of the band 31.8-33.4 GHz by the fixed service shall be in accordance with Resolution 126 (WRC-97).

S5.547B Alternative allocation: in the United States, the band 31.8-32 GHz is allocated to the radionavigation and space research (deep space) (space-to-Earth) services on a primary basis.

S5.547C Alternative allocation: in the United States, the band 32-32.3 GHz is allocated to the inter-satellite, radionavigation and space research (deep space) (space-to-Earth) services on a primary basis.

S5.547D Alternative allocation: in the United States, the band 32.3-33 GHz is allocated to the inter-satellite and radionavigation services on a primary basis.

S5.547E Alternative allocation: in the United States, the band 33-33.4 GHz is allocated to the radionavigation service on a primary basis.

S5.548 In designing systems for the inter-satellite and radionavigation services in the band 32-33 GHz, and for the space research service (deep space) in the band 31.8-32.3 GHz, administrations shall take all necessary measures to prevent harmful interference between these services, bearing in mind the safety aspects of the radionavigation service (see Recommendation 707).

S5.549 Additional allocation: in Saudi Arabia, Bahrain, Bangladesh, Egypt, the United Arab Emirates, Gabon, Indonesia, the Islamic Republic of Iran, Iraq, Israel, Jordan, Kuwait, Lebanon, Libya, Malaysia, Mali, Malta, Morocco, Mauritania, Nepal, Nigeria, Oman, Pakistan, the Philippines, Qatar, Dem. Rep. of the Congo, Syria, Senegal, Singapore, Somalia, Sudan, Sri Lanka, Togo, Tunisia and Yemen, the band 33.4-36 GHz is also allocated to the fixed and mobile services on a primary basis.

S5.550 Different category of service: in Armenia, Azerbaijan, Belarus, Bulgaria, Georgia, Kazakstan, Mongolia, Uzbekistan, Kyrgyzstan, Russian Federation, Tajikistan, Turkmenistan and Ukraine, the allocation of the band 34.7-35.2 GHz to the space research service is on a primary basis (see No. S5.33).

S5.551 Radars located on spacecraft may be operated on a primary basis in the band 35.5-35.6 GHz. (SUP—WRC-97).

S5.551A In the band 35.5-36.0 GHz, active spaceborne sensors in the earth exploration-satellite and space research services shall not cause harmful interference to, claim protection from, or otherwise impose constraints on operation or development of the radiolocation service, the meteorological aids service and other services allocated on a primary basis.

S5.551B The use of the band 41.5-42.5 GHz by the fixed-satellite service (space-to-Earth) is subject to Resolution 128 (WRC-97).

S5.551C Alternative allocation: in the French overseas territories in Regions 2 and 3, the Republic of Korea and India, the band 40.5-42.5 GHz is allocated to the broadcasting, broadcasting-satellite and fixed services on a primary basis.

S5.551D Additional allocation: in Algeria, Saudi Arabia, Bahrain, Benin, Cameroon, Egypt, United Arab Emirates, Israel, Jordan, Kuwait, Lebanon, Libya, Mali, Morocco, Mauritania, Nigeria, Oman, Qatar, Syria, Tunisia and Yemen, the band 40.5-42.5 GHz is also allocated to the fixed-satellite service (space-to-Earth) on a primary basis. The use of this band by the fixed-satellite service shall be in accordance with Resolution 134 (WRC-97).

S5.551E Use of the band 40.5-42.5 GHz by the fixed-satellite service shall be in accordance with Resolution 134 (WRC-97).

S5.551F Different category of service: in Japan, the allocation of the band 41.5-42.5 GHz to the mobile service is on a primary basis (see No. S5.33).

S5.552 The allocation of the spectrum for the fixed-satellite service in the bands 42.5-43.5 GHz and 47.2-50.2 GHz for Earth-to-space transmission is greater than that in the band 37.5-39.5 GHz for space-to-Earth transmission in order to accommodate feeder links to broadcasting satellites. Administrations are urged to take all practicable steps to reserve the band 47.2-49.2 GHz for feeder links for the broadcasting-satellite service operating in the band 40.5-42.5 GHz.

S5.552A The allocation to the fixed service in the bands 47.2-47.5 GHz and 47.9-48.2 GHz is designated for use by high altitude platform stations. The use of the bands 47.2-47.5 GHz and 47.9-48.2 GHz is subject to the provisions of Resolution 122 (WRC-97).

S5.553 In the bands 43.5-47 GHz, 66-71 GHz, 95-100 GHz, 134-142 GHz, 190-200 GHz and 252-265 GHz, stations in the land mobile service may be operated subject to not causing harmful interference to the space radiocommunication services to which these bands are allocated (see No. S5.43).

S5.554 In the bands 43.5-47 GHz, 66-71 GHz, 95-100 GHz, 134-142 GHz, 190-200 GHz and 252-265 GHz, satellite links connecting land stations at specified fixed points are also authorized when used in conjunction with the mobile-satellite service or the radionavigation-satellite service.

S5.555 Additional allocation: the bands 48.94-49.04 GHz, 97.88-98.08 GHz, 140.69-140.98 GHz, 144.68-144.98 GHz, 145.45-145.75 GHz, 146.82-147.12 GHz, 250-251 GHz and 262.24-262.76 GHz are also allocated to the radio astronomy service on a primary basis.

S5.555A The band 50.2-50.4 GHz is also allocated, on a primary basis, to the fixed and mobile services until 1 July 2000.

S5.556 In the bands 51.4-54.25 GHz, 58.2-59 GHz, 64-65 GHz, 72.77-72.91 GHz and 93.07-93.27 GHz, radio astronomy observations may be carried out under national arrangements.

S5.556A Use of the bands 54.25-56.9 GHz, 57-58.2 GHz and 59-59.3 GHz by the inter-satellite service is limited to satellites in the geostationary-satellite orbit. The single-entry power flux-density at all altitudes from 0 km to 1000 km above the Earth's surface produced by a station in the inter-satellite service, for all conditions and for all methods of modulation, shall not exceed −147 dB(W/m²/100 MHz) for all angles of arrival.

S5.556B Additional allocation: in Japan, the band 54.25-55.78 GHz is also allocated to the mobile service on a primary basis for low-density use.

S5.557 Additional allocation: in Japan, the band 55.78-58.2 GHz is also allocated to the radiolocation service on a primary basis.

S5.558 In the bands 55.78-58.2 GHz, 59-64 GHz, 66-71 GHz, 116-134 GHz, 170-182 GHz and 185-190 GHz, stations in the aeronautical mobile service may be operated subject to not causing harmful interference to the inter-satellite service (see No. S5.43).

S5.558A Use of the band 56.9-57 GHz by inter-satellite systems is limited to links between satellites in geostationary-satellite orbit and to transmissions from non-geostationary satellites in high-Earth orbit to those in low-Earth orbit. For links between satellites in the geostationary-satellite orbit, the single entry power flux-density at all altitudes from 0 km to 1000 km above the Earth's surface, for all conditions and for all methods of modulation, shall not exceed −147 dB(W/m²/100 MHz) for all angles of arrival.

S5.559 In the bands 59-64 GHz and 126-134 GHz, airborne radars in the radiolocation service may be operated subject to not causing harmful interference to the inter-satellite service (see No. S5.43).

S5.560 In the band 78-79 GHz radars located on space stations may be operated on a primary basis in the Earth exploration-satellite service and in the space research service.

S5.561 In the band 84-86 GHz, stations in the fixed, mobile and broadcasting services shall not cause harmful interference to broadcasting-satellite stations operating in accordance with the decisions of the appropriate frequency assignment planning conference for the broadcasting-satellite service.

S5.562 The use of the band 94-94.1 GHz by the Earth exploration-satellite (active) and space research (active) services is limited to spaceborne cloud radars.

S5.564 Additional allocation: in Germany, Argentina, Spain, Finland, France, India, Italy and the Netherlands, the band 261-265 GHz is also allocated to the radio astronomy service on a primary basis.

S5.565 The frequency band 275-400 GHz may be used by administrations for experimentation with, and development of, various active and passive services. In this band a need has been identified for the following spectral line measurements for passive services:

-radio astronomy service: 278-280 GHz and 343-348 GHz;

-Earth exploration-satellite service (passive) and space research service (passive): 275-277 GHz, 300-302 GHz, 324-326 GHz, 345-347 GHz, 363-365 GHz and 379-381 GHz.

Future research in this largely unexplored spectral region may yield additional spectral lines and continuum bands of interest to the passive services. Administrations are urged to take all practicable steps to protect these passive services from harmful interference until the next competent world radiocommunication conference.

II. Old Numbering Scheme

459 In the Region 2 polar areas (north of 60°N and south of 60°S), which are subject to auroral disturbances, the aeronautical fixed service is the primary service in the band 160-190 kHz.

471 The bands 490-495 kHz and 505-510 kHz shall be subject to the provisions of No. 3018 until the entry into force of the reduced guardband in accordance with Resolution 210 (Mob-87).

472 The frequency 500 kHz is the international distress and calling frequency for Morse radiotelegraphy. The conditions for its use are prescribed in Articles 37, 38, N 38 and 60.

472A In the maritime mobile service, the frequency 490 kHz is, from the date of full implementation of the GMDSS (see Resolution 331 (Mob-87)), to be used exclusively for the transmission by coast stations of navigational and meteorological warnings and urgent information to ships, by means of narrowband direct-printing telegraphy. The conditions for use of the frequency 490 kHz are prescribed in Articles N 38 and 60, and Resolution 329 (Mob-87). In using the band 415-495 kHz for the aeronautical radionavigation service, administrations are requested to ensure that no harmful interference is caused to the frequency 490 kHz.

474 The conditions for the use of frequency 518 kHz by the maritime mobile service are prescribed in Articles 38, N38 and 60 (see Resolution 324 (Mob-87) and Article 14A).

480 In Region 2, the use of the band 1605-1705 kHz by stations of the broadcasting service is subject to the plan established by the Regional Administrative Radio Conference (Rio de Janeiro, 1988.)

In Region 2, in the band 1625-1705 kHz, the relationship between the broadcasting, fixed and mobile services is shown in No. 419. However, the examination of frequency assignments to stations of the fixed and mobile services in the band 1625-1705 kHz under No. 1241 shall take account of the allotments appearing in the Plan established by the Regional Administrative Radio Conference (Rio de Janeiro, 1988).

591 Subject to agreement obtained under the procedure set forth in Article 14, the band 117.975-137 MHz is also allocated to the aeronautical mobile-satellite (R) service on a secondary basis and on the condition that harmful interference is not caused to the aeronautical mobile (R) service.

599A The use of the band 137-138 MHz by the mobile-satellite service is subject to the application of the coordination and notification procedures set forth in Resolution 46. However, coordination of a space station of the mobile-satellite service with respect to terrestrial services is required only if the power flux-density produced by the station exceeds—125 dB(W/m²2/4 kHz) at the Earth's surface. The above power flux-density limit shall apply until such time as a competent world administrative radio conference revises it. In making assignments to the space stations in the mobile-satellite service in the above band, administrations shall take all practicable steps to protect the radio astronomy service in the 150.05-153 MHz band from harmful interference from unwanted emissions.

599B The use of the bands 137-138 MHz, 148-149.9 MHz and 400.15-401 MHz by the mobile-satellite service and the band 149.9-150.05 MHz by the land mobile-satellite service is limited to non-geostationary-satellite systems.

608A The use of the band 148-149.9 MHz by the mobile-satellite service is subject to the application of the coordination and notification procedures set forth in Resolution 46 (WARC-92). The mobile-satellite service shall not constrain the development and use of fixed, mobile and space operation services in the band 148-149.9 MHz. Mobile earth stations in the mobile-satellite service shall not produce a power flux-density in excess of −150 dB(W/m²/4 kHz) outside national boundaries.

608B The use of the band 149.9-150.05 MHz by the land mobile-satellite service is subject to the application of the coordination and notification procedures set forth in Resolution 46 (WARC-92). The land mobile-satellite service shall not constrain the development and use of the radionavigation-satellite service in the band 149.9-150.05 MHz. Land mobile earth stations of the land mobile-satellite service shall not produce power flux-density in excess of −150 dB(W/m²/4 kHz) outside national boundaries.

647B The use of the band 400.15-401 MHz by the mobile-satellite service is subject to the application of the coordination and notification procedures set forth in Resolution 46. However, coordination of a space station of the mobile-satellite service with respect to terrestrial services is required only if the power flux-density produced by the station exceeds −125 dB(W/m²/4 kHz) at the Earth's surface. The above power flux-density limit shall apply until such time as a competent world administrative radio conference revises it. In making assignments to the space stations in the mobile-satellite service in the above band, administrations shall take all practicable steps to protect the radio astronomy service in the band 406.1-410 MHz from harmful interference from unwanted emissions.

669 In the maritime mobile service, the frequencies 457.525 MHz, 457.550 MHz, 457.575 MHz, 467.525 MHz, 467.550 MHz and 467.575 MHz may be used by onboard communication stations. The use of these frequencies in territorial waters may be subject to the national regulations of the administration concerned. The characteristics of the equipment used shall conform to those specified in Appendix 20.

733 The bands 1610-1626.5 MHz, 5000-5250 MHz and 15.4-15.7 GHz are also allocated to the aeronautical mobile-satellite (R) service on a primary basis. Such use is subject to agreement obtained under the procedure set forth in Article 14.

753F The use of the band 2483.5-2500 MHz by the mobile-satellite and the radiodetermination-satellite services is subject to the application of the coordination and notification procedures set forth in Resolution 46 (WARC-92). Coordination of space stations of the mobile-satellite and radiodetermination-satellite services with respect to terrestrial services is required only if the power flux-density produced at the Earth's surface exceeds the limits in No. 2566. In respect of assignments operating in this band, the provisions of Section II, paragraph 2.2 of Resolution 46 (WARC-92) shall also be applied to geostationary transmitting space stations with respect to terrestrial stations.

792A The use of the bands 4500-4800 MHz, 6725-7025 MHz, 10.7-10.95 GHz, 11.2-11.45 GHz and 12.75-13.25 GHz by the fixed-satellite service shall be in accordance with the provisions of Appendix 30B.

796 The band 5000-5250 MHz is to be used for the operation of the international standard system (microwave landing system) for precision approach and landing. The requirements of this system shall take precedence over other uses of this band.

797 The bands 5000-5250 MHz and 15.4-15.7 GHz are also allocated to the fixed-satellite service and the inter-satellite service, for connection between one or more earth stations at specified fixed points on the Earth and space stations, when these services are used in conjunction with the aeronautical radionavigation and/or aeronautical mobile (R) service. Such use shall be subject to agreement obtained under the procedure set forth in Article 14.

909 In the bands 54.25-58.2 GHz, 59-64 GHz, 116-134 GHz, 170-182 GHz and 185-190 GHz, stations in the aeronautical mobile service may be operated subject to not causing harmful interference to the inter-satellite service (see No. 435).

917 In the bands 140.69-140.98 GHz all emissions from airborne stations, and from space stations in the space-to-Earth direction, are prohibited.

United States (US) Footnotes

US7 In the band 420-450 MHz and within the following areas, the peak envelope power output of a transmitter employed in the amateur service shall not exceed 50 watts, unless expressly authorized by the Commission after mutual agreement, on a case-by-case basis, between the Federal Communications Commission Engineer in Charge at the applicable district office and the military area frequency coordinator at the applicable military base. For areas (e) through (j), the appropriate military coordinator is located at Peterson AFB, CO.

(a) Those portions of Texas and New Mexico bounded on the south by latitude 31° 45′ North, on the east by longitude 104° 00′ West, on the north by latitude 34°30′ North, and on the west by longitude 107° 30′ West;

(b) The entire State of Florida including the Key West area and the areas enclosed within a 322-kilometer (200-mile) radius of Patrick Air Force Base, Florida (latitude 28°21′ North, longitude 80° 43′ West), and within a 322-kilometer (200-mile) radius of Eglin Air Force Base, Florida (latitude 30° 30′ North, longitude 86° 30′ West);

(c) The entire State of Arizona;

(d) Those portions of California and Nevada south of latitude 37° 10′ North, and the areas enclosed within a 322-kilometer (200-mile) radius of the Pacific Missile Test Center, Point Mugu, California (latitude 34° 09′ North, longitude 119° 11′ West).

(e) In the State of Massachusetts within a 160-kilometer (100-mile) radius around locations at Otis Air Force Base, Massachusetts (latitude 41° 45′ North, longitude 70° 32′ West).

(f) In the State of California within a 240-kilometer (150-mile) radius around locations at Beale Air Force Base, California (latitude 39° 08′ North, longitude 121° 26′ West).

(g) In the State of Alaska within a 160-kilometer (100-mile) radius of Clear, Alaska (latitude 64° 17′ North, longitude 149° 10′ West).

(h) In the State of North Dakota within a 160-kilometer (100-mile) radius of Concrete, North Dakota (latitude 48° 43′ North, longitude 97° 54′ West).

(i) In the States of Alabama, Georgia and South Carolina within a 200-kilometer (124-mile) radius of Warner Robins Air Force Base, Georgia (latitude 32° 38′ North, longitude 83° 35′ West).

(j) In the State of Texas within a 200-kilometer (124-mile) radius of Goodfellow Air Force Base, Texas (latitude 31° 25′ North, longitude 100° 24′ West).

* * * * *

US78 In the mobile service, the frequencies between 1435 and 1535 MHz will be assigned for aeronautical telemetry and associated telecommand operations for flight testing of manned or unmanned aircraft and missiles, or their major components. Permissible usage includes telemetry associated with launching and reentry into the earth's atmosphere as well as any incidental orbiting prior to reentry of manned objects undergoing flight tests. The following frequencies are shared with flight telemetry mobile stations: 1444.5, 1453.5, 1501.5, 1515.5, 1524.5 and 1525.5 MHz.

* * * * *

US221 Use of the mobile service in the bands 525-535 kHz and 1605-1615 kHz is limited to distribution of public service information from Travelers Information stations operating on 530 kHz and 1610 kHz.

* * * * *

US256 Radio astronomy observations may be made in the band 1718.8-1722.2 MHz on an unprotected basis. Agencies providing other services in this band in the geographic areas listed below should bear in mind that their operations may affect those observations, and those agencies are encouraged to minimize potential interference to the observations insofar as it is practicable.

Hat Creek Observatory, Hat Creek, California | Rectangle between latitudes 40° 00′ N and 42° 00′ N and between latitudes 120° 15′ W and 122° 15′ W.
Owens Valley Radio Observatory, Big Pine, California | Two contiguous rectangles, one between 36° 00′ N and 37°00′ N and between longitudes 117° 40′ W and 118° 30′ W and the second between latitudes 37° 00′ N and 30° 00′ N and between longitudes 118° 00′ W and 118° 50′ W.
Haystack Radio Observatory, Tyngsboro, Massachusetts | Rectangle between latitudes 41° 00′ N and 43° 00′ N and between longitudes 71° 00′ W and 73° 00′ W.
National Astronomy and Ionosphere Center, Arecibo, Puerto Rico | Rectangle between latitudes 17° 30′ N and 19° 00′ N and between longitudes 65° 10′ W and 68° 00′ W.
National Radio Astronomy Observatory, Green Bank, West Virginia | Rectangle between latitudes 37° 30′ N and 39° 15′ N and between longitudes 78° 30′ W and 80° 30′ W.

US257 Radio astronomy observations may be made in the band 4950-4990 MHz at certain Radio Astronomy Observatories indicated below:

National Astronomy and Ionosphere Center, Arecibo, Puerto Rico | Rectangle between latitudes 17° 30′ N and 19° 00′ N and between latitudes 65° 10′ W and 68° 00′ W.
Haystack Radio Observatory, Tyngsboro, Massachusetts | Rectangle between latitudes 41° 00′ N and 43° 00′ N and between longitudes 71° 00′ W and 73° 00′ W.
National Radio Astronomy Observatory, Green Bank, West Virginia | Rectangle between latitudes 37° 00′ N and 39° 15′ N and between longitudes 78° 30′ N and 80° 30′ W.
National Radio Astronomy Observatory, Socorro, New Mexico | Rectangle between latitudes 32° 30′ N and 35° 30′ N and between longitudes 106° 00′ W and 109° 00′ W.
Owens Valley Radio Observatory, Big Pine, California | Two contiguous rectangles, one between latitudes 36° 00′ N and 37° 00′ N and between longitudes 117° 40' W and 118° 30′ W and the second between latitudes 37° 00′ N and 38° 00′ N and between longitudes 118° 00′ W and 118° 50′ W.
Hat Creek Observatory, Hat Creek, California | Rectangle between latitudes 40° 00′ N and 42° 00′ N and between longitudes 120° 15′ W and 122° 15′ W.

Every practicable effort will be made to avoid the assignment of frequencies in the band 4950-4990 MHz to stations in the fixed and mobile services within the geographic areas given above. In addition, every practicable effort will be made to avoid the assignment of frequencies in this band to stations in the aeronautical mobile service which operate outside of those geographic areas, but which may cause harmful interference to the listed observatories. Should such assignments result in harmful interference to these observatories, the situation will be remedied to the extent practicable.

* * * * *

US296 In the bands designated for ship wide-band telegraphy, facsimile and special transmission systems, the following assignable frequencies are available to non-Federal government stations on a shared basis with Federal government stations: 2070.5, 2072.5, 2074.5, 2076.5, 4154.5, 4169.5, 6235.5, 6259.5, 8302.5, 8338.5, 12370.5, 12418.5, 16551.5, 16614.5, 18847.5, 18868.5, 22181.5, 22238.5, 25123.5, and 25159.5 kHz.

* * * * *

US303 In the band 2285-2290 MHz, non-Federal government space stations in the space research, space operations and earth exploration-satellite services may be authorized to transmit to the Tracking and Data Relay Satellite System subject to such conditions as may be applied on a case-by-case basis. Such transmissions shall not cause harmful interference to authorized Federal government stations. The power flux density at the Earth's surface from such non-Federal government stations shall not exceed −144 to −154 dBW/m²/4 kHz, depending on angle of arrival, in accordance with ITU Radio Regulation S21.16.

* * * * *

US311 Radio astronomy observations may be made in the band 1350-1400 MHz on an unprotected basis at certain Radio Astronomy Observatories indicated below:

National Astronomy and Ionosphere Center, Arecibo, Puerto Rico | Rectangle between latitudes 17° 30′ N and 19° 00′ N and between longitudes 65° 10′ W and 68° 00′ W.
National Radio Astronomy Observatory, Socorro, New Mexico | Rectangle between latitudes 32° 30′ N and 35° 30′ N and between longitudes 106° 00′ W and 109° 00′ W.
National Radio Astronomy Observatory, Green Bank, West Virginia | Rectangle between latitudes 37° 30′ N and 39° 15′ N and between longitudes 78° 30′ W and 80° 30′ W.

National Radio Astronomy Observatory, Very Long Baseline Array Stations | 80 kilometers (50 mile) radius centered on:: Latitude (North) | 80 kilometers (50 mile) radius centered on:: Longitude (West)
Pie Town, NM | 34° 18′ | 108° 07′
Kitt Peak, AZ | 31° 57′ | 111° 37′
Los Alamos, NM | 35° 47′ | 106° 15′
Fort Davis, TX | 30° 38′ | 103° 57′
North Liberty, IA | 41° 46′ | 91° 34′
Brewster, WA | 48° 08′ | 119° 41′
Owens Valley, CA | 37° 14′ | 118° 17′
Saint Croix, VI | 17° 46′ | 64° 35′
Mauna Kea, HI | 19° 48′ | 155° 27′
Hancock, NH | 42° 56′ | 71° 59′

Every practicable effort will be made to avoid the assignment of frequencies in the band 1350-1400 MHz to stations in the fixed and mobile services which could interfere with radio astronomy observations within the geographic areas given above. In addition, every practicable effort will be made to avoid assignment of frequencies in this band to stations in the aeronautical mobile service which operate outside of those geographic areas, but which may cause harmful interference to the listed observatories. Should such assignments result in harmful interference to these observatories, the situation will be remedied to the extent practicable.

* * * * *

US319 In the bands 137-138 MHz, 148-149.9 MHz, 149.9-150.05 MHz, 399.9-400.05 MHz, 400.15-401 MHz, 1610-1626.5 MHz, and 2483.5-2500 MHz, Federal government stations in the mobile-satellite service shall be limited to earth stations operating with non-Federal government space stations.

* * * * *

US322 Use of the bands 149.9-150.5 MHz and 399.9-400.05 MHz by the mobile-satellite service (Earth-to-space) is limited to non-voice, non-geostationary satellite systems, including satellite links between land earth stations.

* * * * *

Non-Federal Government (NG) Footnotes

* * * * *

NG47 In Alaska, frequencies within the band 2655-2690 MHz are not available for assignment to terrestrial stations.

* * * * *

NG102 Use of the fixed-satellite service in the bands 2500-2655 MHz (space-to-Earth) and 2655-2690 MHz (Earth-to-space) is limited as follows:

(a) For common carrier use in Alaska, for intra-Alaska service only, and in the mid- and western-Pacific areas, including American Samoa, Guam, the Northern Mariana Islands, and Hawaii, and under the Compacts of Free Association with the Federated States of Micronesia and the Republic of the Marshall Islands.

(b) For educational use in the contiguous United States, Alaska, and the mid- and western-Pacific areas, including American Samoa, Guam, the Northern Mariana Islands, and Hawaii.

Such use is subject to agreement with administrations having services operating in accordance with the Table, which may be affected. In the band 2500-2655 MHz, unless such agreement includes the use of higher values, the power flux density at the Earth's surface produced by emissions from a space station in this service shall not exceed the values set forth in Part 25 of the Rules for this frequency band.

* * * * *

NG120 Frequencies in the band 928-960 MHz may be assigned for multiple address systems and mobile operations on a primary basis as specified in 47 CFR part 101.

* * * * *

NG124 Within designated segments of the bands that comprise 30.85-47.41 MHz, 150.8-159.465 MHz, and 453.0125-467.9875 MHz, police licensees are authorized to operate low power radio transmitters on a secondary, non-interference basis in accordance with the provisions of 47 CFR 2.803 and 90.20(e)(5).

* * * * *

NG128 In the band 535-1705 kHz, AM broadcast licensees or permittees may use their AM carrier on a secondary basis to transmit signals intended for both broadcast and non-broadcast purposes. In the band 88-108 MHz, FM broadcast licensees or permittees are permitted to use subcarriers on a secondary basis to transmit signals intended for both broadcast and non-broadcast purposes. In the bands 54-72, 76-88, 174-216, 470-608 and 614-806 MHz, TV broadcast licensees or permittees are permitted to use subcarriers on a secondary basis for both broadcast and non-broadcast purposes.

* * * * *

NG147 Stations in the broadcast auxiliary service and private radio services licensed as of July 25, 1985, or on a subsequent date following as a result of submitting an application for license on or before July 25, 1985, may continue to operate on a primary basis with the mobile-satellite service and the radiodetermination satellite service.

* * * * *

Federal Government (G) Footnotes

* * * * *

G106 The bands 2501-2502 kHz, 5003-5005 kHz, 10003-10005 kHz, 15005-15010 kHz, 19990-19995 kHz, 20005-20010 kHz and 25005-25010 kHz are also allocated, on a secondary basis, to the space research service. The space research transmissions are subject to immediate temporary or permanent shutdown in the event of interference to the reception of the standard frequency and time broadcasts.

[FR Doc. 00-81 Filed 1-28-00; 8:45 am]

BILLING CODE 6712-01-P